FEDERAL COMMUNICATIONS COMMISSION

47 CFR Part 1

[MD Docket No. 22-301; MD Docket No. 23-159; FCC 23-34; FRS ID 142215]

Assessment and Collection of Regulatory Fees for Fiscal Year 2023

AGENCY: Federal Communications Commission.

ACTION: Proposed rule.

SUMMARY: In this document, the Federal Communications Commission (Commission) seeks comment on revising the fee schedule of FY 2023 regulatory fees and on several additional regulatory fee issues, as described in the text below.

DATES: Submit comments on or before June 14, 2023; and reply comments on or before June 29, 2023.

ADDRESSES: Pursuant to sections 1.415 and 1.419 of the Commission's rules, 47 CFR 1.415, 1.419, interested parties may file comments and reply comments identified by MD Docket No. 23-159, by any of the following methods below. Comments and reply comments may be filed using the Commission's Electronic Comment Filing System (ECFS). See Electronic Filing of Documents in Rulemaking Proceedings, 63 FR 24121 (1998).

1. Comment Filing Procedures. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

2. Effective March 19, 2020, and until further notice, the Commission no longer accepts any hand or messenger delivered filings. Until further notice, the filing window is not open at the Commission's office located at 9050 Junction Drive, Annapolis, MD 20701.

3. Pursuant to section 1.49 of the Commission's rules, 47 CFR 1.49, parties to this proceeding must file any documents in this proceeding using the Commission's Electronic Comment Filing System (ECFS): https://apps.fcc.gov/ecfs/.

4. Materials in Accessible Formats. To request materials in accessible formats for people with disabilities (Braille, large print, electronic files, audio format), send an email to fcc504@fcc.gov or call the Consumer and Governmental Affairs Bureau at 202-418-0530 (voice).

5. Availability of Documents. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554.

For detailed instructions for submitting comments and additional information on the rulemaking process, see the SUPPLEMENTARY INFORMATION section of this document.

FOR FURTHER INFORMATION CONTACT: Roland Helvajian, Office of Managing Director at (202) 418-0444 or Roland.Helvajian@FCC.Gov.

SUPPLEMENTARY INFORMATION: This is a summary of the Commission's Notice of Proposed Rulemaking (NPRM), FCC 23-34, MD Docket No. 22-301, and MD Docket No. 23-159, adopted on May 5, 2023 and released on May 8, 2023. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554. To request materials in accessible formats for people with disabilities (Braille, large print, electronic files, audio format), send an email to fcc504@fcc.gov or call the Consumer and Governmental Affairs Bureau at 202-418-0530 (voice).

I. Administrative Matters

6. Ex Parte Information. The proceeding initiated by this Notice of Proposed Rulemaking, in which we seek comment on proposals as described above, shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

7. Initial Regulatory Flexibility Analysis. The Regulatory Flexibility Act of 1980, as amended (RFA), requires that an agency prepare a regulatory flexibility analysis for notice and comment rulemakings, unless the agency certifies that “the rule will not, if promulgated, have a significant economic impact on a substantial number of small entities.” Accordingly, we have prepared an Initial Regulatory Flexibility Analysis (IRFA) concerning the potential impact of rule and policy change proposals on small entities accompanying the NPRM. The IRFA) is set forth in the back of this document.

8. Initial Paperwork Reduction Act of 1995 Analysis. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

II. Introduction

9. For fiscal year (FY) 2023, the Commission is required to collect $390,192,000 in regulatory fees, pursuant to sections 9 and 9A of the Communications Act of 1934, as amended (Communications Act or Act), and the Commission's FY 2023 Appropriations Act. In this annual NPRM, we seek comment on the Commission's proposed methodology and regulatory fees for FY 2023, as set forth in Tables 2 and 3. Based on the record received in response to the Notice of Inquiry (NOI) in MD Docket No. 22-301, and after a review of the work being conducted by Commission employees, we seek comment on a proposal to treat certain FTEs from the Office of General Counsel, the Office of Economics and Analytics, and the Public Safety and Homeland Security Bureau that have previously been considered indirect FTEs as direct FTEs for the purpose of calculating regulatory fees. Specifically, where we are able to determine that time is being spent on work that is directly related to the oversight and regulation of regulatory fee payors in a core bureau and that such determination is reasonably accurate for the fiscal year, we propose to reallocate the FTE burden of such work as direct to the relevant core bureau(s).

10. We also seek comment on several additional regulatory fee issues, including: (i) the calculation of television and radio broadcaster regulatory fees, including the modification of the existing grid by adding a new tier for AM and FM radio stations; (ii) defining the category of operations for on-orbit servicing (OOS) and rendezvous and proximity operations (RPO) for regulatory fee purposes, including whether a separate regulatory fee category is necessary, and how to apply regulatory fees to OOS and RPO spacecraft specifically operating near the geostationary satellite orbit arc, including the two licensed OOS and RPO spacecraft that remain operational in FY 2023; (iii) evaluating how our proposals may promote or inhibit advances in diversity, equity, inclusion, and accessibility; (iv) considering whether to continue in FY 2023 several of the temporary measures we implemented in FYs 2020 through 2022; and (v) whether to permit regulatory fee payors to prepay their regulatory fees in installments.

III. Discussion

11. In accordance with the statute, each year, in an annual fee proceeding, the Commission proposes adjustments to the prior fee schedule under section 9(c) to “(A) reflect unexpected increases or decreases in the number of units subject to the payment of such fees; and (B) result in the collection of the amount required” by the Commission's annual appropriation. Such changes are rarely the subject of dispute and are usually addressed in the more ministerial changes to the fee schedule. The Commission will also propose amendments to the fee schedule under section 9(d) “if the Commission determines that the schedule requires amendment so that such fees reflect the full-time equivalent number of employees within the bureaus and offices of the Commission, adjusted to take into account factors that are reasonably related to the benefits provided to the payor of the fee by the Commission's activities. Challenges to the Commission's allocation of FTEs are not uncommon.

12. The Commission has explained that, consistent with its statutory directive, it bases regulatory fees on the direct FTEs in core bureaus. The Commission has stated that, given the Communication Act's explicit language that fees must reflect FTEs, the FTE counts are by far the most administrable starting point for regulatory fee allocations. The Commission does not assign direct FTEs within a bureau to specific fee categories by rote or at random, but rather in a manner that reflects the time spent by FTEs on a regulatory fee category, which is in itself a reflection of “benefit” to the fee category. Thus, the Commission has explained it continues to apportion regulatory fees across fee categories based on the number of direct FTEs in each core bureau and the proportionate number of indirect FTEs and to take into account factors that are reasonably related to the payor's benefits.

13. Full Time Equivalent (FTE) Allocation and Fee Calculation. The Commission allocates FTEs according to the nature of the work performed by its different organizational units. If the work performed by a group or office is directly related to our oversight and regulation of a regulatory fee category or categories in one of the four core licensing bureaus, then such FTEs are counted as a direct FTE. If the work cannot be allocated to one of the bureau's designated fee categories, the work performed is counted as an indirect FTE. Under this framework, the Commission, therefore, has historically assessed the allocation of FTEs by first determining the number of direct FTEs, those non-auctions FTEs that work in each of the Commission's core bureaus (i.e., the Wireless Telecommunications Bureau, the Media Bureau, part of the Wireline Competition Bureau, and part of the International Bureau), and then attributing all other non-auction FTEs outside the core bureaus and other Commission costs as indirect. Regulatory fees are initially apportioned across the regulatory fee categories based on the number of direct FTEs in each core bureau whose time is focused on a particular industry segment and then is adjusted “to take into account factors that are reasonably related to the benefits provided to the payor of the fee by the Commission's activities.”

14. The FTE time devoted to developing and implementing the Commission's spectrum auctions is not included in the calculation of regulatory fees and is not offset by the collection of regulatory fees. Instead, such FTE time is offset by the auction proceeds that the Commission is permitted to retain pursuant to section 309(j)(8)(B) of the Communications Act and the Commission's annual appropriation. Thus, spectrum auctions FTEs are not included in the calculation of regulatory fees and the Commission's methodology excludes all spectrum auction-related FTEs and their overhead from the regulatory fee calculations. To the extent that FTEs within core bureaus spend a portion of their time on auctions issues and a portion of their time on appropriated issues, their time is split and only the non-auctions portion of their time is reflected in the relevant core bureau's FTE count.

15. Early in each fiscal year, the Commission receives FTE data from its Human Resources Management office and identifies FTEs at the core bureau level (i.e., direct FTEs), which is then used to determine the FTE allocations for the four core bureaus. This FTE data is then validated through consultation with the bureaus and offices and apportioned to the various fee categories within each core bureau based on FTE time spent on each fee category. After the number of direct FTEs is determined for each core bureau of the Commission, the direct FTE numbers are used to calculate the percentage of the total amount of regulatory fees to be collected for a given fiscal year. We allocate appropriated amounts to be recovered proportionally based on the number of direct FTEs within each core bureau, with indirect FTEs allocated in proportion to the direct FTEs within each core bureau. Those proportions are then subdivided within each core bureau into fee categories among the regulatees served by the core bureau. Finally, within each regulatory fee category the amount to be collected is divided by a unit that allocates the regulatee's proportionate share based on an objective measure.

16. In prior regulatory fee proceedings, the Commission has categorized the FTEs in the Enforcement Bureau, Consumer and Governmental Affairs Bureau, Public Safety and Homeland Security Bureau, Chairwoman's and Commissioners' Offices, Office of the Managing Director, Office of General Counsel, Office of Inspector General, Office of Communications Business Opportunities, Office of Engineering and Technology, Office of Legislative Affairs, Office of Workplace Diversity, Office of Media Relations, Office of Economics and Analytics, and Office of Administrative Law Judges, along with some FTEs in the Wireline Competition Bureau and the International Bureau as indirect for regulatory fee purposes. Unlike the work of direct FTEs, the work of indirect FTEs in the non-core bureaus and offices is not focused on the oversight and regulation of a specific category of regulatory fee payors, but instead benefits the Commission, the telecommunications industry, and the public as a whole. The Commission's high percentage of indirect FTEs demonstrates that many of our activities and costs are not limited to a particular fee category.

17. In this NPRM, we are not proposing adjustments to our regulatory fee categories or methodologies such that our actions require 90 days' notice to Congress. Instead, in response to concerns expressed in the NOI record, we have undertaken a fresh, high level evaluation of the work of indirect FTEs. As more fully explained below, where we can determine that the work of a historically indirect FTE is directly related to our oversight and regulation of a regulatory fee payor, and we are confident that such determination is reasonably accurate for the fiscal year, we propose to consider the FTE burden of such work as direct to the relevant core bureau(s), and accordingly reallocate such indirect FTEs as direct, solely for the purposes of calculating regulatory fees.

18. In this NPRM, we propose and seek comment on regulatory fees for FY 2023 as set forth in Tables 2 and 3. In particular, and as fully discussed below, we seek comment on our proposal to reallocate a limited number of indirect FTEs within the Office of Economics and Analysis (OEA), the Office of General Counsel (OGC), and the Public Safety and Homeland Security Bureau (PSHSB) as direct FTEs and to incorporate them into the count of FTEs of the relevant core bureau, solely for the purposes of calculating regulatory fees for FY 2023.

19. We also seek comment on several additional regulatory fee issues, including: (i) the calculation of television and radio broadcaster regulatory fees, including the modification of the existing grid by adding a new tier for AM and FM radio stations; (ii) defining the category of operations for OOS and RPO for regulatory fee purposes, including whether a separate regulatory fee category is necessary, and how to apply regulatory fees to OOS and RPO spacecraft specifically operating near the geostationary satellite orbit arc, including the two licensed OOS and RPO spacecraft that remain operational in FY 2023; (iii) evaluating how our proposals may promote or inhibit advances in diversity, equity, inclusion, and accessibility; (iv) considering whether to continue in FY 2023 several of the temporary measures we implemented in FYs 2020 through 2022; and (v) whether to permit regulatory fee payors to prepay their regulatory fees in installments.

1. Assessment of Regulatory Fees

a. Methodology for Assessing Regulatory Fees

20. Congress has required us to collect $390,192,000 in regulatory fees for FY 2023. Section 9 of the Communications Act requires us to set regulatory fees to “reflect the full-time equivalent number of employees within the bureaus and offices of the Commission adjusted to take into account factors that are reasonably related to the benefits provided to the payor of the fee by the Commission's activities.” Our first step in establishing our regulatory fee schedule is to take into consideration the adjustments necessitated by the more discernable changes from the prior year regulatory fee proceeding, e.g., changes in the (i) FY appropriation, (ii) FTE levels, and (iii) relevant unit measures for each regulatory fee category. Such adjustments are often considered ministerial. Our second step is a more substantive review where we look to the core bureaus within the Commission in order to identify the number of direct non-auction FTEs in each core bureau. Once the direct FTEs are identified, we then allocate fees to specific fee categories within each core bureau. These proportional calculations allocate all Commission non-auction related costs across all fee categories.

21. For FY 2023, in response to the comments we received to our NOI, we propose to employ the same methodology, but, in addition to looking at the current allocation of direct FTEs within the core bureaus, we propose to rely on and include a high level analysis of the work of our indirect FTEs in non-core bureaus and offices and, where we can determine with reasonable accuracy for the fiscal year that such work is being spent on the regulation and oversight of a regulatory fee payor, we propose to reallocate the burden of that work as direct to a core bureau, solely for regulatory fee purposes. As described in more detail below, we propose that approximately 63 indirect FTEs should be reallocated as direct FTEs to a core bureau, for regulatory fee purposes, based on our evaluation of the burden of their work. Some of the reallocations we are proposing are of FTE time that had previously been reassigned from direct to indirect as the result of a Commission reorganization. As a result of taking this fresh, high level evaluation of the work of our indirect FTEs we found that even though the physical location of certain FTEs moved from a core bureau to an indirect bureau or office, the burden of their FTE work remained focused directly on the oversight and regulation of specific regulatory fee payors in a core bureau(s). Insofar as we are confident this determination is reasonably accurate for the fiscal year, we find that reallocating certain indirect FTEs for regulatory fee purposes in the manner that we are proposing is consistent with section 9 of the Communications Act, which requires us to base our methodology on the number of FTEs in calculating regulatory fees. We seek comment on this proposal and on the schedule of FY 2023 regulatory fees as set forth in Tables 2 and 3. Any proposals or comments requesting a change or modification to our proposed methodology and regulatory fees for FY 2023 should include a thorough analysis showing a sufficient basis for making the change and provide alternative options for the Commission to meet its statutory obligation to collect the full amount of the appropriation by the end of the fiscal year. Commenters should also indicate how such proposed alternative options are fair, administrable, and sustainable.

b. Reallocation, for Regulatory Fee Purposes, of Certain Indirect FTEs as Direct FTEs

22. Broadcasters and satellite operators commenting in response to our NOI have argued that the methodology used to proportionally assign indirect FTEs is inequitable. We disagree. Non-core bureaus and offices handle a variety of issues and generally most indirect FTE time is devoted to many matters including services that are not specifically correlated with one of the core bureaus or one category of regulatory fee payors. Further, because Commission attorneys, engineers, analysts, and other staff work on a variety of issues during a single fiscal year, a snapshot of indirect FTE assignments in a division in any bureau or office, for example, may misrepresent the work being done a short time later, and, if allocated as direct FTEs, could result in an inaccurate FTE count and fee calculation for a core bureau. In light of the issues raised by the commenters to the NOI, however, and as noted above, we have undertaken a high level evaluation of the work performed by the Commission's indirect FTEs. As a result, we now propose to reallocate certain indirect FTEs as direct FTEs and incorporate them into the count of FTEs of the relevant core bureau solely for purposes of calculating regulatory fees for FY 2023. This proposal would result in changes in the percentages of direct FTEs in the core bureaus. We seek comment on this proposal.

23. According to information provided by our Human Resources Management office, there currently are 339.25 direct non-auctions FTEs for FY 2023 that are distributed among the core bureaus. Today we propose to reallocate 63 indirect FTEs from OEA, OGC, and PSHSB and add those FTEs as direct to a relevant core bureau solely for the purposes of collecting regulatory fees, which would result in a revised total of 402.25 direct non-auctions FTEs. Our calculations of direct FTEs under our proposal, which are more fully detailed below, would be as follows: International Bureau (31), Wireless Telecommunications Bureau (98), Wireline Competition Bureau (143.25), and Media Bureau (130). Based on these proposed reallocations and after adjustments are made to these direct FTE counts to implement Commission precedent, we would collect approximately $30.16 million (7.73%) in fees from the International Bureau regulatory fee payors; $95.36 million (24.44%) in fees from the Wireless Telecommunications Bureau regulatory fee payors; $139.42 million (35.73%) in fees from Wireline Competition Bureau regulatory fee payors; and $125.25 million (32.10%) in fees from Media Bureau regulatory fee payors.

Core Bureau FTE Percentages With and Without Proposed Indirect FTE Reallocations
Core bureau | 2022 FTE% | 2022 Amount (millions): FY 2022 Appropriation was $381.95 | 2023 FTE % without indirect FTE reallocations | 2023 amount without indirect FTE reallocations (millions): FY 2023 Appropriation is $390.192 | 2023 Proposed FTE % with certain indirect FTE reallocations | 2023 Proposed amount with certain indirect FTE reallocations (millions): FY 2023 Appropriation is $390.192
Wireline Bureau | 33.94 | $129.62 | 35.57 | $138.79 | 35.73 | $139.42
Media Bureau |  | 137.89 | 33.96 | 132.52 | 32.10 | 125.25
Media Bureau subcategory Broadcasters | 16.25 | 62.07 | 15.28 | 59.65 | 14.27 | 55.68
Media Bureau subcategory Cable | 19.85 | 75.82 | 18.68 | 72.87 | 17.83 | 69.57
Wireless Bureau | 21.4 | 81.74 | 22.19 | 86.56 | 24.44 | 95.36
International Bureau | 8.56 | 32.70 | 8.28 | 32.32 | 7.73 | 30.16

24. After our analysis of the work performed in our non-core bureaus and offices, we reaffirm that, in general, the vast majority of the FTE burden of work is properly considered indirect. In evaluating indirect FTE time, we are mindful that any changes we adopt must serve the goal of ensuring that the Commission's assessment of regulatory fees is fair, administrable, and sustainable. We also recognize that allocating regulatory fees is not and cannot be an exact science. We continue to conclude the Commission's indirect FTE time is devoted to a variety of issues, including matters that are either not directly allocable or not associated with a regulatory fee payor, and therefore should continue to be considered indirect and allocated in a proportional manner across all fee categories. As the Commission explained in the FY 2019 Report and Order, by analyzing indirect FTE time in order to try to associate it with a core bureau in one given period of time, and ignoring the understanding of management regarding ongoing and future work, we risk proffering FTE allocations that are not accurate for the entire year. We are also aware that in the non-core bureaus and offices much of the work that could be assigned to a single category of regulatory fee payors is likely to be interspersed with the work that Commission staff does on behalf of many entities that do not pay regulatory fees, e.g., governmental entities, non-profit organizations, work that does not equate with any specific regulatory fee category, and regulatees that have an exemption.

25. Nevertheless, the Commission has previously evaluated whether certain FTEs should be reallocated, for regulatory fee purposes, from direct to indirect, from indirect to direct, or from one core bureau to another based on the nature of the work. Insofar as the regulatory fees are based on FTE time associated with the oversight and regulation of regulatory fee payors, we only propose to reallocate indirect FTEs to a core bureau for regulatory fee purposes where we have determined that such FTE work is primarily in furtherance of the oversight and regulation of that industry and is reasonably accurate for the fiscal year. After taking a closer look at FTE time in several non-core bureaus and offices, we now conclude that we can reasonably identify instances within OEA, OGC, and PSHSB, where it is appropriate to consider the FTE burden of such work as directly devoted to the oversight and regulation of certain industries such that the FTE time should be reallocated as direct for the relevant core bureau(s).

26. After our review of the work within the Commission's bureaus and offices, we recognize that experts in the non-core bureaus and offices engage in measurable work associated with the oversight and regulation of regulatory fee payors. We will continue to be mindful of these findings in coming years while also relying upon the expertise of the bureau or office management to evaluate the overall nature of the work of each organizational unit, the FTE levels committed to the different types of work, and the level of FTE support, if any, primarily associated with the oversight and regulation of regulatory fee payors. In gathering this high level data for this proposal, we directed non-core bureaus and offices to evaluate if measurable FTE time for fiscal year 2023 is primarily spent on the regulation and oversight of an industry subject to regulatory fees. Our objective was to rigorously address the concerns that certain fee payors have expressed regarding the number of indirect FTEs. We have satisfied our goal and seek comment on our tentative conclusion and the factors we employed in reaching these proposed reallocations for regulatory fee purposes. We further recognize that these proposed reallocations for calculating regulatory fees may require the Commission to continue to assess certain indirect FTEs annually, in addition to the annual calculation of direct FTEs in core bureaus.

27. Office of Economics and Analytics (OEA). During an agency reorganization, the Commission reassigned staff from several bureaus and offices to the new OEA, effective December 11, 2018. After the reorganization, the Commission concluded that it was appropriate for the non-auctions FTEs in OEA to be considered indirect FTEs because the work of its FTEs would benefit the Commission and the telecommunications industry and would not specifically focused on the regulatory fee payors. In creating OEA, the Commission reassigned 95 FTEs (of which 64 were not auctions-funded) as OEA FTEs.

28. OEA is responsible for expanding and strengthening the use of economic analysis in Commission policy making, for enhancing the development and use of auctions, and for implementing consistent and effective agency-wide data practices and policies. Specifically, OEA (a) provides economic analysis, including cost-benefit analysis, for rulemakings, transactions, adjudications, and other Commission actions; (b) manages Commission auctions in support of and in coordination with other bureaus and offices; (c) develops policies and strategies to help manage Commission data resources and establish best practices for data use throughout the Commission in coordination with other bureaus and offices; and (d) conducts long-term research on ways to improve the Commission's policies and processes in each of these areas. Notably, OEA collaborates with and advises other bureaus and offices in the areas of economic and data analysis and with respect to the analysis of benefits, costs, and regulatory impacts of Commission policies, rules, and proposals. As part of this collaboration, OEA reviews all rulemakings prepared by those bureaus and offices, all other Commission-level items that contain economic or data analysis, and similar items that the bureaus or offices release on delegated authority.

29. NAB contends that we should consider treating the FTEs that were reorganized to OEA from direct bureaus as direct FTEs. We disagree that all such FTEs should be reallocated to direct. However, based on our experience over the approximately four years that OEA has been in existence, we have observed that certain bureaus tend to generate more numerous and more complex economic and data issues for OEA to analyze as well as more documents for release that require OEA review and expertise. As a result, OEA has necessarily devoted more time to and developed greater expertise in certain areas under the purview of a specific bureau. In light of that understanding, for FY 2023, we find that there is measurable work done by OEA that is being done directly in furtherance of the oversight and regulation of regulatory fee payors in certain industry segments. We recognize that we previously rejected suggestions related to reallocating OEA FTEs. Our proposals, however, are based on a current, deeper analysis of FTE work. Based on this analysis, we propose to reallocate a certain number of OEA's FTEs as direct for regulatory fee purposes, and include those FTEs in the count of a core bureau. We seek comment on this general proposal.

30. Specifically, we propose to allocate a certain number of OEA FTEs as direct to reflect the work by OEA on wireline matters related to universal service fund issues in high-cost areas; competition and interconnection; the setting of rates for calls from incarcerated persons; the establishment of a national suicide hotline; and efforts to protect privacy. Based on our review, because this FTE work is being done directly in furtherance of the oversight and regulation of Wireline Competition Bureau regulatory fee payors, we propose that the burden of the work of 13 OEA FTEs should be reallocated as direct FTEs to the Wireline Competition Bureau for purposes of our regulatory fee calculation. Similarly, our analysis shows that OEA non-auctions FTE's work with the Wireless Telecommunications Bureau addresses various wireless and spectrum issues, such as mergers, transactions, and acquisitions, spectrum licensing, mobile spectrum holdings policies, and deployment in rural areas and on tribal lands. Because this work is being done directly in furtherance of the oversight and regulation of Wireless Telecommunications Bureau regulatory fee payors, we propose that the burden of the work of eight OEA FTEs should be reallocated as direct FTEs to the Wireless Telecommunications Bureau, for purposes of our regulatory fee calculation. OEA FTEs' work with the Media Bureau relates to broadcast and cable issues, including ownership regulation, next generation standards, content source disclosures, program carriage and retransmission, and rates and billing practices. We find that after analysis, because their work is being done directly in furtherance of the oversight and regulation of Media Bureau regulatory fee payors, the burden of the work of seven OEA FTEs should be reallocated as direct FTEs to the Media Bureau, proportionally among the Media Bureau regulatory fee categories, for purposes of our regulatory fee calculation. OEA's work with the International Bureau addresses national security, mergers and acquisitions, undersea cables, and satellite issues and we find that, because their work is being done directly in furtherance of the oversight and regulation of International Bureau regulatory fee payors, the burden of the work of two OEA FTEs should be reallocated as direct FTEs to the International Bureau, proportionally among the International Bureau regulatory fee categories, for purposes of our regulatory fee calculation.

31. Notably, our analysis reveals that after the Commission's creation of OEA, given the amount of economic analysis and data issues being generated by the core bureaus, the work and expertise of certain of OEA's FTEs remained focused on the oversight and regulation of certain regulatory fee payors in a manner that was consistent with the work they were doing in their previous core bureau, which further supports our proposal to reallocate the burden of the work of certain of OEA's FTEs as direct for regulatory fee purposes. We seek comment on our proposal to reallocate a total of 30 OEA FTEs as direct FTEs to the core bureaus as follows: 13 FTEs to the Wireline Competition Bureau, eight FTEs to the Wireless Telecommunications Bureau, seven FTEs to the Media Bureau, and two FTEs to the International Bureau, for regulatory fee purposes.

32. Office of General Counsel (OGC). In the context of the Commission's annual regulatory fee proceeding, the work of the OGC, as represented by FTE allocations, has been considered to be indirect. As we explain below, on review, we believe that certain aspects of OGC's work are sufficiently linked to the oversight and regulation of individual regulatory fee categories that the associated FTEs could properly be considered direct FTEs for such regulatory fee categories.

33. OGC serves as the chief legal advisor to the Commission and its various bureaus and offices. In that capacity OGC's responsibilities are generally described as interpreting new and existing statutes and executive orders as they pertain to the Commission's exercise of its Communications Act authority and other authorities, as well as performing such functions involving implementation of such statutes and executive orders as may be assigned to it by the Commission. OGC advises the Commission in the preparation and revision of our rules, recommends decisions in adjudicatory matters before the Commission, assists the Commission in its decision-making capacity and performs a variety of legal functions regarding internal and other administrative matters. OGC also advises and represents the Commission in matters of litigation. These roles are divided between the Administrative Law Division and the Litigation Division and are overseen by the General Counsel (GC) and the GC's Front Office.

34. The Administrative Law Division provides legal advice to the Commission concerning a wide array of substantive areas of the law necessary to the functioning of any federal agency. Such work benefits the work of the Commission as a whole and is not specific to any particular regulatory fee category. As such, the FTE burden associated with such work properly remains allocated as indirect. In contrast, it is possible to allocate some of the work of the Administrative Law Division in reviewing Commission rules, proposed rules, and adjudicatory orders, as well as providing extensive advice on the Commission's authority under the Communications Act, including the exercise of delegated authority by the bureaus and offices, to the core bureaus and offices that develop the underlying orders and seek the advice of OGC. Where this work is directly related to our oversight and regulation of specific regulatory fee payor categories, we propose allocating the FTE burden of such work as direct to the relevant bureau(s). Thus, we propose as follows for FY 2023: one OGC FTE would be reallocated as direct to the Wireline Competition Bureau; two OGC FTEs would be reallocated as direct to the Wireless Telecommunications Bureau; one OGC FTE would be reallocated as direct to the Media Bureau, proportionally among the Media Bureau fee categories; and one OGC FTE would be reallocated as direct to the International Bureau, proportionally among the International Bureau fee categories. We seek comment on this proposal.

35. The Litigation Division represents the Commission in a wide variety of court cases covering actions that most federal agencies are subject to (e.g., personnel, Federal Tort Claims Act, Freedom of Information Act, False Claims Act, and contract actions and disputes) in addition to challenges regarding the Commission's exercise of our Communications Act authority. As we explain below, after careful consideration, we do not propose any FTE changes for the Litigation Division. The level of effort to support litigation that is unrelated to our Communications Act authority is generally not tied to oversight and regulation of any regulatory fee category. Thus, the FTE burden remains appropriately considered as indirect. The FTE burden associated with litigation that directly touches on our Communications Act authority should also remain as indirect. We make this determination for a variety of reasons. Primarily, it is not possible to determine with any level of consistency year to year whether the FTE work in support of litigation matters benefits a particular regulatory fee category. This is particularly true because the essential issue in dispute when a matter moves to litigation may touch on issues of broader concern than any one regulatory fee group, or conversely be so procedural as to be effectively generic to all federal agency action. Moreover, at its core, the FTE work defending the Commission's expert authority in implementing the Communications Act is the epitome of work that benefits the agency as a whole and we do not believe it would be fair for any one regulatory fee group to shoulder the FTE burden of such work.

36. Public Safety and Homeland Security Bureau (PSHSB). PSHSB advises and coordinates within the Commission on all matters pertaining to public safety, homeland security, national security, cybersecurity, emergency management and preparedness, disaster management, and related matters. The bureau leads initiatives that strengthen public safety and emergency response capabilities enabling the Commission to assist the public, first responders, law enforcement, hospitals, the communications industry and all levels of government in times of emergency.

37. PSHSB is organized into three divisions: the Policy and Licensing Division, the Operations and Emergency Management Division, and the Cybersecurity and Communications Reliability Division. After assessing the work performed in these three divisions, in instances where we are able to determine that the work being performed is directly related to the oversight and regulation of regulatory fee payors in a core bureau, we are proposing to consider the FTE burden of such work as direct to the relevant core bureau(s). We seek comment on this proposal for each PSHSB division below.

38. The Policy and Licensing Division develops and administers rules, regulations, and policies to support public safety entities, including law enforcement, fire and emergency medical first responders, Public Safety Answering Points, and emergency operations organizations. The division handles licensing of public safety frequencies, including modifications, renewals and adjudications, in frequencies below 470 MHz, and in 470-512 MHz, 700 MHz, 800 MHz, 4.9 GHz and 5.9 GHz under part 90 of the Commission's rules, and the microwave bands under part 101; 911/Enhanced 911/Next Generation 911; Communications Assistance for Law Enforcement Act; the Emergency Alert System; operability and interoperability for public safety communications and the First Responder Network Authority; and intra- and interagency coordination on spectrum management.

39. After analyzing at a high level data regarding the FTE work in the Policy and Licensing Division, we find that, because the burden of the work of 14 of the FTEs in this division is directly in furtherance of the oversight and regulation of regulatory fee payors of a core bureau, we propose that it is appropriate to consider such work as direct to the relevant bureau, for regulatory fee purposes. Specifically, of the 14 FTEs we have identified, there are two FTEs that could be reallocated as direct FTEs to the Wireline Competition Bureau, eight FTEs that could be reallocated as direct FTEs to the Wireless Telecommunications Bureau, and four FTEs that could be reallocated as direct FTEs to the Media Bureau.

40. With regard to the two FTEs we propose to consider as direct to the Wireline Competition Bureau, and the eight FTEs that we propose to consider as direct to the Wireless Telecommunications Bureau, we propose these reallocations for regulatory fee purposes because the burden of the work performed on 911 policy, covering issues such as 911 location accuracy, and the transition to Next Generation 911, as well as clarifying provider obligations and acting on waiver and other provider-specific requests, directly furthers the oversight and regulation of regulatory fee payors of the Wireline Competition Bureau and the Wireless Telecommunications Bureau. Similarly, with regard to the four FTEs we propose to consider as direct to the Media Bureau, we propose these reallocations for regulatory fee purposes, proportionally among the fee categories in the Media Bureau, because the FTE burden of the work on the Emergency Alert System, developing and maintaining the operational rules that apply to EAS participants, facilitating interactions between EAS participants and alert originators, reviewing State EAS Plans, and acting on waiver and similar requests directly furthers the oversight and regulation of the regulatory payors of the Media Bureau. We seek comment on this proposal.

41. The Operations and Emergency Management Division (OEMD) ensures the readiness of the Federal Communications Commission to respond to threats and emergencies; conducts and coordinates risk and incident management activities; and supports public safety and events of national security significance. Division staff recommend, develop, and implement emergency plans, policies, and preparedness programs covering reporting and situational awareness of communications status during times of emergency; Commission functions during emergency conditions; and the provision of service by communications service providers during emergency conditions.

42. The division staff provide legal guidance and perform technical operations in support of interagency Federal, State, Local, Tribal, and Territorial (SLTT) government national security and public safety risk and incident management efforts. In addition, the division provides situational awareness to FCC and federal government leadership regarding national security risks and makes recommendations to help manage those risks; manages the FCC Continuity Programs to ensure the Commission's ability to perform the functions vital to an enduring government and the availability of nationwide and international communications under all conditions; and assesses and evaluates the status of communications services and infrastructure through Over-The-Air observations and analysis by its Spectrum Monitoring and Analysis Response Team. The division also coordinates with the U.S. Department of Homeland Security on critical national security and emergency preparedness priority communications programs, such as Telecommunication Service Priority Program, Government Emergency Telecommunications Service, and Wireless Priority Service.

43. After analyzing at a high level data regarding the FTE work in OEMD, we find that the work of five of the FTEs in this division is directly in furtherance of the oversight and regulation of regulatory fee payors of a core bureau. We propose to consider the FTE burden of such work as direct to the relevant bureau for regulatory fee purposes. Specifically, of the five FTEs we have identified there are two FTEs that could be reallocated as direct FTEs to the Wireline Competition Bureau, two FTEs that could be reallocated as direct FTEs to the Wireless Telecommunications Bureau, and one FTE that could be reallocated as a direct FTE to the Media Bureau, proportionally among the fee categories in the Media Bureau.

44. With regard to the two FTEs we propose to consider as direct to the Wireline Competition Bureau, we propose these reallocations for regulatory fee purposes because the burden of the work performed is directly related to the oversight and regulation of wireline regulatory fee payors. This division, in performance of its risk assessment responsibilities, surveys the status of wireline service and infrastructure following major disasters, emergencies, or events of a national security or law enforcement nature and facilitates restoration through coordination with other federal and SLTT entities and private sector companies. In addition, the division administers legal oversight and review of the Commission's Local Number Portability Act (LNPA) activities. Similarly, we propose allocating two FTEs as direct to the Wireless Telecommunications Bureau, for regulatory fee purpose, because the burden of the work performed is directly related to the oversight and regulation of wireless regulatory fee payors based on the same functions described above, with respect to wireline regulatory fee payors.

45. In addition, the work done by one FTE in OEMD directly supports the oversight and regulation of regulatory fee payors of the Media Bureau by conducting site surveys of media broadcast transmitters to determine potential issues of interference, and by deploying personnel to disaster areas to perform spectrum scans before and after disasters to ascertain the operational status of broadcast stations and assist those that are not operational. Deploying personnel to disaster areas primarily supports the oversight and regulation of the regulatory fee payors of all three bureaus by, among other things, providing direct assistance to providers in disaster areas with issues such as obtaining access to facility sites and procurement of fuel for generators. Based on this analysis, we propose to reallocate, for regulatory fee purposes, one FTEs as a direct FTEs to be included in the count of the Media Bureau, proportionally among the fee categories in that bureau. We seek comment on this proposal.

46. The Communications and Crisis Management Center (FCC Operations Center), which is part of OEMD, maintains a 24/7 staff at FCC Headquarters. Its responsibilities include: monitoring the status of communications and engaging in real-time with emergency operations centers and PSAPs in the event of outages or disasters; resolving consumer complaints; supporting the Commission's enforcement activities; granting special temporary authority to Commission licensees after hours; and maintaining the Commission's primary classified environment and the required support systems.

47. The Operations Center is available 24/7 to field requests from all regulatees for assistance and to grant special temporary authority outside of normal business hours. Operations Center staff routinely field calls regarding consumer complaints of communications outages and interference or requests for information on the provision of wireless and wireline communications services in specific regions of the Nation. In response to these communications, Operations Center staff will coordinate solutions across Commission Bureaus and Offices, SLTT stakeholder entities, and private sector companies. After analyzing at a high level data regarding the FTE work performed in the Operations Center, we find that, the work of three of the FTEs of the Operations Center is directly in furtherance of the oversight and regulation of regulatory fee payors of a core bureau. We propose to consider such work as direct to the relevant bureau for regulatory fee purposes. Specifically, we propose that one FTE could be reallocated for regulatory fee purposes as a direct FTE of the Wireline Competition Bureau, one FTE could be reallocated for regulatory fee purposes as a direct FTE to the Wireless Telecommunications Bureau, and one FTE could be reallocated for regulatory fee purposes as direct to the Media Bureau, proportionally among the fee categories in that bureau. We seek comment on this proposal.

48. The Cybersecurity and Communications Reliability Division helps ensure that the nation's communications networks are reliable and secure so that the public can communicate, especially during emergencies. This division identifies and promotes network improvements through analysis and investigation of significant communications outages, providing situational awareness of the status of communications infrastructure during times of emergency, administering the Commission's primary advisory committee on communications security and reliability, and rulemakings. Focus areas include emergency communications, such as 911 and wireless emergency alerting, network performance during disasters, and major network outages and threats. This division monitors and analyzes communications network outages to identify trends, assess actions the FCC can take to help prevent and mitigate outages, and where necessary, assist response and recovery activities.

49. The division provides oversight and regulation of the regulatory payors by, among other things, providing situational awareness of the status of communications infrastructure and coordinating requests for assistance during times of emergency. We find, after analyzing the burden of the work done in this division, there are four FTEs that could be reallocated, for regulatory fee purposes, as direct FTEs to the Wireline Competition Bureau because the work being done on wireline network outage reporting, in routine and disaster environments, as well as outages and notifications impacting the 911 and 933 systems, is directly in furtherance of the oversight and regulation of wireline regulatory fee payors We also find that two FTEs can be reallocated, for regulatory fee purposes, to the Wireless Telecommunications Bureau because the work of FTEs being done to administer the Mandatory Disaster Response Initiative to ensure providers of commercial mobile services engage in mutual aid activities during times of emergency, the work of its Federal Advisory Committee on standards and best practices related to 5G deployment, and the work to develop and implement performance standards and accuracy for wireless emergency alerting is directly in furtherance of the oversight and regulation of wireless regulatory fee payors. Finally, the division supports the security of services provided across platforms, in the Commission's Alerting Security docket, and Federal Advisory Committee work on 911 standards and alerting standards, as well as network and supply chain security.

50. In sum, because we are able to determine that some of the work being performed by certain FTEs in PSHSB is directly related to the oversight and regulation of regulatory fee payors in a core bureau, we propose to consider the FTE burden of such work as direct to the relevant bureau(s). Specifically, we propose to reassign a total of nine FTEs as direct FTEs to the Wireline Competition Bureau, 13 FTEs as direct FTEs to the Wireless Telecommunications Bureau, and six FTEs as direct FTEs to the Media Bureau. The reassignment, for regulatory fee purposes, to the Media Bureau would be proportional among the fee categories in the bureau. This is a total of 28 Public Safety and Homeland Security Bureau FTEs reallocated, as direct FTEs, for regulatory fee purposes, in the core bureaus.

51. Conclusion of the Proposal To Reallocate Certain Indirect FTEs From OEA, OGC, and PSHSB as Direct FTEs to a Relevant Core Bureau. As represented above, FTE time associated with the proposed reallocations for regulatory fee purposes would be added to the relevant core bureau. Such a reallocation for regulatory fee purposes would result in increasing the number of direct FTEs in a core bureau and reducing the total number of indirect FTEs within the Commission. Because our underlying methodology for calculating regulatory fees does not change, we conclude that our fee regulatory fee calculation continues to be consistent with section 9 of the Communications Act, which requires us to base our methodology on the number of FTEs in calculating regulatory fees. We seek comment on this conclusion.

52. We are mindful that our treatment of FTEs as direct or indirect can change over time based on our evaluation of the FTE burden associated with the Commission's work assignments and the ebbs and flows within industry segments and needs of specific regulatory fee payors. We also emphasize that our proposals to reallocate certain FTEs from indirect to direct proposes a modest change to the percentages of direct FTEs allocated to the core bureaus. This analysis assures us that the Commission's general methodology for establishing regulatory fees has been appropriate. Based on our careful consideration of the record, we seek comment on whether we should, based on a high level evaluation of data gathered by Commission staff as described above, calculate regulatory fees for FY 2023 based on the proposed reallocations, and whether doing so is appropriate and consistent with section 9 of the Communications Act. The table below shows the proposed reallocations of a total of 63 FTEs to each of the core bureaus, as discussed above. Such reallocations, for regulatory fee purposes, would be proportionally distributed within the core bureau. We seek comment on these reallocations.

Core bureau | Number of direct FTEs without indirect FTE reassignments | Percentage | Number of direct FTEs with indirect FTE reassignments | Percentage
International Bureau | 28 | 8.28 | +2 from OEA + 1 from OGC Total additional FTEs, +3 | 7.73
Wireless Telecommunications Bureau | 75 | 22.19 | +8 from OEA +2 from OGC +13 from PSHSB Total additional FTEs +23 | 24.44
Wireline Competition Bureau | 120.25 | 35.57 | +13 from OEA +1 from OGC +9 from PSHSB Total additional FTEs +23 | 35.73
Media Bureau | 116 | 33.96 | +7 from OEA +1 from OGC +6 from PSHSB Total additional FTEs +14 | 32.10

53. As reflected in the table above, our proposals to reallocate 63 indirect FTEs as direct for regulatory fee purposes will result in a nearly 19% increase in our overall direct FTE count. We make these proposals consistent with our long standing regulatory fee methodology and conclude that our determinations are reasonably accurate for fiscal year 2023. In sum, based on our staff analysis of the activities of the Commission, we tentatively conclude that our proposals for FTE reallocation better reflect the burdens that certain segments of the telecommunications industry impose on the Commission and our workforce, and will allow us to continue to assess and collect regulatory fees to cover the costs of meeting those obligations. We seek comment on our proposals and this tentative conclusion.

54. Our proposals today to reallocate, for regulatory fee purposes, certain indirect FTEs to direct FTEs in a core bureau recognizes and responds to commenters concerns that some work being done in non-core bureaus and offices is done in furtherance of the oversight and regulation of specific regulatory fee payors. We are nonetheless mindful of the fact that FTEs' work in OEA, OGC, and PSHSB can change from year to year and we want to avoid any unplanned shifts in regulatory fees on an annual basis that would undermine the goals of having a fair, administrable, and sustainable program. In evaluating our proposals, we therefore ask commenters to speak to whether the potentially fluctuating nature of this information on an annual basis will negatively impact their ability to predict what their regulatory fee obligations will be each year. Specifically, we seek comment on depth of analysis we should engage in and the frequency of such analysis when making FTE allocation proposals.

2. Treatment of Non-High Cost Universal Service Fund FTEs as Indirect

55. In 2017, the Commission decided to assign as indirect, for regulatory fee purposes, 38 FTEs in the Wireline Competition Bureau who worked on non-high cost programs of the Universal Service Fund. This reallocation was based on the Commission's conclusion that due to changes over time in the universal service fund regulatory landscape, it was no longer appropriate to consider all FTE time spent working on non-high cost universal service issues as Wireline Competition Bureau direct FTEs. In the non-high cost programs, funding eligibility is based on the beneficiary, i.e., a school, a library, a low-income individual or family, or a healthcare provider. While initial programs were focused on wireline services, as the Commission's non-high cost programs have evolved, other providers, like wireless carriers and broadband providers, are also participating in the programs. Additionally, satellite operators, Wi-Fi network installers, and fiber builders may all receive universal service funding through the Commission's non-high cost programs. As Interstate Telecommunications Service Providers (ITSPs) are no longer the sole contributors or beneficiaries of the non-high cost Universal Service Fund programs, the Commission concluded that reallocating the Wireline Competition Bureau FTEs devoted to non-high cost Universal Service Fund programs as indirect FTEs was more consistent with how FTEs working for programs that benefit consumers and the American public are treated elsewhere in the Commission.

56. The Commission explained that such FTE time should be considered indirect because it is not focused specifically on regulatory fee payors of any core bureau. Instead it covers all program participants. In reaching this conclusion, the Commission reasoned that the FTE time devoted to the non-high cost Universal Service Fund issues is not oversight and regulation of a particular category of fee payors as is the case for ITSPs and CMRS providers, but instead is the oversight of several programs with a wide array of beneficiaries and participants. The Commission determined that FTE time spent on non-high cost Universal Service Fund issues is indirect because it would be “impossible to determine the precise costs attributable to FTEs and the precise benefits flowing from Commission regulation to any one regulatee, let alone a particular cross-section of regulatees or even an entire industry—not to mention the complications associated with regulatees statutorily exempt from paying regulatory fees (such as governmental licensees) and with beneficiaries (such as schools and libraries) that are not regulatees, all of whom nonetheless create costs that must be covered.”

57. In FY 2022, broadcasters raised concerns about the inclusion of payment for these indirect FTEs in their regulatory fees. The Commission took a closer look at the FTE burden associated with these non-high cost Universal Service Fund issues and determined that broadcasters should be excluded from the costs associated with these indirect FTEs. Based on this determination, the costs associated with these indirect FTEs in FY 2022 was apportioned among all other regulatory fee payors. Broadcasters have argued that these indirect FTEs should be treated as direct and allocated across other fee payors but have not identified a methodology for reallocating the FTE burden associated with these programs to the core bureau. For FY 2023, we tentatively conclude that the Commission's FY 2022 reasoning remains sound and the indirect FTE burden associated with these non-high cost Universal Service Fund programs should not be apportioned to broadcasters. We seek comment on this tentative conclusion. We ask any commenters asserting that these indirect FTEs should be reassigned as direct FTEs to a core bureau to provide an explanation of how these FTEs provide a direct benefit to other fee payors.

58. Additionally, our analysis of the FTE burden associated with these non-high cost Universal Service Fund programs reveals that we need to adjust downward the number of indirect FTEs working on the non-high cost Universal Service Fund programs from 38 FTEs in FY 2022 to 23.75 indirect FTEs for FY 2023, a decrease of 14.25 indirect FTEs. We seek comment on allocating, for regulatory fee purposes, these 23.75 Wireline Competition Bureau FTEs as indirect for FY 2023.

3. Other FTE Allocations

59. In conducting our high-level review of FTE time within the various bureaus and offices within the Commission in response to commenters' concerns, we tentatively conclude that FTE time within the International Bureau, the Office of Engineering and Technology, the Enforcement Bureau, and the Consumer and Governmental Affairs Bureau, is appropriately designated as either indirect or direct. We seek comment on these tentative conclusions and our allocation analysis, as discussed below, for each bureau and office.

60. International Bureau. The International Bureau had 81 FTEs as of October 1, 2022, and similar to last year, we propose the same allocation of those 81 FTES to be 28 direct FTEs and 53 indirect FTEs for purposes of regulatory fees (prior to adding three FTEs that we are proposing to reallocate for regulatory fee purposes). In 2013, the Commission concluded that the number of direct FTEs engaged in the regulation and oversight of International Bureau licensees should be 28. The Commission reviewed the number of FTEs in the International Bureau each year as part of the annual regulatory fee process, including last year, and found that that number still accurately reflects the number of direct FTEs engaged in the regulation and oversight of International Bureau licensees. Between the Telecommunications and Analysis Division (TAD) and the Satellite Division there are 27 FTEs, and one FTE in the Office of the Bureau Chief (IBFO), that are allocated as direct FTEs. All FTEs in the Global Strategy and Negotiation Division (GSN) are considered indirect FTEs.

61. We have taken a closer look at the indirect FTE time in the International Bureau, which is primarily in GSN. GSN staff represent the Commission in international conferences, meetings, and negotiations, draft written contributions including proposed USA and regional positions, and coordinate Commission preparation for such conferences, meetings, and negotiations with other Bureaus and Offices, and government agencies, as appropriate. In addition, GSN manages Commission participation in the fellowship telecommunication training program for foreign officials offered through the U.S. Telecommunications Training Institute (USTTI) as well as the Commission's International Visitors Program. Under the leadership of the Department of State, staff participate in various international and regional organizations such as the International Telecommunication Union (ITU), the International Maritime Organization, the International Civil Aeronautics Organization, the Organization for Economic Cooperation and Development (OECD), the Asia Pacific Economic Cooperation, and the Inter-American Telecommunication Commission. The ITU has three sectors, radiocommunications (ITU-R), telecommunications standardization (ITU-T), and telecommunications development (ITU-D). GSN staff cover all three sectors, with ITU-R work focused on spectrum allocations and related international regulations governing spectrum use, ITU-T work focused on international standards setting issues, numbering, and related policy issues, and ITU-D work focused on capacity building and digital inclusion. GSN also coordinates cross-border issues with Mexico and Canada that involve a wide range of services, such as maritime, aeronautical, mobile and fixed satellite, broadcasting, mobile, and terrestrial wireless services. In addition, GSN's functions include international broadcasting station licensing and coordination of frequencies for International Broadcast licenses at the ITU. GSN's multilateral and bilateral international work ultimately benefits all fee payors by maintaining and advancing the United States' global leadership and interests, which encompasses, among others, U.S. trade, foreign policy, and national security interests. Insofar as the work of GSN does not benefit a specific fee payor, but rather the government as whole, we continue to conclude the work of its FTEs is appropriately categorized as indirect.

62. In the IBFO and in the IB divisions, a number of FTEs support the various bureau functions involving management and administrative support, such as IT issues, international travels, and other administrative activities. In the IBFO, approximately one FTE can be attributed to overseeing the Satellite Division's activities that directly benefit space and earth stations. Some work in the IBFO and TAD involve coordinating with Executive Branch agencies on issues involving foreign ownership, national security, law enforcement, and cyber security. Most FTE work in the IBFO supports all regulatory fee payors and also supports GSN work. For that reason, we conclude that they should continue to be considered indirect. In addition, not all the Satellite Division work can be attributed directly to a particular category of regulatory fee payor. For example, a number of space related activities indirectly benefit the existing fee categories, including space stations, commercial mobile services, and earth stations. For example, the Satellite Division coordinates with the National Aeronautics and Space Administration (NASA), Federal Aviation Administration (FAA), National Oceanic and Atmospheric Administration (NOAA), State Department on space sustainability, planetary protections, and on leading space innovation. Lastly, the Satellite Division works closely with GSN staff, to help cover certain ITU World Radiocommunications Conference (WRC) agenda items. Based on our review of the FTEs in the International Bureau, we find that the allocation of direct and indirect FTEs should remain the same for FY 2023, i.e., 28 direct and 53 indirect FTEs. We seek comment on this tentative conclusion.

63. Further, we note that, on January 9, 2023, the Commission adopted the Space Bureau Order, which among other things, reorganized the International Bureau by establishing a new Space Bureau and a new Office of International Affairs. This reorganization became effective on April 10, 2023. At this time, however, we are not proposing to reallocate any FTEs on the basis of this reorganization. Other than the reallocations we have proposed herein for regulatory fee purposes, the number of direct FTEs working on oversight and regulation of the International Bureau regulatory fee payors therefore remains unchanged for FY 2023. We will revisit the FTE allocations for the Space Bureau, as we do for all the Commission's bureaus and offices, in FY 2024.

64. Office of Engineering and Technology. The Office of Engineering and Technology provides engineering and technical expertise to the agency and supports each of the agency's four core bureaus. Part of that office's role is to participate in matters “not within the jurisdiction of any single bureau” or “affecting more than one bureau.” More specifically, the Office of Engineering and Technology manages the spectrum and maintains the U.S. Table of Frequency Allocations, manages the experimental licensing and equipment authorization programs, regulates the operation of devices on an unlicensed basis, and conducts engineering and technical studies. Each of these functions is broadly applicable and benefits multiple industry sectors, including the broadcasting industry. For example, work in overseeing the equipment authorization program benefits multiple industry sectors partly because many devices that require authorization, including some broadcast receiving equipment (e.g., smart TVs), operate on several spectrum bands under rules for both licensed services and unlicensed operations.

65. NAB contends that broadcasters' regulatory fees should not include the indirect FTEs in the Office of Engineering and Technology because that office is focused on the use of spectrum on an unlicensed basis, evaluating new radio frequency (RF) devices, and managing the equipment authorization program. According to NAB, these issues have very little to do with broadcasters. In the FY 2021 Report and Order, we rejected commenters' proposals that would effectively treat the Office and Engineering and Technology as a core bureau making FTEs who work in that office direct FTEs. At that time, we found that the Office of Engineering and Technology provides engineering and technical expertise to the agency as a whole and supports each of the agency's four core bureaus and for that reason the FTEs were appropriately assigned as indirect.

66. We have taken a closer look at the FTE time in this office and we again conclude that the FTEs in Office of Engineering and Technology are appropriately considered indirect. Our analysis shows that a significant amount of FTE time is devoted to equipment authorization. FTE work in equipment authorization involves not only RF testing of various equipment that uses spectrum on both a licensed and unlicensed basis, but also such functions as management of the equipment authorization system, coordination with Telecommunications Certification Bodies, and rulemaking activities such as updating testing and laboratory certification standards. FTE time to manage the U.S. Table of Frequency Allocations includes activities such as rulemaking and coordination with other federal and international entities, which impacts virtually all spectrum use, including both licensed and experimental use. The work of OET FTEs therefore benefit the work of the Commission as a whole and is not specific to any particular regulatory fee category. As such, the FTE burden associated with such work properly remains allocated as indirect. Other FTE time in OET is spread out among multiple core bureaus within the Commission and its regulatees. For example, users of spectrum on an unlicensed basis includes virtually every American consumer and business, and management of the U.S. Table of Frequency Allocations has the potential to impact every spectrum user, either directly with regard to primary or secondary use, or indirectly such as with regard to emissions from adjacent spectrum bands. Accordingly, we seek comment on our tentative conclusion to continue to assign all of the FTEs in the Office of Engineering and Technology as indirect and to apportion them across the core bureaus.

67. Enforcement Bureau. NAB contends that the Enforcement Bureau's Fraud Division, Market Disputes Resolution Division, and Telecommunications Consumers Division all perform work that benefit broadband service providers, cable operators, and telecommunications carriers and broadcasters should not be responsible for these indirect FTEs and they should instead be characterized as direct to certain core bureaus. We have closely analyzed the FTE time in the Enforcement Bureau, not just the divisions NAB selected, and we tentatively conclude that this bureau should continue to be treated as indirect because, as we discuss below, the Enforcement Bureau FTEs enforce the Communications Act and the Commission's rules. The FTE oversight function is focused on the integrity of Commission's rules and ensuring the implementation of the Commission's Act. FTE time devoted to enforcement of the Commission's rules is the epitome of work that benefits the agency as a whole and the American public and we do not believe it would be fair for any one regulatory fee group of payors to shoulder the FTE burden of such work.

68. We disagree with NAB's argument that the FTEs in the Fraud Division should be direct FTEs. This division has primary responsibility for investigating and enforcing the violations of the Communications Act and the Commission's rules and investigates alleged fraudulent receipt of federal funds from the Commission's federal financial aid programs. The division also coordinates with other offices and bureaus within the Commission and with the Office of Inspector General, and other federal and state agencies to maximize enforcement efforts. These issues handled by the Fraud Division are not tied to the oversight and regulation of particular regulatory fee categories. Investigations of fraud may involve voice service providers, but may also focus on entities that are not regulatory fee payors. We seek comment on our tentative conclusion to keep these FTEs as indirect.

69. We disagree with NAB's argument that the FTEs in the Telecommunications Consumers Division should be reassigned as direct. The FTE time devoted to protecting consumers from robocalls is not solely focused on Commission regulatory fee payors, but includes the entities initiating the robocalls and coordination with other agencies. The wireline and wireless voice service providers (regulatory fee payors) are generally not the bad actors targeted in these investigations; although we have recently adopted rules regarding voice service providers that carry illegal robocall traffic. This division conducts investigations of a variety of entities including regulatory fee payors and non-payors. Further, this division investigates manufacturers of equipment as well as telemarketers for practices that harm consumers. Thus, despite NAB's assertion, FTE time in this division is not only focused on regulatory fee payors of the core bureaus but includes non-payors. We seek comment on keeping these FTEs as indirect.

70. In addition to the divisions listed by NAB, we have closely looked at the remaining Enforcement Bureau divisions and we also find that the FTEs are properly assigned as indirect. The Market Disputes Resolution Division handles all formal complaints against common carriers and pole attachment complaints, and this includes entities that use poles that are not regulatory fee payors, such as utilities. The Market Disputes Resolution Division provides an avenue for such parties, not limited to regulatory fee payors, to resolve complaints. We seek comment on maintaining these FTEs as indirect.

71. The Spectrum Enforcement Division conducts investigations and takes enforcement actions against complaints primarily involving wireless equipment matters, such as electronic devices that are advertised, sold, or operated without proper authorization under the Commission's technical rules, e.g., unauthorized drone accessories that could interfere with aviation frequencies. Other investigations involve entities that operate unauthorized wireless services, such as unauthorized satellite transmissions or unlicensed wireless data networks, which could jeopardize government operations and authorized commercial wireless operations. This division also focuses on public safety and technical issues such as jamming devices that threaten cellular networks and GPS, 911 system failures, and other equipment requirements, including labeling requirements and user manual disclosures for radiofrequency devices. The Spectrum Enforcement Division also investigates licensees that fail to comply with the terms of their licenses and widespread interference matters. In addition, this division provides engineering and technical support to the Enforcement Bureau. FTE time in this division is not solely focused on regulatory fee payors of the core bureaus. For all of these reasons, we find that these FTEs should remain indirect. We seek comment on maintaining these FTEs as indirect.

72. Similarly, we find that the Investigations and Hearings Division FTEs should remain indirect. This division conducts investigations and takes appropriate enforcement action against broadcast licensees, cable operators, DBS operators, wireless licensees, and telecommunications carriers for violations of the Communications Act and Commission rules; oversees the Equal Employment Opportunity compliance of television and radio broadcast licensees, as well as multichannel video programming distributors (MPVDs), such as cable and DBS operators, and satellite radio; investigates and takes appropriate enforcement action for violations of various Commission transparency rules concerning broadband services, cable television, and other communications offerings. This FTE time is spread among all core bureaus as well as entities that are not Commission regulatory fee payors. For this reason, we find that the FTEs in this division should remain indirect.

73. FTE time in the Enforcement Bureau Field Offices is devoted to investigating unauthorized radio stations, among other things. Parties found operating radio stations without FCC authorization will be subject to a variety of enforcement actions including seizure of equipment, imposition of monetary forfeitures, ineligibility to hold any FCC license, and criminal penalties. Such unauthorized radio stations interfere with licensed radio stations and prevent the American public from enjoying the radio station that is unable to broadcast due to such interference. Field offices have other functions, such as on-scene investigations, inspections, and audits; responding to safety of life matters; investigating and resolving individual interference complaints; investigating violations in all licensees and/or operator services; coordinating with local and state public safety entities; and carrying out special priorities of the Commission.

74. After analyzing the FTE time in this bureau, we find that the Enforcement Bureau is appropriately considered an indirect bureau. Accordingly, we tentatively conclude that none of the FTEs in the Enforcement Bureau should be considered for reallocation. We seek comment on this tentative conclusion. As a general matter, investigations are undertaken by Enforcement Bureau staff in the Field offices, and the Fraud, Telecommunications Consumers, Investigations and Hearings, and Spectrum Enforcement Divisions based on complaints and the Commission's decisions on how to allocate investigation resources among various disputes, including those concerning bad actors. Attempting to discern whether the FTE work conducted in general dispute resolution benefits a particular regulatory fee payor would be difficult, time consuming and impractical to administer. Moreover, where the work of the Enforcement Bureau concerns bad actors, it would be particularly unfair to consider the work of resolving such matters as direct to a category of regulatory fee payors. The direct FTE time on which we calculate regulatory fees should not be based on these types of considerations. For example, a decision by the Commission to have the Field offices investigate complaints about unauthorized radio operators should not result in an increase in the AM and FM broadcasters' regulatory fees based on the FTE time in such investigations. An investigation of a fraudulent robocaller should not result in an increase in the wireline or wireless carriers' regulatory fees, due to the fact that the robocalls were made to consumers' phones. This bureau addresses all violations of Commission rules; some of those could be considered fraud or bad actors and others are rule violations or disagreements between parties. As a policy matter, our regulatory fees should not be based on our investigations of generalized disputes or the actions of parties that have violated the Commission's rules. Our regulatory fee calculations are based on the FTEs devoted to oversight and regulation of the regulatory fee payors, and should not be inflated or skewed due to the Commission's focus on investigations and its enforcement of our rules that are related to the telecommunications industry generally or to bad actors within it. We therefore seek comment on our tentative conclusion to maintain all of the Enforcement Bureau FTEs as indirect FTEs.

75. Consumer and Governmental Affairs Bureau. Similarly, we propose to continue considering the FTEs in Consumer and Governmental Affairs Bureau as indirect because the work of the FTEs in this bureau, and the oversight and regulation by these FTEs, is primarily devoted to outreach and consumer matters and enforcing the Act and the Commission's rules. FTE time devoted to regulatory fee payors is often either spent on complaints or petitions for declaratory rulings or on oversight more generally of the industry, e.g., establishing and oversight of the Reassigned Numbers Database. As we explained with respect to Enforcement Bureau FTEs, our regulatory fees should not be based on the volume of complaints or petitions for declaratory rulemakings and the Commission's discretion in allocating resources to handling such matters. Thus, we tentatively conclude that none of the FTEs in the Consumer and Government Affairs Bureau should be considered for reallocation as direct FTEs. We therefore seek comment on our tentative conclusion to maintain the Consumer and Governmental Affairs Bureau FTEs as indirect.

4. Broadcast Regulatory Fees

a. Broadcast Television Stations

76. In the FY 2020 Report and Order, we completed the transition to a population-based full-service broadcast television regulatory fee. The population-based methodology conforms with the service authorized here—broadcasting television to the American people. For FY 2023, we propose to continue to assess fees for full-power broadcast television stations based on the population covered by a full-service broadcast television station's contour. We seek comment on our mechanism, described below, for how we will calculate the regulatory fee based on the previously decided population-based methodology. We propose adopting a factor of .7799 of one cent ($.007799) per population served for FY 2023 full-power broadcast television station fees. The population data for broadcasters' service areas are determined using the TVStudy software and the LMS database, based on a station's projected noise-limited service contour. The population data for each licensee and the population-based fee (population multiplied by $.007799) for each full-power broadcast television station is listed in Table 7. We seek comment on these proposed fees.

b. Broadcast Radio Stations

77. For the last several years, broadcaster groups have consistently filed comments in the Commission's annual regulatory fee proceedings about the impact of increasing regulatory fees on small independent broadcasters' ability to continue to provide service to their local communities. Among other factors, they cite competition from satellite radio and music streaming services, a shrinking advertising base and their inability to pass regulatory fee increases on to a subscriber base. We share the broadcasters' concern that market pressures are significant and, as currently structured, we risk that our fee schedule results in those that are least able to pay regulatory fees overpaying their share of fees, to the benefit of broadcasters with a larger population base. We have reviewed the existing tiered fee structure on which we base our calculation of annual regulatory fees for radio broadcasters and have concluded that creating an additional tier within the lowest population tier is necessary to ensure that broadcaster fees are more equitably distributed among all radio broadcasters and that the regulatory fees assessed to the smaller broadcasters are “reasonably related to the benefits provided to the payor of the fee by the Commission's activities” as required by section 9(d) of the Act. To that end, we propose a revised radio station regulatory fee table that would include a lower population tier for AM and FM broadcasters. Specifically, we propose to separate the previous years' tier of <= 25,000 population into two tiers: (1) ≤= 10,000, and (2) 10,001-25,000. Under our proposal, the remaining population tier thresholds would stay the same as prior years. We seek comment on the table below.

FY 2023 Radio Station Regulatory Fees
Population served | AM Class A | AM Class B | AM Class C | AM Class D | FM Classes A, B1 & C3 | FM Classes B, C, C0, C1 & C2
<=10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

5. Space Station Regulatory Fees

78. We seek comment on the proposed regulatory fees for space stations as provided in Table 2. In 2020, the Commission adjusted the allocation of FTEs among geostationary orbit space stations (GSO) and non-geostationary orbit satellite systems (NGSO) operators. To ensure that regulatory fees more closely reflected the FTE oversight and regulation for each space station category, the Commission allocated 80% of space station regulatory fees to GSOs and 20% of the space station regulatory fees to NGSOs. We also seek comment on defining the category of operations for on-orbit servicing (OOS) and rendezvous and proximity operations (RPO) for regulatory fee purposes, including whether a separate regulatory fee category is necessary. In addition, we seek comment on how to apply regulatory fees to OOS and RPO spacecraft specifically operating near the geostationary satellite orbit arc.

79. In 2021, the Commission adopted two new fee subcategories: “less complex” NGSO systems and all other NGSO systems identified as “other” NGSO systems, both under the broader category of “Space Stations (Non-Geostationary Orbit).” “Less complex” NGSO systems are defined as NGSO satellite systems planning to communicate with 20 or fewer U.S. authorized earth stations that are primarily used for Earth Exploration Satellite Service (EESS) and/or Automatic Identification System (AIS). “Less complex” NGSO fees and “other” NGSO fees were split within the broader NGSO fee category on a 20/80 basis. For FY 2023, we calculate the fees using the allocation of 80% of space station regulatory fees to GSOs and 20% of the space station regulatory fees to NGSOs. We also use the 20/80 allocation between “less complex” and “other” NGSO space station fees, respectively, within the NGSO fee category. Such allocations still accurately reflect the amount of work involved in regulating NGSO systems and the number of reasonably related benefits provided to the payors of each fee category.

80. In the Report and Order attached to the FY 2022 NPRM, we adopted a methodology for calculating the regulatory fee for small satellites and small spacecraft (together, small satellites) within the NGSO fee category based on 1/20th (5%) of the average of the non-small satellite NGSO space station regulatory fee rates from the current fiscal year on a per license basis. This methodology accommodates fluctuations in the number of NGSO space stations fee payors, continues to provide a middle ground and an opportunity to gain more experience in regulating small satellites, and reflects that FTEs spend approximately twenty times more time on regulating one non-small satellite NGSO system compared to the time spent for regulating one small satellite license.

81. Accordingly, in Tables 2 and 3, we have included the proposed fees for NGSO space stations calculated by assessing the fees that small satellites will pay in FY 2023, reducing that amount from the overall NGSO space stations fee category, and allocating the remaining NGSO space station fees 20/80 using the two fee subcategories: “less complex” NGSO space stations and all other NGSO space stations identified as “other” NGSO space stations. In Tables 2 and 3, we also propose fees for GSO space stations. We seek comment on these proposed fees.

82. Spacecraft Performing On-Orbit Servicing (OOS) and Rendezvous and Proximity Operations (RPO). In the FY 2022 NPRM, we sought comment on adopting regulatory fee categories for spacecraft performing OOS and RPO. Missions, which can include satellite refueling, inspecting and repairing in-orbit spacecraft, capturing and removing debris, and transforming materials through manufacturing while in space, have the potential to benefit all space stations and improve the sustainability of the outer space environment and the space-based services. Due to the somewhat nascent nature of the OOS and RPO, or more generally “in-space servicing” industries, we currently do not have a regulatory fee category for such spacecraft. We noted in the FY 2022 NPRM that there have been a limited number of such operations. We tentatively concluded at that time that it was too early to identify exactly where operations, such as those in low-Earth orbit (LEO), might fit into the regulatory fee structure in the future. We accordingly deferred our determination of whether to create a new fee category for such services to a future fiscal year once the regulatory framework under which space stations performing in-space servicing operations, including OOS, RPO, space situational awareness (SSA), and space domain awareness (SDA) operations, and the scope of those operations, is better understood.

83. Since the FY 2022 NPRM, neither the scope of in-space servicing operations nor the regulatory framework has developed sufficiently to adopt regulatory fee categories at this time. For example, although we expect that most of these operations are likely to ultimately be in NGSO, there will not be any operational OOS or RPO spacecraft in NGSO for FY 2023. For those spacecraft that may conduct such in-space servicing operations in the future, we seek further comment on defining this emerging category of operations for regulatory fee purposes, including whether a separate regulatory fee category is necessary. In response to our FY 2022 NPRM, three commenters supported the creation of a new fee category. Of those commenters, one suggested that we use the term “in-space servicing” to define services that will fit within the category to correlate the language with the In-Space Servicing, Assembly, and Manufacturing (ISAM) National Strategy and define those services as activities in space “by a servicer spacecraft or servicing agent on a client space object which require rendezvous and/or proximity operations.” Another commenter suggested a definition for OOS missions as spacecraft whose “primary function” is to provide OOS, including concepts of operations such as deployment via orbital transfer vehicle (OTV), hosting, or RPO, and another agreed with such a definition and added that SSA and SDA operations should also be included. We seek comment on these and additional or different definitions for a potential new fee category. Commenters that favor a new fee category or categories should fully explain the basis for their positions, including how the Commission might identify where these operations might fit into the existing regulatory fee structure and why these operations are distinct from operations classified under other fee categories.

84. Some spacecraft conducting satellite servicing have or plan to operate near the GSO arc. To date, we have licensed two spacecraft under part 25 for communications while conducting these types of operations with GSO satellites. These two spacecraft remain operational in FY 2023. Based on our review and experience regulating OOS and RPO spacecraft in GSO, we tentatively conclude that, despite being assigned their own call signs, which is the unit usually used to assess fees for satellite regulatees operating in GSO, such spacecraft appear to operate as part of existing GSO systems, rather than as separate independent spacecraft. Under this tentative conclusion, there is no independent system for a separate fee assessment for these operations near the GSO arc, and the regulatory burden for such operations are included in the fees collected from the regulatory fee payors paying fees for GSO satellites. We seek comment on this tentative conclusion and whether our experience to date may not apply to future operations of OOS and RPO spacecraft, which may operate more independently of the satellites that they will service. For spacecraft conducting OOS and RPO with GSO satellites, identifying whether such spacecraft operations are part of an existing GSO system appears to be the first step in determining whether we should assess a separate fee. We propose to apply the regulatory fee for “Space Stations (Geostationary Orbit)” to OOS and RPO spacecraft operating near the GSO arc, unless we determine that the OOS or RPO spacecraft is operating as part of an existing GSO system and therefore should not be assessed a separate regulatory fee. We seek comment on this approach, as well as on the specific factors that we should consider to determine whether a OOS or RPO spacecraft will operate as part of an existing GSO system for regulatory fee purposes.

6. Digital Equity and Inclusion

85. The Commission, as part of its continuing effort to advance digital equity for all, including people of color, persons with disabilities, persons who live in rural or tribal areas, and others who are or have been historically underserved, marginalized, or adversely affected by persistent poverty or inequality, invites comment on any equity-related considerations and benefits (if any) that may be associated with the proposals and issues discussed herein. Specifically, we seek comment on how our proposals for collecting regulatory fees for FY 2023 may promote or inhibit advances in diversity, equity, inclusion, and accessibility, as well the scope of the Commission's relevant legal authority. We note that diversity and equity considerations, however, do not allow the Commission to shift fees from one party of fee payors to another nor to fees under section 9 of the Act for any purpose other than as an offsetting collection in the amount of our annual S&E appropriation.

7. Continuing Flexibility in FY 2023 for Regulatory Fee Payors

86. In FY 2020, the Commission adopted several temporary measures to assist parties experiencing COVID-19 -related financial hardship in seeking regulatory fee relief. The Commission found good cause to continue the temporary measures in FY 2021 and FY 2022. The measures included: (i) waiver of section 1.1166(a) of the Commission's rules to permit parties seeking regulatory fee waiver, reduction and/or deferral for financial hardship reasons to make a single request for all forms of relief sought, rather than requiring separate filings for each form of relief; (ii) waiver of section 1.1166(a) to permit requests to be submitted electronically to a dedicated email address, rather than requiring the requests to be filed in paper form with the Commission's Office of Secretary; and (iii) allowing parties seeking installment payment terms to do so by submitting their requests to the same dedicated email address and to combine their installment payment requests with their waiver, reduction, and/or deferral requests in a single filing.

87. The Commission also reduced the interest rate typically charged on installment payments to a nominal rate and waived the down payment normally required before granting an installment payment request. In addition, the Commission partially waived the requirement that parties seeking relief on financial hardship grounds submit with their requests all financial documentation needed to prove financial hardship. This allowed regulatory fee payors experiencing pandemic-related financial hardship to submit additional financial documentation post-filing if necessary to determine whether relief should be granted. The Commission directed the Managing Director to work with individual regulatory fee payors that filed requests if additional documents were needed to render a decision on the request.

88. Finally, the Commission allowed debtors barred from filing requests or applications by the Commission's red-light rule and experiencing pandemic-related financial hardship to nonetheless request relief with respect to their regulatory fees. The Commission authorized the Managing Director to partially waive the red light to permit consideration of those requests while requiring those parties to resolve all delinquent debt to the Commission's satisfaction in the process.

89. We seek comment on whether any of the remaining temporary measures described in paragraphs 87 and 88 above should be extended for FY 2023, and if so, why? Specifically, for FY 2023, should the Commission continue to offer a reduced interest rate and waive the down payment for installment payments of regulatory fees? Should we continue our partial waiver of the red light rule to permit delinquent debtors to seek fee relief, conditioned on the debtor's satisfactory resolution of its delinquent debt? Finally, should the Commission continue our partial waiver of section 1.1166 to permit a regulatee to submit financial documentation after its request is filed if the Managing Director determines that additional documents are needed to render a decision on the request? Commenters that support extension of any of these temporary measures should explain why extension of any temporary measure is necessary, and in the case of those temporary measures that require a waiver of a Commission rule, why good cause exists for the waiver and why the waiver is in the public interest. We remind commenters that we cannot relax the standard for granting a waiver or deferral of fees, penalties, or other charges for late payment of regulatory fees under section 9A of the Communications Act. Under that statute, the Commission may only waive a regulatory fee, penalty or interest if it finds there is good cause for the waiver and that the waiver is in the public interest. The Commission has only granted financial hardship waivers when the requesting party has shown it “lacks sufficient funds to pay the regulatory fees and to maintain its service to the public.” Other statutory limitations include that the Commission must act on waiver requests individually, and cannot extend the deadline we set for payment of fees beyond September 30.

8. Providing Installment Payment Relief to Small Regulatory Fee Payors

90. Several broadcaster groups request that the Commission allow regulatees to prepay their annual regulatory fees in installments, including by prepaying their annual regulatory fees in increments before the annual regulatory fee payment deadline. The broadcasters state that this and other measures would assist in lessening the broadcasters' regulatory fee burden.

91. We start by reminding regulatory fee payors that the Commission has had a robust installment payment program in place for many years, and that many fee payors, especially small fee payors, have availed themselves of the relief installment payment plans provide, enabling repayment of the annual regulatory fee in installments after the payment deadline, without incurring a 25% late payment penalty. The Commission's existing installment payment program operates pursuant to the requirements of section 901.8 of the Federal Claims Collection Standards (FCCS), which permits installment payment of monies owed to the United States after the due date, where a debtor demonstrates that it is financially unable to pay its fees in lump sum by the due date. While the Commission does not have the authority to waive the required showing of financial inability to pay in lump sum, the Commission has discretion in setting the interest rate to be charged under an installment payment agreement and other repayment terms. In response to the economic effects of the COVID-19 pandemic, in FYs 2020, 2021, and 2022, the Commission substantially reduced the interest rate it customarily charges on installment payment of regulatory fees to a nominal rate and waived its standard down payment requirement, and in this proceeding, is seeking comment on whether to extend those measures in FY 2023. We seek comment on whether the Commission should consider other temporary or permanent modifications to its existing installment payment program, bearing in mind the constraints of section 901.8 of the FCCS.

92. We also seek comment on the broadcasters proposal that they be permitted to prepay their annual regulatory fees in increments, in advance of the annual regulatory fee date. We note here that the Communications Act has long required the Commission to permit installment payment of large regulatory fees. The Commission has historically interpreted this requirement to mean that large fee payors should be permitted to pay their fees in installments between the time the annual fee amount is established and the annual deadline for paying the fee, making its implementation impractical. We seek comment on whether we should permit prepayment in increments in advance of the release of the annual report and order establishing the fee amounts, and if so, how would such a program work? For instance, how would the regulatory fee payor determine the amount to be prepaid, given that the regulatory fee will not have been established until most, if not all, of the prepayments are made? How would we structure the prepayment terms, for instance, the frequency and size of each prepayment? Would the prepayment option be available to all regulatory fee payors or only certain payors, and if the latter, what criteria would we use to determine eligibility to prepay?

93. Implementation of such a program, particularly if the eligible pool of regulatory fee payors is a large one, would likely require modifications to our recordkeeping, financial operations and accounting systems, as well as additional personnel to administer the program. What concrete benefits would the Commission and its participating regulatees derive from such a program? For instance, if we assume that the principal benefit to a regulatee of prepaying its regulatory fees in increments is in the ability to budget and plan the expenditure, would prepayment in installments be significantly more beneficial than a regulatee regularly setting aside an amount equivalent to the prepayment it would make, in order to pay its upcoming regulatory fee obligation when due and if so, how would it be more beneficial? Would the program's benefit to regulatees justify the Commission's cost of implementing and administering a prepayment by installment program and if so, how?

9. Other Forms of Assistance

94. We seek comment on other ways in which the Commission might assist regulatory fee payors, including small entities such as broadcasters, in meeting their annual regulatory fee obligations. We ask that commenters explain the legal bases for any proposals they make and how such proposals fit within the Commission's statutory authorizations and our existing regulatory fee methodology.

10. New Regulatory Fee Categories

95. Finally, we continue to seek additional comment on “whether we should adopt new regulatory fee categories and on ways to improve our regulatory fee process regarding any and all categories of service.

IV. Procedural Matters

96. Included below are procedural items as well as our current payment and collection methods. We include these payments and collection procedures here as a useful way of reminding regulatory fee payers and the public about these aspects of the annual regulatory fee collection process.

97. Credit Card Transaction Levels. In accordance with Treasury Financial Manual, Volume I, Part 5, Chapter 7000, Section 7045—Limitations on Card Collection Transactions, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, Automates Clearing House (ACH) debits from a bank account, and wire transfers. Each of these payment options is available after filing regulatory fee information in CORES. Further details will be provided regarding payment methods and procedures at the time of FY 2023 regulatory fee collection in Fact Sheets, https://www.fcc.gov/regfees.

98. Payment Methods. During the fee season for collecting regulatory fees, regulatees can pay their fees by credit card through Pay.gov, ACH, debit card, or by wire transfer. Additional payment instructions are posted on the Commission's website at https://www.fcc.gov/licensing-databases/fees/wire-transfer. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

99. Standard Fee Calculations and Payment Dates. The Commission will accept fee payments made in advance of the window for the payment of regulatory fees. The responsibility for payment of fees by service category is as follows:

• Media Services: Regulatory fees must be paid for initial construction permits that were granted on or before October 1, 2022 for AM/FM radio stations, VHF/UHF broadcast television stations, and satellite television stations. Regulatory fees must be paid for all broadcast facility licenses granted on or before October 1, 2022.

• Wireline (Common Carrier) Services: Regulatory fees must be paid for authorizations that were granted on or before October 1, 2022. In instances where a permit or license is transferred or assigned after October 1, 2022, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2022.

• Wireless Services: Commercial Mobile Radio Service (CMRS) cellular, mobile, and messaging services (fees based on number of subscribers or telephone number count): Regulatory fees must be paid for authorizations that were granted on or before October 1, 2022. The number of subscribers, units, or telephone numbers on December 31, 2021 will be used as the basis from which to calculate the fee payment. In instances where a permit or license is transferred or assigned after October 1, 2022, responsibility for payment rests with the holder of the permit or license as of the fee due date.

• Wireless Services, Multi-year fees: The first eight regulatory fee categories in our Schedule of Regulatory Fees (first seven in our Calculation of Fees in Table 2) pay “small multi-year wireless regulatory fees.” Entities pay these regulatory fees in advance for the entire amount period covered by the five-year or ten-year terms of their initial licenses, and pay regulatory fees again only when the license is renewed, or a new license is obtained. We include these fee categories in our rulemaking to publicize our estimates of the number of “small multi-year wireless” licenses that will be renewed or newly obtained in FY 2023.

• Multichannel Video Programming Distributor (MVPD) Services (cable television operators, Cable Television Relay Service (CARS) licensees, DBS, and IPTV): Regulatory fees must be paid for the number of basic cable television subscribers as of December 31, 2022. Regulatory fees also must be paid for CARS licenses that were granted on or before October 1, 2022. In instances where a permit or license is transferred or assigned after October 1, 2022, responsibility for payment rests with the holder of the permit or license as of the fee due date. For providers of DBS service and IPTV-based MVPDs, regulatory fees should be paid based on a subscriber count on or about December 31, 2022. In instances where a permit or license is transferred or assigned after October 1, 2022, responsibility for payment rests with the holder of the permit or license as of the fee due date.

• International Services: Regulatory fees must be paid for earth stations that were licensed (or authorized) on or before October 1, 2022. Regulatory fees must also be paid for Geostationary orbit space stations (GSO) and non-geostationary orbit satellite systems (NGSO), and the two NGSO subcategories “Other” and “Less Complex,” that were licensed and operational on or before October 1, 2022. Licensees of small satellites that were licensed and operational on or before October 1, 2022 must also pay regulatory fees. In instances where a permit or license is transferred or assigned after October 1, 2022, responsibility for payment rests with the holder of the permit or license as of the fee due date.

• International Services (Submarine Cable Systems, Terrestrial and Satellite Services): Regulatory fees for submarine cable systems are to be paid on a per cable landing license basis based on lit circuit capacity as of December 31, 2022. Regulatory fees for terrestrial and satellite IBCs are to be paid based on active (used or leased) international bearer circuits as of December 31, 2022, in any terrestrial or satellite transmission facility for the provision of service to an end user or resale carrier. When calculating the number of such active circuits, entities must include circuits used by themselves or their affiliates. For these purposes, “active circuits” include backup and redundant circuits as of December 31, 2022. Whether circuits are used specifically for voice or data is not relevant for purposes of determining that they are active circuits. In instances where a permit or license is transferred or assigned after October 1, 2022, responsibility for payment rests with the holder of the permit or license as of the fee due date.

100. CMRS and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in Table 2 and the CMRS regulatory fee factor proposed in Table 3. CMRS provider regulatory fees will be calculated and should be paid based on the inclusion of non-geographic numbers. CMRS providers can adjust the total number of subscribers, if needed. This information of telephone numbers (subscriber count) will be posted on the Commission's Registration System (CORES) along with the carrier's Operating Company Numbers (OCNs).

101. A carrier wishing to revise its telephone number (subscriber) count can do so by accessing CORES and following the prompts to revise their telephone number counts. Any revisions to the telephone number counts should be accompanied by an explanation. The Commission will then review the revised count and supporting explanation, if any, and either approve or disapprove the submission in CORES. If the submission is disapproved, the Commission will contact the provider to afford the provider an opportunity to discuss its revised subscriber count and/or provide supporting documentation. If the Commission receives no response from the provider, or the Commission does not reverse its initial disapproval of the provider's revised count submission, the fee payment must be based on the number of subscribers listed initially in CORES. Once the timeframe for revision has passed, the telephone number counts are final and are the basis upon which CMRS regulatory fees are to be paid. Providers can view their final telephone counts online in CORES.

102. Because some carriers do not file the NRUF report, they may not see their telephone number counts in CORES. In these instances, the carriers should compute their fee payment using the standard methodology that is currently in place for CMRS Wireless services (i.e., compute their telephone number counts as of December 31, 2022), and submit their fee payment accordingly. Whether a carrier reviews its telephone number counts in CORES or not, the Commission reserves the right to audit the number of telephone numbers for which regulatory fees are paid. In the event that the Commission determines that the number of telephone numbers that are paid is inaccurate, the Commission will bill the carrier for the difference between what was paid and what should have been paid.

V. List of Tables

Table 1—Comments and Reply Comments to the FY 2022 Notice of Inquiry, MD Docket No. 22-301
Commenter | Abbreviated name | Date filed
Comments to NOI
ACA Connects—America's Communications Association | ACA Connects | 10/26/22
National Association of Broadcasters | NAB | 10/26/22
Satellite Industry Association; SIA Executive Members include: Amazon; The Boeing Company; DIRECTV; EchoStar Corporation; HawkEye 360; Intelsat S.A.; Iridium Communications Inc.; Kratos Defense & Security Solutions; Ligado Networks; Lockheed Martin Corporation; Northrop Grumman; OneWeb; Planet; SES Americom, Inc.; Space Exploration Technologies Corp.; Spire Global Inc.; and Viasat Inc. SIA Associate Members include: ABS US Corp.; The Aerospace Corporation; Artel, LLC; AST & Science; Astranis Space Technologies Corp.; Aurora Insight; Blue Origin; Comtech Telecommunications Corp.; Eutelsat America Corp.; ExoAnalytic Solutions; Hughes Defense and Intelligence Systems Division/Government Solutions; Inmarsat; Kymeta Corporation; Leonardo; Lynk; Omnispace, LLC; OneWeb Technologies; Ovzon; Panasonic Avionics Corporation; Telesat; United Launch Alliance; and XTAR, LLC | SIA | 10/26/22
Reply Comments to NOI
Reply commenter | Abbreviated name | Date filed
AGM CALIFORNIA, INC AGM NEVADA, LLC ALABAMA MEDIA, LLC COXSWAIN MEDIA, LLC DAVIS BROADCASTING, INC. OF COLUMBUS EQUITY COMMUNICATIONS, LP FLORIDA KEYS MEDIA, LLC GALAXY SYRACUSE LICENSEE LLC GALAXY UTICA LICENSEE LLC GOLDEN ISLES BROADCASTING, LLC GOOD KARMA BRANDS MILWAUKEE, LLC GOOD KARMA BROADCASTING, LLC GULF SOUTH RADIO, INC HANCOCK COMMUNICATIONS, INC HEH COMMUNICATIONS, LLC HOLLADAY BROADCASTING OF LOUISIANA, LLC INLAND EMPIRE BROADCASTING CORP. JAM COMMUNICATIONS, INC KLAX LICENSING, INC KLOS RADIO HOLDINGS, LLC KPWR RADIO HOLDINGS, LLC KRZZ LICENSING, INC KWHY-22 BROADCASTING, LLC KXOL LICENSING, INC KXOS RADIO HOLDINGS, LLC
L.M. COMMUNICATIONS, INC L.M. COMMUNICATIONS OF KENTUCKY, LLC L.M. COMMUNICATIONS OF SOUTH CAROLINA, INC L.M.N.O.C. BROADCASTING LLC MERIDIAN MEDIA GROUP, LLC MERUELO RADIO HOLDINGS, LLC MISSISSIPPI BROADCASTERS, LLC NEW SOUTH RADIO, INC NORTHWAY BROADCASTING, LLC PARTNERSHIP RADIO, LLC PATHFINDER COMMUNICATIONS CORPORATION QBS BROADCASTING, LLC REGIONAL RADIO GROUP, LLC SBR BROADCASTING CORPORATION SERGE MARTIN ENTERPRISES, INC. SPANISH BROADCASTING SYSTEM HOLDING COMPANY, INC TALKING STICK COMMUNICATIONS, L.L.C THE CROMWELL GROUP, INC. OF ILLINOIS WCMQ LICENSING, INC WCYQ, INC. WINTON ROAD BROADCASTING CO., LLC WKLC, INC. WLEY LICENSING, INC WMEG LICENSING, INC WPAT LICENSING, INC. WPYO LICENSING, INC WRMA LICENSING, INC WRXD LICENSING, INC WSBS LICENSING, INC WSKQ LICENSING, INC WSUN LICENSING, INC WXDJ LICENSING, INC | Joint Commenters | 11/23/22
National Association of Broadcasters | NAB | 11/25/22
NCTA—The Internet & Television Association | NCTA | 11/25/22
WISPA—Broadband Without Boundaries | WISPA | 11/25/22
Alabama Broadcasters Association; Alaska Broadcasters Association; Arizona Broadcasters Association; Arkansas Broadcasters Association; California Broadcasters Association; Colorado Broadcasters Association; Connecticut Broadcasters Association; Florida Association of Broadcasters; Georgia Association of Broadcasters; Hawaii Association of Broadcasters; Idaho State Broadcasters Association; Illinois Broadcasters Association; Indiana Broadcasters Association; Iowa Broadcasters Association; Kansas Association of Broadcasters; Kentucky Broadcasters Association; Louisiana Association of Broadcasters; Maine Association of Broadcasters; MD/DC/DE Broadcasters Association; Massachusetts Broadcasters Association; Michigan Association of Broadcasters; Minnesota Broadcasters Association; Mississippi Association of Broadcasters; Missouri Broadcasters Association; Montana Broadcasters Association; Nebraska Broadcasters Association; Nevada Broadcasters Association; New Hampshire Association of Broadcasters; New Jersey Broadcasters Association; New Mexico Broadcasters Association; The New York State Broadcasters Association; Inc., North Carolina Association of Broadcasters; North Dakota Broadcasters Association; Ohio Association of Broadcasters; Oklahoma Association of Broadcasters; Oregon Association of Broadcasters; Pennsylvania Association of Broadcasters; Radio Broadcasters Association of Puerto Rico; Rhode Island Broadcasters Association; South Carolina Broadcasters Association; South Dakota Broadcasters Association; Tennessee Association of Broadcasters; Texas Association of Broadcasters; Utah Broadcasters Association; Vermont Association of Broadcasters; Virginia Association of Broadcasters; Washington State Association of Broadcasters; West Virginia Broadcasters Association; Wisconsin Broadcasters Association; and Wyoming Association of Broadcasters | State Associations | 11/25/22
CTIA | CTIA | 11/25/22

Table 2—Calculation of FY 2023 Revenue Requirements and Pro-Rata Fees
[Regulatory fees for the categories shaded in gray are collected by the Commission in advance to cover the term of the license and are submitted at the time the application is filed]
Fee category | FY 2023 payment units | Yrs | FY 2022 revenue estimate | Pro-rated FY 2023 revenue requirement | Computed FY 2023 regulatory fee | Rounded FY 2023 reg. fee | Expected FY 2023 revenue
PLMRS (Exclusive Use) | 1,200 | 10 | 187,500 | 300,000 | 25.00 | 25 | 300,000
PLMRS (Shared use) | 19,000 | 10 | 1,250,000 | 1,900,000 | 10.00 | 10 | 1,900,000
Microwave | 16,000 | 10 | 4,500,000 | 4,000,000 | 25.00 | 25 | 4,000,000
Marine (Ship) | 7,000 | 10 | 1,035,000 | 1,050,000 | 15.00 | 15 | 1,050,000
Aviation (Aircraft) | 4,800 | 10 | 420,000 | 480,000 | 10.00 | 10 | 480,000
Marine (Coast) | 240 | 10 | 84,000 | 96,000 | 40.00 | 40 | 96,000
Aviation (Ground) | 300 | 10 | 70,000 | 60,000 | 20.00 | 20 | 60,000
AM Class A ¹ | 60 | 1 | 326,740 | 290,040 | 4,834 | 4,835 | 290,100
AM Class B ¹ | 1,403 | 1 | 4,054,050 | 3,598,533 | 2,565 | 2,565 | 3,598,695
AM Class C ¹ | 814 | 1 | 1,450,360 | 1,288,345 | 1,583 | 1,585 | 1,290,190
AM Class D ¹ | 1,373 | 1 | 4,793,460 | 4,256,627 | 3,100 | 3,100 | 4,256,300
FM Classes A, B1 & C3 ¹ | 3,043 | 1 | 10,109,400 | 8,977,008 | 2,950 | 2,950 | 8,976,850
FM Classes B, C, C0, C1 & C2 ¹ | 3,111 | 1 | 12,378,460 | 10,992,387 | 3,533 | 3,535 | 10,997,385
AM Construction Permits ² | 5 | 1 | 3,450 | 3,100 | 620 | 620 | 3,100
FM Construction Permits ² | 16 | 1 | 19,360 | 17,360 | 1,085 | 1,085 | 17,360
Digital Television ⁵ (including Satellite TV) | 3.265 billion population | 1 | 28,897,591 | 25,463,155 | .00779893 | .007799 | 25,463,387
Digital TV Construction Permits ² | 4 | 1 | 20,840 | 20,400 | 5,100 | 5,100 | 20,400
LPTV/Class A/Translators FM Trans/Boosters | 6,325 | 1 | 1,858,440 | 1,647,933 | 261 | 260 | 1,644,500
CARS Stations | 120 | 1 | 230,175 | 208,818 | 1,740 | 1,740 | 208,800
Cable TV Systems, including IPTV & DBS | 56,000,000 | 1 | 76,475,000 | 69,369,400 | 1.2387 | 1.24 | 69,440,000
Interstate Telecommunication Service Providers | 26,100,000,000 | 1 | 124,597,500 | 134,784,350 | 0.005164 | 0.00516 | 134,676,000
Toll Free Numbers | 34,500,000 | 1 | 4,164,000 | 4,631,251 | 0.1342 | 0.13 | 4,485,000
CMRS Mobile Services (Cellular/Public Mobile) | 545,000,000 | 1 | 74,900,000 | 86,287,694 | 0.1583 | 0.16 | 87,200,000
CMRS Messaging Services | 1,300,000 | 1 | 120,000 | 104,000 | 0.0800 | 0.080 | 104,000
BRS/ ³ | 1,195 | 1 | 716,625 | 836,500 | 700 | 700 | 836,500
LMDS | 360 | 1 | 204,750 | 252,000 | 700 | 700 | 252,000
Per Gbps circuit Int'l Bearer Circuits Terrestrial (Common & Non-Common) & Satellite (Common & Non-Common) | 17,000 | 1 | 468,000 | 430,862 | 25.34 | 25 | 425,000
Submarine Cable Providers (See chart at bottom of Table 3) ⁴ | 67.00 | 1 | 8,822,138 | 8,186,376 | 122,185 | 122,185 | 8,186,395
Earth Stations | 2,900 | 1 | 1,783,500 | 1,658,901 | 572 | 570 | 1,653,000
Space Stations (Geostationary) | 139 | 1 | 17,143,565 | 15,908,562 | 117,841 | 117,840 | 15,908,400
Space Stations (Non-Geostationary, Other) | 9 | 1 | 3,380,200 | 3,114,764 | 346,085 | 346,085 | 3,114,765
Space Stations (Non-Geostationary, Less Complex) | 6 | 1 | 845,040 | 778,691 | 129,782 | 129,780 | 778,680
Space Stations (Non-Geostationary, Small Satellite) | 5 | 1 | 60,725 | 83,685 | 11,955 | 11,955 | 83,685
****** Total Estimated Revenue to be Collected |  |  | 385,369,869 | 389,887,198 |  |  | 391,796,260
****** Total Revenue Requirement |  |  | 381,950,000 | 390,192,000 |  |  | 390,192,000
Difference |  |  | 3,419,869 | (304,802) |  |  | 1,604,260
¹ The fee amounts listed in the column entitled “Rounded New FY 2023 Regulatory Fee” constitute a weighted average broadcast regulatory fee by class of service. The actual FY 2023 regulatory fees for AM/FM radio station are listed on a grid located at the end of Table 3.
² The AM and FM Construction Permit revenues and the Digital (VHF/UHF) Construction Permit revenues were adjusted, respectively, to set the regulatory fee to an amount no higher than the lowest licensed fee for that class of service based on the threshold 10,001-25,000, the traditional basis for identifying the lowest licensed fee. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 3 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 2 is a weighted average of the various fee payers in the chart at the end of Table 3.
⁵ The actual digital television regulatory fees to be paid by call sign are identified in Table 7.

Table 3—FY 2023 Schedule of Regulatory Fees
[Regulatory fees for the categories shaded in gray are collected by the Commission in advance to cover the term of the license and are submitted at the time the application is filed.]
Fee category | Annual Regulatory Fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) (Includes Non-Geographic telephone numbers) | .16
CMRS Messaging Services (per unit) (47 CFR parts 20, 22, 24 and 90) | .08
Broadband Radio Service (formerly MMDS/MDS) (per license) (47 CFR part 27) | 700
Local Multipoint Distribution Service (per call sign) (47 CFR, part 101) | 700
AM Radio Construction Permits | 620
FM Radio Construction Permits | 1,085
AM and FM Broadcast Radio Station Fees | See Table Below
Digital TV (47 CFR part 73) VHF and UHF Commercial Fee Factor | .007799 See Table 7 for fee amounts due, also available at https://www.fcc.gov/licensing-databases/fees/regulatory-fees
Digital TV Construction Permits | 5,100
Low Power TV, Class A TV, TV/FM Translators & FM Boosters (47 CFR part 74) | 260
CARS (47 CFR part 78) | 1,740
Cable Television Systems (per subscriber) (47 CFR part 76), Including IPTV and Direct Broadcast Satellite (DBS) | 1.24
Interstate Telecommunication Service Providers (per revenue dollar) | .00516
Toll Free (per toll free subscriber) (47 CFR section 52.101(f) of the rules) | .13
Earth Stations (47 CFR part 25) | 570
Space Stations (per operational station in geostationary orbit) (47 CFR part 25) also includes DBS Service (per operational station) (47 CFR part 100) | 117,840
Space Stations (per operational system in non-geostationary orbit) (47 CFR part 25) (Other) | 346,085
Space Stations (per operational system in non-geostationary orbit) (47 CFR part 25) (Less Complex) | 129,780
Space Stations (per license/call sign in non-geostationary orbit) (47 CFR part 25) (Small Satellite) | 11,955
International Bearer Circuits—Terrestrial/Satellites (per Gbps circuit) | 25
Submarine Cable Landing Licenses Fee (per cable system) | See Table Below

FY 2023 Radio Station Regulatory Fees
Population served | AM Class A | AM Class B | AM Class C | AM Class D | FM Classes A, B1 & C3 | FM Classes B, C, C0, C1 & C2
<=10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

FY 2023 International Bearer Circuits—Submarine Cable Systems
Submarine cable systems (capacity as of December 31, 2022) | Fee ratio | FY 2023 regulatory fees
Less than 50 Gbps | .0625 Units | $7,640
50 Gbps or greater, but less than 250 Gbps | .125 Units | 15,275
250 Gbps or greater, but less than 1,500 Gbps | .25 Units | 30,550
1,500 Gbps or greater, but less than 3,500 Gbps | .5 Units | 61,095
3,500 Gbps or greater, but less than 6,500 Gbps | 1.0 Unit | 122,185
6,500 Gbps or greater | 2.0 Units | 244,370

Table 4—Sources of Payment Unit Estimates for FY 2023

In order to calculate individual service fees for FY 2023, we adjusted FY 2022 payment units for each service to more accurately reflect expected FY 2023 payment liabilities. We obtained our updated estimates through a variety of means and sources. For example, we used Commission licensee data bases, actual prior year payment records and industry and trade association projections, where available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data is received after the Notice of Proposed Rulemaking (NPRM) is released, the Commission sometimes adjusts the NPRM fee rates to reflect the new information in the Report and Order. This is intended to make sure that the fee rates in the Report and Order reflect more recent and accurate information. We realize that by adjusting the unit counts as more accurate information is received may adjust the fee rates for certain regulatory fee categories. Certain entities that collect the fees from customers in advance in order to pay the Commission, such as Cable and DBS companies, ITSP providers, Cell Phone and Toll-Free providers, to name a few, may need to adjust their billings to customers as the Commission adjusts its fee rates. As a result, the Commission understands that these adjustments are necessary so that these regulatees can recover their fee obligations from their customers.

We sought verification for these estimates from multiple sources and, in all cases, we compared FY 2023 estimates with actual FY 2022 payment units to ensure that our revised estimates were reasonable. Where appropriate, we adjusted and/or rounded our final estimates to take into consideration the fact that certain variables that impact on the number of payment units cannot yet be estimated with sufficient accuracy. These include an unknown number of waivers and/or exemptions that may occur in FY 2023 and the fact that, in many services, the number of actual licensees or station operators fluctuates from time to time due to economic, technical, or other reasons. When we note, for example, that our estimated FY 2023 payment units are based on FY 2022 actual payment units, it does not necessarily mean that our FY 2023 projection is exactly the same number as in FY 2022. We have either rounded the FY 2023 number or adjusted it slightly to account for these variables.

Fee category | Sources of payment unit estimates
Land Mobile (All), Microwave, Marine (Ship & Coast), Aviation (Aircraft & Ground), Domestic Public Fixed | Based on Wireless Telecommunications Bureau (WTB) information as well as prior year payment information. Estimates have been adjusted to take into consideration the licensing of portions of these services.
CMRS Cellular/Mobile Services | Based on WTB projection reports, and FY 2022 payment data.
CMRS Messaging Services | Based on WTB reports, and FY 2022 payment data.
AM/FM Radio Stations | Based on downloaded LMS data, adjusted for exemptions, and actual FY 2022 payment units.
Digital TV Stations (Combined VHF/UHF units) | Based on LMS data, fee rate adjusted for exemptions, and population figures are calculated based on individual station parameters.
AM/FM/TV Construction Permits | Based on LMS data, adjusted for exemptions, and actual FY 2022 payment units.
LPTV, Translators and Boosters, Class A Television | Based on LMS data, adjusted for exemptions, and actual FY 2022 payment units.
BRS (formerly MDS/MMDS) LMDS | Based on WTB reports and actual FY 2022 payment units. Based on WTB reports and actual FY 2022 payment units.
Cable Television Relay Service (CARS) Stations | Based on cable trend data, data from the Media Bureau's COALS database, and actual FY 2022 payment units.
Cable Television System Subscribers, Including IPTV Subscribers | Based on publicly available data sources for estimated subscriber counts, trend information from past payment data, and actual FY 2022 payment units.
Interstate Telecommunication Service Providers | Based on FCC Form 499-A worksheets due in April 2023, and any data provided by the Wireline Competition Bureau.
Earth Stations | Based on International Bureau licensing data and actual FY 2022 payment units.
Space Stations (GSOs & NGSOs) | Based on International Bureau data reports and actual FY 2022 payment units.
International Bearer Circuits | Based on assistance provided by the International Bureau, any data submissions by licensees, adjusted as necessary, and actual FY 2022 payment units.
Submarine Cable Licenses | Based on International Bureau license information, and actual FY 2022 payment units.

Table 5—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Table 6—Satellite Charts for FY 2023 Regulatory Fees—U.S.-Licensed Space Stations
Licensee | Call sign | Satellite name | Type
DIRECTV Enterprises, LLC | S2922 | SKY-B1 | GSO
DIRECTV Enterprises, LLC | S2640 | DIRECTV T11 | GSO
DIRECTV Enterprises, LLC | S2711 | DIRECTV RB-1 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694 | ECHOSTAR 10 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Intelsat License LLC/ViaSat, Inc | S2160 | GALAXY 28 | GSO
Intelsat License LLC | S2414 | INTELSAT 10-02 | GSO
Intelsat License LLC | S2972 | INTELSAT 37e | GSO
Intelsat License LLC | S2854 | NSS-7 | GSO
Intelsat License LLC | S2409 | INELSAT 905 | GSO
Intelsat License LLC | S2405 | INTELSAT 901 | GSO
Intelsat License LLC | S2408 | INTELSAT 904 | GSO
Intelsat License LLC | S2804 | INTELSAT 25 | GSO
Intelsat License LLC | S2959 | INTELSAT 35e | GSO
Intelsat License LLC | S2237 | INTELSAT 11 | GSO
Intelsat License LLC | S2785 | INTELSAT 14 | GSO
Intelsat License LLC | S2380 | INTELSAT 9 | GSO
Intelsat License LLC | S2831 | INTELSAT 23 | GSO
Intelsat License LLC | S2915 | INTELSAT 34 | GSO
Intelsat License LLC | S2863 | INTELSAT 21 | GSO
Intelsat License LLC | S2750 | INTELSAT 16 | GSO
Intelsat License LLC | S2715 | GALAXY 17 | GSO
Intelsat License LLC | S2154 | GALAXY 25 | GSO
Intelsat License LLC | S2253 | GALAXY 11 | GSO
Intelsat License LLC | S2381 | GALAXY 3C | GSO
Intelsat License LLC | S2887 | INTELSAT 30 | GSO
Intelsat License LLC | S2924 | INTELSAT 31 | GSO
Intelsat License LLC | S2647 | GALAXY 19 | GSO
Intelsat License LLC | S2687 | GALAXY 16 | GSO
Intelsat License LLC | S2733 | GALAXY 18 | GSO
Intelsat License LLC | S2385 | GALAXY 14 | GSO
Intelsat License LLC | S2386 | GALAXY 13 | GSO
Intelsat License LLC | S2422 | GALAXY 12 | GSO
Intelsat License LLC | S2387 | GALAXY 15 | GSO
Intelsat License LLC | S2704 | INTELSAT 5 | GSO
Intelsat License LLC | S2817 | INTELSAT 18 | GSO
Intelsat License LLC | S2850 | INTELSAT 19 | GSO
Intelsat License LLC | S2368 | INTELSAT 1R | GSO
Intelsat License LLC | S2789 | INTELSAT 15 | GSO
Intelsat License LLC | S2423 | HORIZONS 2 | GSO
Intelsat License LLC | S2846 | INTELSAT 22 | GSO
Intelsat License LLC | S2847 | INTELSAT 20 | GSO
Intelsat License LLC | S2948 | INTELSAT 36 | GSO
Intelsat License LLC | S2814 | INTELSAT 17 | GSO
Intelsat License LLC | S2410 | INTELSAT 906 | GSO
Intelsat License LLC | S2406 | INTELSAT 902 | GSO
Intelsat License LLC | S2939 | INTELSAT 33e | GSO
Intelsat License LLC | S2382 | INTELSAT 10 | GSO
Intelsat License LLC | S2751 | NEW DAWN | GSO
Intelsat License LLC | S3023 | INTELSAT 39 | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2826 | SES-2 | GSO
SES Americom, Inc | S2807 | SES-1 | GSO
SES Americom, Inc | S2892 | SES-3 | GSO
SES Americom, Inc | S2180 | AMC-15 | GSO
SES Americom, Inc | S2445 | AMC-1 | GSO
SES Americom, Inc | S2135 | AMC-4 | GSO
SES Americom, Inc | S2713 | AMC-18 | GSO
SES Americom, Inc | S2433 | AMC-11 | GSO
SES Americom, Inc./Alascom, Inc | S2379/S3138 | AMC-8/SES-22 | GSO
Sirius XM Radio Inc | S2710 | FM-5 | GSO
Sirius XM Radio Inc | S3034/S2617/S2616 | XM-8/XM-3/XM-4 | GSO
Skynet Satellite Corporation | S2933 | TELSTAR 12V | GSO
Skynet Satellite Corporation | S2357 | TELSTAR 11N | GSO
ViaSat, Inc | S2747 | VIASAT-1 | GSO
XM Radio LLC | S2786/S3033 | XM-5/XM-7 | GSO

Non-U.S.-Licensed Space Stations—Market Access Through Petition for Declaratory Ruling
Licensee | Call sign | Satellite common name | Satellite type
ABS Global Ltd | S2987 | ABS-3A | GSO
Avanti Hylas 2 Ltd | S3130 | HYLAS-4 | GSO
DBSD Services Ltd | S2651 | DBSD G1 | GSO
Empresa Argentina de Soluciones Satelitales S.A | S2956 | ARSAT-2 | GSO
Eutelsat S.A | S3031 | EUTELSAT 133 WEST A | GSO
Eutelsat S.A | S3056 | EUTELSAT 8 WEST B | GSO
Eutelsat S.A | S3055 | EUTELSAT 139 WEST A | GSO
Gamma Acquisition L.L.C | S2633 | TerreStar 1 | GSO
Hispamar Satélites, S.A | S2793 | AMAZONAS-2 | GSO
Hispamar Satélites, S.A | S2886 | AMAZONAS-3 | GSO
Hispasat, S.A | S2969 | HISPASAT 30W-6 | GSO
Inmarsat PLC | S2932 | Inmarsat-4 F3 | GSO
Inmarsat PLC | S2949 | Inmarsat-3 F5 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltda | S2974 | SES-14 | GSO
SES Satellites (Gibraltar) Ltd | S2951 | SES-15 | GSO
SES-17 S.a.r.l | S3043 | SES-17 | GSO
Embratel Tvsat Telecommunicacoes S.A | S2678 | STAR ONE C2 | GSO
Embratel Tvsat Telecommunicacoes S.A | S2845 | STAR ONE C3 | GSO
Telesat Brasil Capacidade de Satelites Ltda | S2821 | ESTRELA DO SUL 2 | GSO
Telesat Canada | S2745 | ANIK F1 | GSO
Telesat Canada | S2674 | ANIK F1R | GSO
Telesat Canada | S2703 | ANIK F3 | GSO
Telesat Canada | S2646/S2472 | ANIK F2 | GSO
Telesat International Ltd | S2955 | TELSTAR 19 VANTAGE | GSO
Viasat, Inc | S2902 | VIASAT-2 | GSO

Non-U.S.-Licensed Space Stations—Market Access Through Earth Station Licenses
ITU name (if available) | Common name | Call sign | GSO/NGSO
APSTAR VI | APSTAR 6 | M292090 | GSO
AUSSAT B 152E | OPTUS D2 | M221170 | GSO
Ciel Satellite Group | Ciel-2 | E050029 | GSO
Eutelsat 65 West A | Eutelsat 65 West A | E160081 | GSO
INMARSAT 4F1 | INMARSAT 4F1 | KA25 | GSO
INMARSAT 5F2 | INMARSAT 5F2 | E120072 | GSO
INMARSAT 5F3 | INMARSAT 5F3 | E150028 | GSO
JCSAT-2B | JCSAT-2B | M174163 | GSO
NIMIQ 5 | NIMIQ 5 | E080107 | GSO
QUETZSAT-1(MEX) | QUETZSAT-1 | NUS1101 | GSO
Superbird C2 | Superbird C2 | M334100 | GSO
WILDBLUE-1 | WILDBLUE-1 | E040213 | GSO

Non-Geostationary Space Stations (NGSO)
ITU name (if available) | Common name | Call sign | NGSO
U.S.-Licensed NGSO Systems
ORBCOMM License Corp | ORBCOMM | S2103 | Other
Iridium Constellation LLC | IRIDIUM | S2110 | Other
Space Exploration Holdings, LLC | SPACEX Ku/Ka-Band | S2983/S3018 | Other
Swarm Technologies | SWARM | S3041 | Other
Planet Labs | Flock/Skysats | S2912 | Less Complex
Maxar License | WorldView 1,2 & 3, GeoEye-1 | S2129/S2348 | Less Complex
BlackSky Global | Global | S3032 | Less Complex
Astro Digital U.S., Inc | LANDMAPPER | S3014 | Less Complex
Hawkeye 360 | HE360 | S3042 | Less Complex
Spaceflight, Inc | Sherpa-AC1 | S3133 | Less Complex
Non-U.S.-Licensed NGSO Systems—Market Access Through Petition for Declaratory Ruling
Telesat Canada | TELESAT Ku/Ka-Band | S2976 | Other
Kepler Communications, Inc | KEPLER | S2981 | Other
WorldVu Satellites Ltd | ONEWEB | S2963 | Other
Myriota Pty. Ltd | MYRIOTA | S3047 | Other
O3b Ltd | O3b | S2935 | Other
NGSO Systems that Are Partly U.S.-Licensed and Partly Non-U.S.-Licensed with Market Access Through Petition for Declaratory Ruling
Globalstar License LLC | GLOBALSTAR | S2115 | Other
Spire Global | LEMUR & MINAS | S2946/S3045 | Less Complex
NGSO Systems Licensed Under the Streamlined Small Satellite Rules
Capella Space Corp | Capella-2, Capella-3, Capella-4 | S3073 | Small Satellite
Capella Space Corp | Capella-5, Capella-6 | S3080 | Small Satellite
Capella Space Corp | Capella-7, Capella-8 | S3100 | Small Satellite
Loft Orbital Solutions Inc | YAM-3 | S3072 | Small Satellite
R2 Space, Inc | XR-1 | S3067 | Small Satellite
ICEYE US, Inc | ICEYE | S3082 | Small Satellite
Umbra Lab Inc | Umbra SAR | S3095 | Small Satellite

Table 7—FY 2023 Full-Service Broadcast Television Stations by Call Sign
Facility Id. | Call sign | Service area population | Terrain limited population | Terrain limited fee amount
3246 | KAAH-TV | $955,391 | $879,906 | $6,862
18285 | KAAL | 589,502 | 568,169 | 4,431
11912 | KAAS-TV | 220,262 | 219,922 | 1,715
56528 | KABB | 2,474,296 | 2,456,689 | 19,160
282 | KABC-TV | 17,540,791 | 16,957,292 | 132,250
1236 | KACV-TV | 372,627 | 372,330 | 2,904
33261 | KADN-TV | 877,965 | 877,965 | 6,847
8263 | KAEF-TV | 138,085 | 122,808 | 958
2728 | KAET | 4,217,217 | 4,184,386 | 32,634
2767 | KAFT | 1,204,376 | 1,122,928 | 8,758
62442 | KAID | 711,035 | 702,721 | 5,481
4145 | KAII-TV | 188,810 | 165,396 | 1,290
67494 | KAIL | 1,947,635 | 1,914,765 | 14,933
13988 | KAIT | 605,456 | 596,232 | 4,650
40517 | KAJB | 383,886 | 383,195 | 2,989
65522 | KAKE | 803,937 | 799,254 | 6,233
804 | KAKM | 380,240 | 379,105 | 2,957
148 | KAKW-DT | 2,615,956 | 2,531,813 | 19,746
51598 | KALB-TV | 943,307 | 942,043 | 7,347
51241 | KALO | 954,557 | 910,409 | 7,100
40820 | KAMC | 390,519 | 390,487 | 3,045
8523 | KAMR-TV | 366,476 | 366,335 | 2,857
65301 | KAMU-TV | 346,892 | 342,455 | 2,671
2506 | KAPP | 319,797 | 283,944 | 2,214
3658 | KARD | 703,234 | 700,887 | 5,466
23079 | KARE | 3,868,806 | 3,861,502 | 30,116
33440 | KARK-TV | 1,212,038 | 1,196,196 | 9,329
37005 | KARZ-TV | 1,113,486 | 1,095,224 | 8,542
32311 | KASA-TV | 1,161,837 | 1,119,457 | 8,731
41212 | KASN | 1,175,627 | 1,159,721 | 9,045
7143 | KASW | 4,174,437 | 4,160,497 | 32,448
55049 | KASY-TV | 1,145,133 | 1,100,391 | 8,582
33471 | KATC | 1,348,897 | 1,348,897 | 10,520
13813 | KATN | 97,466 | 97,128 | 758
21649 | KATU | 3,030,547 | 2,881,993 | 22,477
33543 | KATV | 1,257,777 | 1,234,933 | 9,631
50182 | KAUT-TV | 1,637,333 | 1,636,330 | 12,762
21488 | KAUU | 381,413 | 380,355 | 2,966
6864 | KAUZ-TV | 381,671 | 379,435 | 2,959
73101 | KAVU-TV | 319,618 | 319,484 | 2,492
49579 | KAWB | 186,919 | 186,845 | 1,457
49578 | KAWE | 136,033 | 133,937 | 1,045
58684 | KAYU-TV | 809,464 | 750,766 | 5,855
29234 | KAZA-TV | 14,973,535 | 13,810,130 | 107,705
17433 | KAZD | 6,776,778 | 6,774,172 | 52,832
1151 | KAZQ | 1,097,010 | 1,084,327 | 8,457
35811 | KAZT-TV | 436,925 | 359,273 | 2,802
4148 | KBAK-TV | 1,510,400 | 1,263,910 | 9,857
16940 | KBCA | 479,260 | 479,219 | 3,737
53586 | KBCB | 1,323,222 | 1,295,924 | 10,107
69619 | KBCW | 8,227,562 | 7,375,199 | 57,519
22685 | KBDI-TV | 4,042,177 | 3,683,394 | 28,727
56384 | KBEH | 17,736,497 | 17,695,306 | 138,006
65395 | KBFD-DT | 953,207 | 834,341 | 6,507
169030 | KBGS-TV | 159,269 | 156,802 | 1,223
61068 | KBHE-TV | 140,860 | 133,082 | 1,038
48556 | KBIM-TV | 205,701 | 205,647 | 1,604
29108 | KBIN-TV | 912,921 | 911,725 | 7,111
33658 | KBJR-TV | 275,585 | 271,298 | 2,116
83306 | KBLN-TV | 297,384 | 134,927 | 1,052
63768 | KBLR | 1,964,979 | 1,915,861 | 14,942
53324 | KBME-TV | 123,571 | 123,485 | 963
10150 | KBMT | 767,572 | 766,414 | 5,977
22121 | KBMY | 119,993 | 119,908 | 935
49760 | KBOI-TV | 715,191 | 708,374 | 5,525
55370 | KBRR | 149,869 | 149,868 | 1,169
66414 | KBSD-DT | 155,012 | 154,891 | 1,208
66415 | KBSH-DT | 102,781 | 100,433 | 783
19593 | KBSI | 756,501 | 754,722 | 5,886
66416 | KBSL-DT | 49,814 | 48,483 | 378
4939 | KBSV | 1,352,166 | 1,262,708 | 9,848
62469 | KBTC-TV | 3,697,981 | 3,621,965 | 28,248
61214 | KBTV-TV | 734,008 | 734,008 | 5,725
6669 | KBTX-TV | 4,404,648 | 4,401,048 | 34,324
35909 | KBVO | 1,498,015 | 1,312,360 | 10,235
58618 | KBVU | 135,249 | 120,827 | 942
6823 | KBYU-TV | 2,389,548 | 2,209,060 | 17,228
33756 | KBZK | 123,523 | 109,131 | 851
21422 | KCAL-TV | 17,499,483 | 16,889,157 | 131,719
11265 | KCAU-TV | 714,315 | 706,224 | 5,508
14867 | KCBA | 3,088,394 | 2,369,803 | 18,482
27507 | KCBD | 414,804 | 414,091 | 3,229
9628 | KCBS-TV | 17,853,152 | 16,656,778 | 129,906
49750 | KCBY-TV | 89,156 | 73,211 | 571
33710 | KCCI | 1,109,952 | 1,102,514 | 8,599
9640 | KCCW-TV | 284,280 | 276,935 | 2,160
63158 | KCDO-TV | 2,798,103 | 2,650,225 | 20,669
62424 | KCDT | 698,389 | 657,101 | 5,125
83913 | KCEB | 417,491 | 417,156 | 3,253
57219 | KCEC | 3,831,192 | 3,613,287 | 28,180
10245 | KCEN-TV | 1,795,767 | 1,757,018 | 13,703
13058 | KCET | 17,129,650 | 15,689,832 | 122,365
18079 | KCFW-TV | 177,697 | 140,192 | 1,093
132606 | KCGE-DT | 123,930 | 123,930 | 967
60793 | KCHF | 1,118,671 | 1,085,205 | 8,464
33722 | KCIT | 382,477 | 381,818 | 2,978
62468 | KCKA | 953,680 | 804,362 | 6,273
41969 | KCLO-TV | 138,413 | 132,157 | 1,031
47903 | KCNC-TV | 3,794,400 | 3,541,089 | 27,617
71586 | KCNS | 8,270,858 | 7,381,656 | 57,570
33742 | KCOP-TV | 17,386,133 | 16,647,708 | 129,835
19117 | KCOS | 1,014,396 | 1,014,205 | 7,910
63165 | KCOY-TV | 664,655 | 459,468 | 3,583
33894 | KCPQ | 4,439,875 | 4,312,133 | 33,630
53843 | KCPT | 2,507,879 | 2,506,224 | 19,546
33875 | KCRA-TV | 10,612,483 | 6,500,774 | 50,700
9719 | KCRG-TV | 1,136,762 | 1,107,130 | 8,635
60728 | KCSD-TV | 273,553 | 273,447 | 2,133
59494 | KCSG | 174,814 | 164,765 | 1,285
33749 | KCTS-TV | 4,177,824 | 4,115,603 | 32,098
41230 | KCTV | 2,547,456 | 2,545,645 | 19,853
58605 | KCVU | 684,900 | 674,585 | 5,261
10036 | KCWC-DT | 44,216 | 39,439 | 308
64444 | KCWE | 2,459,924 | 2,458,302 | 19,172
51502 | KCWI-TV | 1,043,811 | 1,042,642 | 8,132
42008 | KCWO-TV | 50,707 | 50,685 | 395
166511 | KCWV | 207,398 | 207,370 | 1,617
24316 | KCWX | 3,961,268 | 3,954,787 | 30,843
68713 | KCWY-DT | 80,904 | 80,479 | 628
22201 | KDAF | 6,648,507 | 6,645,226 | 51,826
33764 | KDBC-TV | 1,015,564 | 1,015,162 | 7,917
79258 | KDCK | 43,088 | 43,067 | 336
166332 | KDCU-DT | 753,204 | 753,190 | 5,874
38375 | KDEN-TV | 3,376,799 | 3,351,182 | 26,136
17037 | KDFI | 6,684,439 | 6,682,487 | 52,117
33770 | KDFW | 6,659,312 | 6,657,023 | 51,918
29102 | KDIN-TV | 1,088,376 | 1,083,845 | 8,453
25454 | KDKA-TV | 3,611,796 | 3,450,690 | 26,912
60740 | KDKF | 71,413 | 64,567 | 504
4691 | KDLH | 263,422 | 260,394 | 2,031
41975 | KDLO-TV | 208,354 | 208,118 | 1,623
55379 | KDLT-TV | 639,284 | 628,281 | 4,900
55375 | KDLV-TV | 96,873 | 96,620 | 754
25221 | KDMD | 376,906 | 374,641 | 2,922
78915 | KDMI | 1,141,990 | 1,140,939 | 8,898
56524 | KDNL-TV | 2,987,219 | 2,982,311 | 23,259
24518 | KDOC-TV | 17,503,793 | 16,701,233 | 130,253
1005 | KDOR-TV | 1,112,060 | 1,108,556 | 8,646
60736 | KDRV | 519,706 | 440,002 | 3,432
61064 | KDSD-TV | 64,314 | 59,635 | 465
53329 | KDSE | 42,896 | 41,432 | 323
56527 | KDSM-TV | 1,096,220 | 1,095,478 | 8,544
49326 | KDTN | 6,602,327 | 6,600,186 | 51,475
83491 | KDTP | 26,564 | 24,469 | 191
33778 | KDTV-DT | 7,959,349 | 7,129,638 | 55,604
67910 | KDTX-TV | 6,680,738 | 6,679,424 | 52,093
126 | KDVR | 3,644,912 | 3,521,884 | 27,467
18084 | KECI-TV | 211,745 | 193,803 | 1,511
51208 | KECY-TV | 399,372 | 394,379 | 3,076
58408 | KEDT | 513,683 | 513,683 | 4,006
55435 | KEET | 177,313 | 159,960 | 1,248
37103 | KEKE | 97,959 | 94,560 | 737
41983 | KELO-TV | 705,364 | 646,126 | 5,039
34440 | KEMO-TV | 8,270,858 | 7,381,656 | 57,570
2777 | KEMV | 619,889 | 559,135 | 4,361
26304 | KENS | 2,544,094 | 2,529,382 | 19,727
63845 | KENV-DT | 47,220 | 40,677 | 317
18338 | KENW | 87,017 | 87,017 | 679
50591 | KEPB-TV | 576,964 | 523,655 | 4,084
56029 | KEPR-TV | 453,259 | 433,260 | 3,379
49324 | KERA-TV | 6,681,083 | 6,677,852 | 52,081
40878 | KERO-TV | 1,285,357 | 1,164,979 | 9,086
61067 | KESD-TV | 166,018 | 159,195 | 1,242
25577 | KESQ-TV | 1,334,172 | 572,057 | 4,461
50205 | KETA-TV | 1,702,441 | 1,688,227 | 13,166
62182 | KETC | 2,913,924 | 2,911,313 | 22,705
37101 | KETD | 3,323,570 | 3,285,231 | 25,622
2768 | KETG | 426,883 | 409,511 | 3,194
12895 | KETH-TV | 6,088,821 | 6,088,677 | 47,486
55643 | KETK-TV | 1,031,567 | 1,030,122 | 8,034
2770 | KETS | 1,185,111 | 1,166,796 | 9,100
53903 | KETV | 1,355,238 | 1,350,292 | 10,531
92872 | KETZ | 526,890 | 523,877 | 4,086
68853 | KEYC-TV | 544,900 | 531,079 | 4,142
33691 | KEYE-TV | 2,732,257 | 2,652,529 | 20,687
60637 | KEYT-TV | 1,419,564 | 1,239,577 | 9,667
83715 | KEYU | 339,348 | 339,302 | 2,646
34406 | KEZI | 1,113,171 | 1,065,880 | 8,313
34412 | KFBB-TV | 93,519 | 91,964 | 717
125 | KFCT | 795,114 | 788,747 | 6,151
51466 | KFDA-TV | 385,064 | 383,977 | 2,995
22589 | KFDM | 732,665 | 732,588 | 5,713
65370 | KFDX-TV | 381,703 | 381,318 | 2,974
49264 | KFFV | 4,020,926 | 3,987,153 | 31,096
12729 | KFFX-TV | 409,952 | 403,692 | 3,148
83992 | KFJX | 689,090 | 663,506 | 5,175
42122 | KFMB-TV | 3,947,735 | 3,699,981 | 28,856
53321 | KFME | 393,045 | 392,472 | 3,061
74256 | KFNB | 80,382 | 79,842 | 623
21613 | KFNE | 54,988 | 54,420 | 424
21612 | KFNR | 10,988 | 10,965 | 86
66222 | KFOR-TV | 1,616,459 | 1,615,614 | 12,600
33716 | KFOX-TV | 1,023,999 | 1,018,549 | 7,944
41517 | KFPH-DT | 347,579 | 282,838 | 2,206
81509 | KFPX-TV | 963,969 | 963,846 | 7,517
31597 | KFQX | 186,473 | 163,637 | 1,276
59013 | KFRE-TV | 1,721,275 | 1,705,484 | 13,301
51429 | KFSF-DT | 7,348,828 | 6,528,430 | 50,915
66469 | KFSM-TV | 906,728 | 884,919 | 6,901
8620 | KFSN-TV | 1,836,607 | 1,819,585 | 14,191
29560 | KFTA-TV | 818,859 | 809,173 | 6,311
83714 | KFTC | 61,990 | 61,953 | 483
60537 | KFTH-DT | 6,080,688 | 6,080,373 | 47,421
60549 | KFTR-DT | 17,560,679 | 16,305,726 | 127,168
61335 | KFTS | 74,936 | 65,126 | 508
81441 | KFTU-DT | 113,876 | 109,731 | 856
34439 | KFTV-DT | 1,794,984 | 1,779,917 | 13,882
664 | KFVE | 82,902 | 73,553 | 574
592 | KFVS-TV | 895,871 | 873,777 | 6,815
29015 | KFWD | 6,666,428 | 6,660,565 | 51,946
35336 | KFXA | 875,538 | 874,070 | 6,817
17625 | KFXB-TV | 373,280 | 368,466 | 2,874
70917 | KFXK-TV | 934,043 | 931,791 | 7,267
84453 | KFXL-TV | 862,531 | 854,678 | 6,666
56079 | KFXV | 1,225,732 | 1,225,732 | 9,559
41427 | KFYR-TV | 130,881 | 128,301 | 1,001
25685 | KGAN | 1,083,213 | 1,057,597 | 8,248
34457 | KGBT-TV | 1,239,001 | 1,238,870 | 9,662
7841 | KGCW | 949,575 | 945,476 | 7,374
24485 | KGEB | 1,186,225 | 1,150,201 | 8,970
34459 | KGET-TV | 917,927 | 874,332 | 6,819
53320 | KGFE | 114,564 | 114,564 | 893
7894 | KGIN | 230,535 | 228,338 | 1,781
83945 | KGLA-DT | 1,636,922 | 1,636,922 | 12,766
34445 | KGMB | 953,398 | 851,088 | 6,638
58608 | KGMC | 1,936,675 | 1,914,168 | 14,929
36914 | KGMD-TV | 94,323 | 93,879 | 732
36920 | KGMV | 193,564 | 162,230 | 1,265
10061 | KGNS-TV | 267,236 | 259,548 | 2,024
34470 | KGO-TV | 8,637,074 | 7,929,294 | 61,841
56034 | KGPE | 1,699,131 | 1,682,082 | 13,119
81694 | KGPX-TV | 685,626 | 624,955 | 4,874
25511 | KGTF | 161,885 | 160,568 | 1,252
40876 | KGTV | 3,960,667 | 3,682,219 | 28,718
36918 | KGUN-TV | 1,398,527 | 1,212,484 | 9,456
34874 | KGW | 3,026,617 | 2,878,510 | 22,449
63177 | KGWC-TV | 80,475 | 80,009 | 624
63162 | KGWL-TV | 38,125 | 38,028 | 297
63166 | KGWN-TV | 469,467 | 440,388 | 3,435
63170 | KGWR-TV | 51,315 | 50,957 | 397
4146 | KHAW-TV | 95,204 | 94,851 | 740
60353 | KHBS | 631,770 | 608,052 | 4,742
27300 | KHCE-TV | 2,353,883 | 2,348,391 | 18,315
26431 | KHET | 959,060 | 944,568 | 7,367
21160 | KHGI-TV | 233,973 | 229,173 | 1,787
36917 | KHII-TV | 953,895 | 851,585 | 6,642
29085 | KHIN | 1,041,244 | 1,039,383 | 8,106
17688 | KHME | 181,345 | 179,706 | 1,402
47670 | KHMT | 175,601 | 170,957 | 1,333
47987 | KHNE-TV | 203,931 | 202,944 | 1,583
34867 | KHNL | 953,398 | 851,088 | 6,638
60354 | KHOG-TV | 765,360 | 702,984 | 5,483
4144 | KHON-TV | 953,207 | 886,431 | 6,913
34529 | KHOU | 6,083,315 | 6,081,936 | 47,433
4690 | KHQA-TV | 318,469 | 316,134 | 2,466
34537 | KHQ-TV | 822,371 | 774,821 | 6,043
30601 | KHRR | 1,227,847 | 1,166,890 | 9,101
34348 | KHSD-TV | 188,735 | 185,202 | 1,444
24508 | KHSL-TV | 625,904 | 608,850 | 4,748
69677 | KHSV | 2,059,794 | 2,020,045 | 15,754
64544 | KHVO | 94,226 | 93,657 | 730
23394 | KIAH | 6,099,694 | 6,099,297 | 47,568
34564 | KICU-TV | 8,233,041 | 7,174,316 | 55,952
56028 | KIDK | 305,509 | 302,535 | 2,359
58560 | KIDY | 116,614 | 116,596 | 909
53382 | KIEM-TV | 174,390 | 160,801 | 1,254
66258 | KIFI-TV | 324,422 | 320,118 | 2,497
16950 | KIFR | 2,180,045 | 2,160,460 | 16,849
10188 | KIII | 569,864 | 566,796 | 4,420
29095 | KIIN | 1,365,215 | 1,335,707 | 10,417
34527 | KIKU | 953,896 | 850,963 | 6,637
63865 | KILM | 17,256,205 | 15,804,489 | 123,259
56033 | KIMA-TV | 308,604 | 260,593 | 2,032
66402 | KIMT | 654,083 | 643,384 | 5,018
67089 | KINC | 2,002,066 | 1,920,903 | 14,981
34847 | KING-TV | 4,074,288 | 4,036,926 | 31,484
51708 | KINT-TV | 1,015,582 | 1,015,274 | 7,918
26249 | KION-TV | 2,400,317 | 855,808 | 6,674
62427 | KIPT | 171,405 | 170,455 | 1,329
66781 | KIRO-TV | 4,058,101 | 4,030,968 | 31,438
62430 | KISU-TV | 311,827 | 307,651 | 2,399
12896 | KITU-TV | 712,362 | 712,362 | 5,556
64548 | KITV | 953,207 | 839,906 | 6,550
59255 | KIVI-TV | 710,819 | 702,619 | 5,480
47285 | KIXE-TV | 467,518 | 428,118 | 3,339
13792 | KJJC-TV | 82,749 | 81,865 | 638
14000 | KJLA | 17,929,100 | 16,794,896 | 130,983
20015 | KJNP-TV | 98,403 | 98,097 | 765
53315 | KJRE | 16,187 | 16,170 | 126
59439 | KJRH-TV | 1,416,108 | 1,397,311 | 10,898
55364 | KJRR | 45,515 | 44,098 | 344
7675 | KJTL | 379,594 | 379,263 | 2,958
55031 | KJTV-TV | 406,283 | 406,260 | 3,168
13814 | KJUD | 31,229 | 30,106 | 235
36607 | KJZZ-TV | 2,388,965 | 2,209,183 | 17,229
83180 | KKAI | 953,400 | 919,742 | 7,173
58267 | KKAP | 957,786 | 923,172 | 7,200
24766 | KKCO | 206,018 | 172,628 | 1,346
35097 | KKJB | 629,939 | 624,784 | 4,873
22644 | KKPX-TV | 7,588,288 | 6,758,490 | 52,709
35037 | KKTV | 2,892,126 | 2,478,864 | 19,333
35042 | KLAS-TV | 2,094,297 | 1,940,030 | 15,130
52907 | KLAX-TV | 367,212 | 366,839 | 2,861
3660 | KLBK-TV | 387,783 | 387,743 | 3,024
65523 | KLBY | 31,102 | 31,096 | 243
38430 | KLCS | 17,129,650 | 15,689,832 | 122,365
77719 | KLCW-TV | 381,889 | 381,816 | 2,978
51479 | KLDO-TV | 250,832 | 250,832 | 1,956
37105 | KLEI | 175,045 | 138,087 | 1,077
56032 | KLEW-TV | 164,908 | 148,256 | 1,156
35059 | KLFY-TV | 1,355,890 | 1,355,409 | 10,571
54011 | KLJB | 1,027,104 | 1,012,309 | 7,895
11264 | KLKN | 1,161,979 | 1,122,111 | 8,751
52593 | KLML | 270,089 | 218,544 | 1,704
47975 | KLNE-TV | 123,324 | 123,246 | 961
38590 | KLPA-TV | 414,699 | 414,447 | 3,232
38588 | KLPB-TV | 749,053 | 749,053 | 5,842
749 | KLRN | 2,374,472 | 2,353,440 | 18,354
11951 | KLRT-TV | 1,171,678 | 1,152,541 | 8,989
8564 | KLRU | 2,614,658 | 2,575,518 | 20,086
8322 | KLSR-TV | 564,415 | 508,157 | 3,963
31114 | KLST | 199,067 | 169,551 | 1,322
24436 | KLTJ | 6,034,131 | 6,033,867 | 47,058
38587 | KLTL-TV | 423,574 | 423,574 | 3,303
38589 | KLTM-TV | 694,280 | 688,915 | 5,373
38591 | KLTS-TV | 947,141 | 944,257 | 7,364
68540 | KLTV | 1,069,690 | 1,051,361 | 8,200
12913 | KLUJ-TV | 1,195,751 | 1,195,751 | 9,326
57220 | KLUZ-TV | 1,079,718 | 1,019,302 | 7,950
11683 | KLVX | 2,044,150 | 1,936,083 | 15,100
82476 | KLWB | 1,065,748 | 1,065,748 | 8,312
40250 | KLWY | 541,043 | 538,231 | 4,198
64551 | KMAU | 213,060 | 188,953 | 1,474
51499 | KMAX-TV | 10,767,605 | 7,132,240 | 55,624
65686 | KMBC-TV | 2,506,035 | 2,504,622 | 19,534
35183 | KMCB | 69,357 | 66,203 | 516
41237 | KMCC | 2,064,592 | 2,010,262 | 15,678
42636 | KMCI-TV | 2,429,392 | 2,428,626 | 18,941
38584 | KMCT-TV | 267,004 | 266,880 | 2,081
22127 | KMCY | 71,797 | 71,793 | 560
162016 | KMDE | 35,409 | 35,401 | 276
26428 | KMEB | 221,810 | 203,470 | 1,587
39665 | KMEG | 708,748 | 704,130 | 5,492
35123 | KMEX-DT | 17,628,354 | 16,318,720 | 127,270
40875 | KMGH-TV | 3,815,224 | 3,574,344 | 27,876
35131 | KMID | 383,449 | 383,439 | 2,990
16749 | KMIR-TV | 2,760,914 | 730,764 | 5,699
63164 | KMIZ | 532,025 | 530,008 | 4,134
53541 | KMLM-DT | 293,290 | 293,290 | 2,287
52046 | KMLU | 711,951 | 708,107 | 5,523
47981 | KMNE-TV | 47,232 | 44,189 | 345
24753 | KMOH-TV | 199,885 | 184,283 | 1,437
4326 | KMOS-TV | 804,745 | 803,129 | 6,264
41425 | KMOT | 81,517 | 79,504 | 620
70034 | KMOV | 3,035,077 | 3,029,405 | 23,626
51488 | KMPH-TV | 1,754,037 | 1,717,555 | 13,395
73701 | KMPX | 6,678,829 | 6,674,706 | 52,056
44052 | KMSB | 1,321,614 | 1,039,442 | 8,107
68883 | KMSP-TV | 3,857,891 | 3,829,859 | 29,869
12525 | KMSS-TV | 1,067,838 | 1,066,106 | 8,315
43095 | KMTP-TV | 5,242,638 | 4,441,372 | 34,638
35189 | KMTR | 589,948 | 520,666 | 4,061
35190 | KMTV-TV | 1,346,549 | 1,344,796 | 10,488
77063 | KMTW | 761,521 | 761,516 | 5,939
35200 | KMVT | 184,647 | 176,351 | 1,375
32958 | KMVU-DT | 308,150 | 231,506 | 1,806
86534 | KMYA-DT | 200,764 | 200,725 | 1,565
51518 | KMYS | 2,273,888 | 2,267,913 | 17,687
54420 | KMYT-TV | 1,314,197 | 1,302,378 | 10,157
35822 | KMYU | 133,563 | 130,198 | 1,015
993 | KNAT-TV | 1,157,630 | 1,124,619 | 8,771
24749 | KNAZ-TV | 332,321 | 227,658 | 1,776
47906 | KNBC | 17,244,237 | 15,812,389 | 123,321
81464 | KNBN | 145,493 | 136,995 | 1,068
9754 | KNCT | 1,751,838 | 1,726,148 | 13,462
82611 | KNDB | 118,154 | 118,122 | 921
82615 | KNDM | 72,216 | 72,209 | 563
12395 | KNDO | 314,875 | 270,892 | 2,113
12427 | KNDU | 475,612 | 462,556 | 3,607
17683 | KNEP | 101,389 | 95,890 | 748
48003 | KNHL | 277,777 | 277,308 | 2,163
125710 | KNIC-DT | 2,398,296 | 2,383,294 | 18,587
59363 | KNIN-TV | 708,289 | 703,838 | 5,489
48525 | KNLC | 2,981,508 | 2,978,979 | 23,233
48521 | KNLJ | 655,000 | 642,705 | 5,012
84215 | KNMD-TV | 1,135,642 | 1,108,358 | 8,644
55528 | KNME-TV | 1,148,741 | 1,105,095 | 8,619
47707 | KNMT | 2,887,142 | 2,794,995 | 21,798
48975 | KNOE-TV | 733,097 | 729,703 | 5,691
49273 | KNOP-TV | 87,904 | 85,423 | 666
10228 | KNPB | 604,614 | 462,732 | 3,609
55362 | KNRR | 25,957 | 25,931 | 202
35277 | KNSD | 3,861,660 | 3,618,321 | 28,219
19191 | KNSN-TV | 611,981 | 459,485 | 3,584
23302 | KNSO | 1,824,786 | 1,803,796 | 14,068
35280 | KNTV | 8,525,818 | 8,027,505 | 62,607
144 | KNVA | 2,550,225 | 2,529,184 | 19,725
33745 | KNVN | 495,902 | 470,252 | 3,667
69692 | KNVO | 1,247,014 | 1,247,014 | 9,725
29557 | KNWA-TV | 822,906 | 804,682 | 6,276
59440 | KNXV-TV | 4,183,943 | 4,173,022 | 32,545
59014 | KOAA-TV | 1,608,528 | 1,203,731 | 9,388
50588 | KOAB-TV | 207,070 | 203,371 | 1,586
50590 | KOAC-TV | 1,957,282 | 1,543,401 | 12,037
58552 | KOAM-TV | 793,563 | 767,962 | 5,989
53928 | KOAT-TV | 1,132,372 | 1,105,116 | 8,619
35313 | KOB | 1,152,841 | 1,113,162 | 8,682
35321 | KOBF | 201,911 | 166,177 | 1,296
8260 | KOBI | 562,463 | 519,063 | 4,048
62272 | KOBR | 211,709 | 211,551 | 1,650
50170 | KOCB | 1,629,783 | 1,629,152 | 12,706
4328 | KOCE-TV | 17,446,133 | 16,461,581 | 128,384
84225 | KOCM | 1,434,325 | 1,433,605 | 11,181
12508 | KOCO-TV | 1,716,569 | 1,708,085 | 13,321
83181 | KOCW | 83,807 | 83,789 | 653
18283 | KODE-TV | 740,156 | 731,512 | 5,705
66195 | KOED-TV | 1,497,297 | 1,459,833 | 11,385
50198 | KOET | 658,606 | 637,640 | 4,973
51189 | KOFY-TV | 5,242,638 | 4,441,372 | 34,638
34859 | KOGG | 190,829 | 161,310 | 1,258
166534 | KOHD | 201,310 | 197,662 | 1,542
35380 | KOIN | 3,028,482 | 2,881,460 | 22,473
35388 | KOKH-TV | 1,627,116 | 1,625,246 | 12,675
11910 | KOKI-TV | 1,366,220 | 1,352,227 | 10,546
48663 | KOLD-TV | 1,216,228 | 887,754 | 6,924
7890 | KOLN | 1,421,223 | 1,337,970 | 10,435
63331 | KOLO-TV | 959,178 | 826,985 | 6,450
28496 | KOLR | 1,076,144 | 1,038,613 | 8,100
21656 | KOMO-TV | 4,132,260 | 4,087,435 | 31,878
65583 | KOMU-TV | 551,658 | 542,544 | 4,231
35396 | KONG | 3,998,831 | 3,981,688 | 31,053
60675 | KOOD | 113,416 | 113,285 | 884
50589 | KOPB-TV | 3,059,231 | 2,875,815 | 22,428
2566 | KOPX-TV | 1,501,110 | 1,500,883 | 11,705
64877 | KORO | 560,983 | 560,983 | 4,375
6865 | KOSA-TV | 340,978 | 338,070 | 2,637
34347 | KOTA-TV | 174,876 | 152,861 | 1,192
8284 | KOTI | 298,175 | 97,132 | 758
35434 | KOTV-DT | 1,417,753 | 1,403,838 | 10,949
56550 | KOVR | 10,784,477 | 7,162,989 | 55,864
51101 | KOZJ | 429,982 | 427,991 | 3,338
51102 | KOZK | 839,841 | 834,308 | 6,507
3659 | KOZL-TV | 992,495 | 963,281 | 7,513
35455 | KPAX-TV | 206,895 | 193,201 | 1,507
67868 | KPAZ-TV | 4,190,080 | 4,176,323 | 32,571
6124 | KPBS | 3,584,237 | 3,463,189 | 27,009
50044 | KPBT-TV | 340,080 | 340,080 | 2,652
77452 | KPCB-DT | 30,861 | 30,835 | 240
35460 | KPDX | 2,970,703 | 2,848,423 | 22,215
12524 | KPEJ-TV | 368,212 | 368,208 | 2,872
41223 | KPHO-TV | 4,195,073 | 4,175,139 | 32,562
61551 | KPIC | 156,687 | 105,807 | 825
86205 | KPIF | 265,080 | 258,174 | 2,013
25452 | KPIX-TV | 8,226,463 | 7,360,625 | 57,406
58912 | KPJK | 7,884,411 | 6,955,179 | 54,243
166510 | KPJR-TV | 3,402,088 | 3,372,831 | 26,305
13994 | KPLC | 1,406,085 | 1,403,853 | 10,949
41964 | KPLO-TV | 55,827 | 52,765 | 412
35417 | KPLR-TV | 2,991,598 | 2,988,106 | 23,304
12144 | KPMR | 1,731,370 | 1,473,251 | 11,490
47973 | KPNE-TV | 92,675 | 89,021 | 694
35486 | KPNX | 4,180,982 | 4,176,442 | 32,572
77512 | KPNZ | 2,394,311 | 2,208,707 | 17,226
73998 | KPOB-TV | 144,525 | 143,656 | 1,120
26655 | KPPX-TV | 4,186,998 | 4,171,450 | 32,533
53117 | KPRC-TV | 6,099,422 | 6,099,076 | 47,567
48660 | KPRY-TV | 42,521 | 42,426 | 331
61071 | KPSD-TV | 19,886 | 18,799 | 147
53544 | KPTB-DT | 322,780 | 320,646 | 2,501
81445 | KPTF-DT | 84,512 | 84,512 | 659
77451 | KPTH | 660,556 | 655,373 | 5,111
51491 | KPTM | 1,405,533 | 1,404,364 | 10,953
33345 | KPTS | 832,000 | 827,866 | 6,457
50633 | KPTV | 2,998,460 | 2,847,263 | 22,206
82575 | KPTW | 89,433 | 82,522 | 644
1270 | KPVI-DT | 271,379 | 264,204 | 2,061
58835 | KPXB-TV | 6,062,458 | 6,062,238 | 47,279
68695 | KPXC-TV | 3,362,518 | 3,341,951 | 26,064
68834 | KPXD-TV | 6,555,157 | 6,553,373 | 51,110
33337 | KPXE-TV | 2,437,178 | 2,436,024 | 18,999
5801 | KPXG-TV | 3,026,219 | 2,882,598 | 22,481
81507 | KPXJ | 1,138,632 | 1,135,626 | 8,857
61173 | KPXL-TV | 2,257,007 | 2,243,520 | 17,497
35907 | KPXM-TV | 3,507,312 | 3,506,503 | 27,347
58978 | KPXN-TV | 17,256,205 | 15,804,489 | 123,259
77483 | KPXO-TV | 953,329 | 913,341 | 7,123
21156 | KPXR-TV | 828,915 | 821,250 | 6,405
10242 | KQCA | 10,077,891 | 6,276,197 | 48,948
41430 | KQCD-TV | 35,623 | 33,415 | 261
18287 | KQCK | 3,216,059 | 3,185,307 | 24,842
78322 | KQCW-DT | 1,128,198 | 1,123,324 | 8,761
35525 | KQDS-TV | 304,935 | 301,439 | 2,351
35500 | KQED | 8,195,398 | 7,283,828 | 56,807
35663 | KQEH | 8,195,398 | 7,283,828 | 56,807
8214 | KQET | 2,981,040 | 2,076,157 | 16,192
5471 | KQIN | 596,371 | 596,277 | 4,650
17686 | KQME | 188,783 | 184,719 | 1,441
61063 | KQSD-TV | 32,526 | 31,328 | 244
8378 | KQSL | 199,123 | 142,419 | 1,111
20427 | KQTV | 1,494,987 | 1,401,160 | 10,928
78921 | KQUP | 697,016 | 551,824 | 4,304
306 | KRBC-TV | 229,395 | 229,277 | 1,788
166319 | KRBK | 983,888 | 966,187 | 7,535
22161 | KRCA | 17,540,791 | 16,957,292 | 132,250
57945 | KRCB | 8,783,441 | 8,503,802 | 66,321
41110 | KRCG | 737,927 | 722,255 | 5,633
8291 | KRCR-TV | 423,000 | 402,594 | 3,140
10192 | KRCW-TV | 2,966,912 | 2,842,523 | 22,169
49134 | KRDK-TV | 349,941 | 349,929 | 2,729
52579 | KRDO-TV | 2,622,603 | 2,272,383 | 17,722
70578 | KREG-TV | 149,306 | 95,141 | 742
34868 | KREM | 817,619 | 752,113 | 5,866
51493 | KREN-TV | 810,039 | 681,212 | 5,313
70596 | KREX-TV | 145,700 | 145,606 | 1,136
70579 | KREY-TV | 74,963 | 65,700 | 512
48589 | KREZ-TV | 148,079 | 105,121 | 820
43328 | KRGV-TV | 1,247,057 | 1,247,029 | 9,726
82698 | KRII | 133,840 | 132,912 | 1,037
29114 | KRIN | 949,313 | 923,735 | 7,204
25559 | KRIS-TV | 565,112 | 565,044 | 4,407
22204 | KRIV | 6,078,936 | 6,078,846 | 47,409
14040 | KRMA-TV | 3,722,512 | 3,564,949 | 27,803
14042 | KRMJ | 174,094 | 159,511 | 1,244
20476 | KRMT | 2,956,144 | 2,864,236 | 22,338
84224 | KRMU | 85,274 | 72,499 | 565
20373 | KRMZ | 36,293 | 33,620 | 262
47971 | KRNE-TV | 47,473 | 38,273 | 298
60307 | KRNV-DT | 955,490 | 792,543 | 6,181
65526 | KRON-TV | 8,573,167 | 8,028,256 | 62,612
53539 | KRPV-DT | 65,943 | 65,943 | 514
48575 | KRQE | 1,135,461 | 1,105,093 | 8,619
57431 | KRSU-TV | 1,000,289 | 998,310 | 7,786
82613 | KRTN-TV | 84,231 | 68,550 | 535
35567 | KRTV | 92,645 | 90,849 | 709
84157 | KRWB-TV | 111,538 | 110,979 | 866
35585 | KRWF | 85,596 | 85,596 | 668
55516 | KRWG-TV | 894,492 | 661,703 | 5,161
48360 | KRXI-TV | 725,391 | 548,865 | 4,281
307 | KSAN-TV | 135,063 | 135,051 | 1,053
11911 | KSAS-TV | 752,513 | 752,504 | 5,869
53118 | KSAT-TV | 2,539,658 | 2,502,246 | 19,515
35584 | KSAX | 365,209 | 365,209 | 2,848
35587 | KSAZ-TV | 4,203,126 | 4,178,448 | 32,588
38214 | KSBI | 1,577,231 | 1,575,865 | 12,290
19653 | KSBW | 5,083,461 | 4,429,165 | 34,543
19654 | KSBY | 535,029 | 495,562 | 3,865
82910 | KSCC | 517,740 | 517,740 | 4,038
10202 | KSCE | 1,015,148 | 1,010,581 | 7,882
35608 | KSCI | 17,446,133 | 16,461,581 | 128,384
72348 | KSCW-DT | 915,691 | 910,511 | 7,101
46981 | KSDK | 2,986,776 | 2,979,047 | 23,234
35594 | KSEE | 1,761,193 | 1,746,282 | 13,619
48658 | KSFY-TV | 670,536 | 607,844 | 4,741
17680 | KSGW-TV | 62,178 | 57,629 | 449
59444 | KSHB-TV | 2,432,205 | 2,431,273 | 18,961
73706 | KSHV-TV | 943,947 | 942,978 | 7,354
29096 | KSIN-TV | 340,143 | 338,811 | 2,642
34846 | KSIX-TV | 74,884 | 74,884 | 584
35606 | KSKN | 731,818 | 643,590 | 5,019
70482 | KSLA | 1,017,556 | 1,016,667 | 7,929
6359 | KSL-TV | 2,390,742 | 2,206,920 | 17,212
71558 | KSMN | 320,813 | 320,808 | 2,502
33336 | KSMO-TV | 2,401,201 | 2,398,686 | 18,707
28510 | KSMQ-TV | 524,391 | 507,983 | 3,962
35611 | KSMS-TV | 1,589,263 | 882,948 | 6,886
21161 | KSNB-TV | 664,079 | 662,726 | 5,169
72359 | KSNC | 174,135 | 173,744 | 1,355
67766 | KSNF | 621,919 | 617,868 | 4,819
72361 | KSNG | 145,058 | 144,822 | 1,129
72362 | KSNK | 48,715 | 45,414 | 354
67335 | KSNT | 622,818 | 594,604 | 4,637
10179 | KSNV | 1,967,781 | 1,919,296 | 14,969
72358 | KSNW | 791,403 | 791,127 | 6,170
61956 | KSPS-TV | 819,101 | 769,852 | 6,004
52953 | KSPX-TV | 7,078,228 | 5,275,946 | 41,147
166546 | KSQA | 382,328 | 374,290 | 2,919
53313 | KSRE | 75,181 | 75,181 | 586
35843 | KSTC-TV | 3,843,788 | 3,835,674 | 29,914
63182 | KSTF | 51,317 | 51,122 | 399
28010 | KSTP-TV | 3,788,898 | 3,782,053 | 29,496
60534 | KSTR-DT | 6,632,577 | 6,629,296 | 51,702
64987 | KSTS | 8,363,473 | 7,264,852 | 56,659
22215 | KSTU | 2,384,996 | 2,201,716 | 17,171
23428 | KSTW | 4,265,956 | 4,186,266 | 32,649
5243 | KSVI | 175,390 | 173,667 | 1,354
58827 | KSWB-TV | 3,677,190 | 3,488,655 | 27,208
60683 | KSWK | 79,012 | 78,784 | 614
35645 | KSWO-TV | 483,132 | 458,057 | 3,572
61350 | KSYS | 519,209 | 443,204 | 3,457
59988 | KTAB-TV | 274,707 | 274,536 | 2,141
999 | KTAJ-TV | 2,343,843 | 2,343,227 | 18,275
35648 | KTAL-TV | 1,094,332 | 1,092,958 | 8,524
12930 | KTAS | 471,882 | 464,149 | 3,620
81458 | KTAZ | 4,182,503 | 4,160,481 | 32,448
35649 | KTBC | 3,242,215 | 2,956,614 | 23,059
67884 | KTBN-TV | 17,929,445 | 16,750,096 | 130,634
67999 | KTBO-TV | 1,585,293 | 1,583,553 | 12,350
35652 | KTBS-TV | 1,163,228 | 1,159,665 | 9,044
28324 | KTBU | 6,035,927 | 6,035,725 | 47,073
67950 | KTBW-TV | 4,202,104 | 4,108,031 | 32,039
35655 | KTBY | 348,080 | 346,562 | 2,703
68594 | KTCA-TV | 3,693,877 | 3,684,081 | 28,732
68597 | KTCI-TV | 3,606,606 | 3,597,183 | 28,054
35187 | KTCW | 103,341 | 89,207 | 696
36916 | KTDO | 1,015,336 | 1,010,771 | 7,883
2769 | KTEJ | 419,750 | 417,368 | 3,255
83707 | KTEL-TV | 52,878 | 52,875 | 412
35666 | KTEN | 602,788 | 599,778 | 4,678
24514 | KTFD-TV | 3,210,669 | 3,172,543 | 24,743
35512 | KTFF-DT | 2,225,169 | 2,203,398 | 17,184
20871 | KTFK-DT | 6,969,307 | 5,211,719 | 40,646
68753 | KTFN | 1,017,335 | 1,013,157 | 7,902
35084 | KTFQ-TV | 1,151,433 | 1,117,061 | 8,712
29232 | KTGM | 159,358 | 159,091 | 1,241
2787 | KTHV | 1,275,053 | 1,246,348 | 9,720
29100 | KTIN | 281,096 | 279,385 | 2,179
66170 | KTIV | 751,089 | 746,274 | 5,820
49397 | KTKA-TV | 759,369 | 746,370 | 5,821
35670 | KTLA | 18,156,910 | 16,870,262 | 131,571
62354 | KTLM | 1,044,526 | 1,044,509 | 8,146
49153 | KTLN-TV | 5,381,955 | 4,740,894 | 36,974
64984 | KTMD | 6,095,741 | 6,095,606 | 47,540
14675 | KTMF | 187,251 | 168,526 | 1,314
10177 | KTMW | 2,261,671 | 2,144,791 | 16,727
21533 | KTNC-TV | 8,270,858 | 7,381,656 | 57,570
47996 | KTNE-TV | 100,341 | 95,324 | 743
60519 | KTNL-TV | 8,642 | 8,642 | 67
74100 | KTNV-TV | 2,094,506 | 1,936,752 | 15,105
71023 | KTNW | 450,926 | 432,398 | 3,372
8651 | KTOO-TV | 31,269 | 31,176 | 243
7078 | KTPX-TV | 1,066,196 | 1,063,754 | 8,296
68541 | KTRE | 441,879 | 421,406 | 3,287
35675 | KTRK-TV | 6,114,259 | 6,112,870 | 47,674
28230 | KTRV-TV | 714,833 | 707,557 | 5,518
69170 | KTSC | 3,124,536 | 2,949,795 | 23,005
61066 | KTSD-TV | 83,645 | 82,828 | 646
37511 | KTSF | 7,959,349 | 7,129,638 | 55,604
67760 | KTSM-TV | 1,015,348 | 1,011,264 | 7,887
35678 | KTTC | 815,213 | 731,919 | 5,708
28501 | KTTM | 76,133 | 73,664 | 575
11908 | KTTU | 1,324,801 | 1,060,613 | 8,272
22208 | KTTV | 17,380,551 | 16,693,085 | 130,189
28521 | KTTW | 329,633 | 326,405 | 2,546
65355 | KTTZ-TV | 380,240 | 380,225 | 2,965
35685 | KTUL | 1,416,959 | 1,388,183 | 10,826
10173 | KTUU-TV | 380,240 | 379,047 | 2,956
77480 | KTUZ-TV | 1,668,531 | 1,666,026 | 12,993
49632 | KTVA | 342,517 | 342,300 | 2,670
34858 | KTVB | 714,865 | 707,882 | 5,521
31437 | KTVC | 137,239 | 100,204 | 781
68581 | KTVD | 3,800,970 | 3,547,607 | 27,668
35692 | KTVE | 641,139 | 640,201 | 4,993
49621 | KTVF | 98,068 | 97,929 | 764
5290 | KTVH-DT | 228,832 | 184,264 | 1,437
35693 | KTVI | 2,995,764 | 2,991,513 | 23,331
40993 | KTVK | 4,184,825 | 4,173,028 | 32,545
22570 | KTVL | 419,849 | 369,469 | 2,881
18066 | KTVM-TV | 260,105 | 217,694 | 1,698
59139 | KTVN | 955,490 | 800,420 | 6,242
21251 | KTVO | 227,128 | 226,616 | 1,767
35694 | KTVQ | 179,797 | 173,271 | 1,351
50592 | KTVR | 147,808 | 54,480 | 425
23422 | KTVT | 6,912,366 | 6,908,715 | 53,881
35703 | KTVU | 8,297,634 | 7,406,751 | 57,765
35705 | KTVW-DT | 4,174,310 | 4,160,877 | 32,451
68889 | KTVX | 2,389,392 | 2,200,520 | 17,162
55907 | KTVZ | 201,828 | 198,558 | 1,549
18286 | KTWO-TV | 80,426 | 79,905 | 623
70938 | KTWU | 1,703,798 | 1,562,305 | 12,184
51517 | KTXA | 6,915,461 | 6,911,822 | 53,905
42359 | KTXD-TV | 6,706,651 | 6,704,781 | 52,291
51569 | KTXH | 6,092,627 | 6,092,442 | 47,515
10205 | KTXL | 8,306,449 | 5,896,320 | 45,985
308 | KTXS-TV | 247,603 | 246,760 | 1,924
69315 | KUAC-TV | 98,717 | 98,189 | 766
51233 | KUAM-TV | 159,358 | 159,358 | 1,243
2722 | KUAS-TV | 994,802 | 977,391 | 7,623
2731 | KUAT-TV | 1,485,024 | 1,253,342 | 9,775
60520 | KUBD | 14,817 | 13,363 | 104
70492 | KUBE-TV | 6,090,970 | 6,090,817 | 47,502
1136 | KUCW | 2,388,889 | 2,199,787 | 17,156
69396 | KUED | 2,388,995 | 2,203,093 | 17,182
69582 | KUEN | 2,364,481 | 2,184,483 | 17,037
82576 | KUES | 30,925 | 25,978 | 203
82585 | KUEW | 132,168 | 120,411 | 939
66611 | KUFM-TV | 187,680 | 166,697 | 1,300
169028 | KUGF-TV | 86,622 | 85,986 | 671
68717 | KUHM-TV | 154,836 | 145,241 | 1,133
69269 | KUHT | 6,080,222 | 6,078,866 | 47,409
62382 | KUID-TV | 432,855 | 284,023 | 2,215
169027 | KUKL-TV | 124,505 | 115,844 | 903
35724 | KULR-TV | 177,242 | 170,142 | 1,327
41429 | KUMV-TV | 41,607 | 41,224 | 322
81447 | KUNP | 130,559 | 43,472 | 339
4624 | KUNS-TV | 4,027,849 | 4,015,626 | 31,318
86532 | KUOK | 28,974 | 28,945 | 226
66589 | KUON-TV | 1,375,257 | 1,360,005 | 10,607
86263 | KUPB | 318,914 | 318,914 | 2,487
65535 | KUPK | 149,642 | 148,180 | 1,156
27431 | KUPT | 87,602 | 87,602 | 683
89714 | KUPU | 956,178 | 948,005 | 7,393
57884 | KUPX-TV | 2,374,672 | 2,191,229 | 17,089
23074 | KUSA | 3,802,407 | 3,560,546 | 27,769
61072 | KUSD-TV | 460,480 | 460,277 | 3,590
10238 | KUSI-TV | 3,572,818 | 3,435,670 | 26,795
43567 | KUSM-TV | 122,678 | 109,830 | 857
69694 | KUTF | 1,210,774 | 1,031,870 | 8,048
81451 | KUTH-DT | 2,219,788 | 2,027,174 | 15,810
68886 | KUTP | 4,191,015 | 4,176,014 | 32,569
35823 | KUTV | 2,388,625 | 2,199,731 | 17,156
63927 | KUVE-DT | 1,294,971 | 964,396 | 7,521
7700 | KUVI-DT | 1,204,490 | 1,009,943 | 7,877
35841 | KUVN-DT | 6,680,126 | 6,678,157 | 52,083
58609 | KUVS-DT | 4,043,413 | 4,005,657 | 31,240
49766 | KVAL-TV | 1,016,673 | 866,173 | 6,755
32621 | KVAW | 76,153 | 76,153 | 594
58795 | KVCR-DT | 18,215,524 | 17,467,140 | 136,226
35846 | KVCT | 288,221 | 287,446 | 2,242
10195 | KVCW | 1,967,550 | 1,918,809 | 14,965
64969 | KVDA | 2,566,563 | 2,548,720 | 19,877
19783 | KVEA | 17,538,249 | 16,335,335 | 127,399
12523 | KVEO-TV | 1,244,504 | 1,244,504 | 9,706
2495 | KVEW | 476,720 | 464,347 | 3,621
35852 | KVHP | 747,917 | 747,837 | 5,832
49832 | KVIA-TV | 1,015,350 | 1,011,266 | 7,887
35855 | KVIE | 10,759,440 | 7,467,369 | 58,238
40450 | KVIH-TV | 91,912 | 91,564 | 714
40446 | KVII-TV | 379,042 | 378,218 | 2,950
61961 | KVLY-TV | 362,850 | 362,838 | 2,830
16729 | KVMD | 15,274,297 | 14,512,400 | 113,182
83825 | KVME-TV | 26,711 | 22,802 | 178
25735 | KVOA | 1,317,956 | 1,030,404 | 8,036
35862 | KVOS-TV | 2,202,674 | 2,131,652 | 16,625
69733 | KVPT | 1,744,349 | 1,719,318 | 13,409
55372 | KVRR | 356,645 | 356,645 | 2,781
166331 | KVSN-DT | 2,706,244 | 2,283,409 | 17,808
608 | KVTH-DT | 303,755 | 299,230 | 2,334
2784 | KVTJ-DT | 1,466,426 | 1,465,802 | 11,432
607 | KVTN-DT | 936,328 | 925,884 | 7,221
35867 | KVUE | 2,661,290 | 2,611,314 | 20,366
78910 | KVUI | 257,964 | 251,872 | 1,964
35870 | KVVU-TV | 2,045,255 | 1,935,583 | 15,096
36170 | KVYE | 396,495 | 392,498 | 3,061
35095 | KWBA-TV | 1,129,524 | 1,073,029 | 8,369
78314 | KWBM | 657,822 | 639,560 | 4,988
27425 | KWBN | 953,207 | 840,455 | 6,555
76268 | KWBQ | 1,149,598 | 1,107,211 | 8,635
66413 | KWCH-DT | 883,647 | 881,674 | 6,876
71549 | KWCM-TV | 252,284 | 244,033 | 1,903
35419 | KWDK | 4,194,152 | 4,117,852 | 32,115
42007 | KWES-TV | 424,854 | 423,536 | 3,303
50194 | KWET | 127,976 | 112,750 | 879
35881 | KWEX-DT | 2,376,463 | 2,370,469 | 18,487
35883 | KWGN-TV | 3,706,455 | 3,513,537 | 27,402
37099 | KWHB | 979,393 | 978,719 | 7,633
36846 | KWHE | 952,966 | 834,341 | 6,507
26231 | KWHY-TV | 17,736,497 | 17,695,306 | 138,006
35096 | KWKB | 1,121,676 | 1,111,629 | 8,670
162115 | KWKS | 39,708 | 39,323 | 307
12522 | KWKT-TV | 1,299,675 | 1,298,478 | 10,127
21162 | KWNB-TV | 91,093 | 89,332 | 697
67347 | KWOG | 512,412 | 505,049 | 3,939
56852 | KWPX-TV | 4,220,008 | 4,148,577 | 32,355
6885 | KWQC-TV | 1,063,507 | 1,054,618 | 8,225
29121 | KWSD | 280,675 | 280,672 | 2,189
53318 | KWSE | 54,471 | 53,400 | 416
71024 | KWSU-TV | 725,554 | 468,295 | 3,652
25382 | KWTV-DT | 1,628,106 | 1,627,198 | 12,691
35903 | KWTX-TV | 2,071,023 | 1,972,365 | 15,382
593 | KWWL | 1,089,498 | 1,078,458 | 8,411
84410 | KWWT | 293,291 | 293,291 | 2,287
14674 | KWYB | 86,495 | 69,598 | 543
10032 | KWYP-DT | 148,473 | 133,470 | 1,041
35920 | KXAN-TV | 2,678,666 | 2,624,648 | 20,470
49330 | KXAS-TV | 6,774,295 | 6,771,827 | 52,813
24287 | KXGN-TV | 14,217 | 13,883 | 108
35954 | KXII | 2,323,974 | 2,264,951 | 17,664
55083 | KXLA | 17,929,100 | 16,794,896 | 130,983
35959 | KXLF-TV | 258,100 | 217,808 | 1,699
53847 | KXLN-DT | 6,085,891 | 6,085,712 | 47,462
35906 | KXLT-TV | 348,025 | 347,296 | 2,709
61978 | KXLY-TV | 772,116 | 740,960 | 5,779
55684 | KXMA-TV | 32,005 | 31,909 | 249
55686 | KXMB-TV | 142,755 | 138,506 | 1,080
55685 | KXMC-TV | 97,569 | 89,483 | 698
55683 | KXMD-TV | 37,962 | 37,917 | 296
47995 | KXNE-TV | 305,839 | 304,682 | 2,376
81593 | KXNW | 602,168 | 597,747 | 4,662
35991 | KXRM-TV | 1,843,363 | 1,500,689 | 11,704
1255 | KXTF | 140,746 | 140,312 | 1,094
25048 | KXTV | 10,759,864 | 7,477,140 | 58,314
35994 | KXTX-TV | 6,721,578 | 6,718,616 | 52,398
62293 | KXVA | 185,478 | 185,276 | 1,445
23277 | KXVO | 1,397,072 | 1,396,085 | 10,888
9781 | KXXV | 1,771,620 | 1,748,287 | 13,635
31870 | KYAZ | 6,038,257 | 6,038,071 | 47,091
29086 | KYIN | 581,748 | 574,691 | 4,482
60384 | KYLE-TV | 323,330 | 323,225 | 2,521
33639 | KYMA-DT | 396,278 | 391,619 | 3,054
47974 | KYNE-TV | 980,094 | 979,887 | 7,642
53820 | KYOU-TV | 651,334 | 640,935 | 4,999
36003 | KYTV | 1,095,904 | 1,083,524 | 8,450
55644 | KYTX | 927,327 | 925,550 | 7,218
13815 | KYUR | 379,943 | 379,027 | 2,956
5237 | KYUS-TV | 12,496 | 12,356 | 96
33752 | KYVE | 301,951 | 259,559 | 2,024
55762 | KYVV-TV | 67,201 | 67,201 | 524
25453 | KYW-TV | 11,212,189 | 11,008,413 | 85,855
69531 | KZJL | 6,037,458 | 6,037,272 | 47,085
69571 | KZJO | 4,147,016 | 4,097,776 | 31,959
61062 | KZSD-TV | 41,207 | 35,825 | 279
33079 | KZTV | 567,635 | 564,464 | 4,402
57292 | WAAY-TV | 1,531,377 | 1,452,612 | 11,329
1328 | WABC-TV | 20,948,273 | 20,560,001 | 160,347
4190 | WABE-TV | 5,308,575 | 5,291,523 | 41,269
43203 | WABG-TV | 393,020 | 392,348 | 3,060
17005 | WABI-TV | 530,773 | 510,729 | 3,983
16820 | WABM | 1,772,367 | 1,742,240 | 13,588
23917 | WABW-TV | 1,097,560 | 1,096,376 | 8,551
19199 | WACH | 1,403,222 | 1,400,385 | 10,922
189358 | WACP | 9,415,263 | 9,301,049 | 72,539
23930 | WACS-TV | 786,536 | 783,207 | 6,108
60018 | WACX | 4,292,829 | 4,288,149 | 33,443
361 | WACY-TV | 946,580 | 946,071 | 7,378
455 | WADL | 4,610,065 | 4,606,521 | 35,926
589 | WAFB | 1,857,882 | 1,857,418 | 14,486
591 | WAFF | 1,527,517 | 1,456,436 | 11,359
70689 | WAGA-TV | 6,000,355 | 5,923,191 | 46,195
48305 | WAGM-TV | 64,721 | 63,331 | 494
37809 | WAGV | 1,614,321 | 1,282,063 | 9,999
706 | WAIQ | 611,733 | 609,794 | 4,756
701 | WAKA | 799,637 | 793,645 | 6,190
4143 | WALA-TV | 1,320,419 | 1,318,127 | 10,280
70713 | WALB | 773,899 | 772,467 | 6,024
60536 | WAMI-DT | 5,449,193 | 5,449,193 | 42,498
70852 | WAND | 1,388,118 | 1,386,074 | 10,810
39270 | WANE-TV | 1,146,442 | 1,146,442 | 8,941
72120 | WANF | 6,027,276 | 5,961,471 | 46,494
52280 | WAOE | 2,963,253 | 2,907,224 | 22,673
64546 | WAOW | 636,957 | 629,068 | 4,906
52073 | WAPA-TV ² ⁷ | 3,759,648 | 2,784,044 | 21,713
49712 | WAPT | 793,621 | 791,620 | 6,174
67792 | WAQP | 2,135,670 | 2,131,399 | 16,623
13206 | WATC-DT | 5,732,204 | 5,705,819 | 44,500
71082 | WATE-TV | 1,874,433 | 1,638,059 | 12,775
22819 | WATL | 5,882,837 | 5,819,099 | 45,383
20287 | WATM-TV | 893,989 | 749,183 | 5,843
11907 | WATN-TV | 1,787,595 | 1,784,560 | 13,918
13989 | WAVE | 1,891,797 | 1,880,563 | 14,667
71127 | WAVY-TV | 2,080,708 | 2,080,691 | 16,227
54938 | WAWD | 579,079 | 579,023 | 4,516
65247 | WAWV-TV | 705,790 | 700,361 | 5,462
12793 | WAXN-TV | 2,677,951 | 2,669,224 | 20,817
65696 | WBAL-TV | 9,743,335 | 9,344,875 | 72,881
74417 | WBAY-TV | 1,226,036 | 1,225,443 | 9,557
71085 | WBBH-TV | 2,017,267 | 2,017,267 | 15,733
65204 | WBBJ-TV | 662,148 | 658,839 | 5,138
9617 | WBBM-TV | 9,914,233 | 9,907,806 | 77,271
9088 | WBBZ-TV | 1,269,256 | 1,260,686 | 9,832
70138 | WBDT | 3,831,757 | 3,819,550 | 29,789
51349 | WBEC-TV | 5,421,355 | 5,421,355 | 42,281
10758 | WBFF | 8,523,983 | 8,381,042 | 65,364
12497 | WBFS-TV | 5,349,613 | 5,349,613 | 41,722
6568 | WBGU-TV | 1,343,816 | 1,343,816 | 10,480
81594 | WBIF | 309,707 | 309,707 | 2,415
84802 | WBIH | 718,439 | 706,994 | 5,514
717 | WBIQ | 1,563,080 | 1,532,266 | 11,950
46984 | WBIR-TV | 1,978,347 | 1,701,857 | 13,273
67048 | WBKB-TV | 136,823 | 130,625 | 1,019
34167 | WBKI | 2,104,090 | 2,085,393 | 16,264
4692 | WBKO | 963,413 | 862,651 | 6,728
76001 | WBKP | 55,655 | 55,305 | 431
68427 | WBMM | 562,284 | 562,123 | 4,384
73692 | WBNA | 1,699,683 | 1,666,248 | 12,995
23337 | WBNG-TV | 1,435,634 | 1,051,932 | 8,204
71217 | WBNS-TV | 2,847,721 | 2,784,795 | 21,719
72958 | WBNX-TV | 3,639,256 | 3,630,531 | 28,315
71218 | WBOC-TV | 813,888 | 813,888 | 6,348
71220 | WBOY-TV | 711,302 | 621,367 | 4,846
60850 | WBPH-TV | 10,613,847 | 9,474,797 | 73,894
7692 | WBPX-TV | 6,833,712 | 6,761,949 | 52,736
5981 | WBRA-TV | 1,726,408 | 1,677,204 | 13,081
71221 | WBRC | 1,884,007 | 1,849,135 | 14,421
71225 | WBRE-TV | 2,879,196 | 2,244,735 | 17,507
38616 | WBRZ-TV | 2,223,336 | 2,222,309 | 17,332
82627 | WBSF | 1,836,543 | 1,832,446 | 14,291
30826 | WBTV | 4,433,795 | 4,296,893 | 33,511
66407 | WBTW | 1,975,457 | 1,959,172 | 15,280
16363 | WBUI | 981,884 | 981,868 | 7,658
59281 | WBUP | 126,472 | 112,603 | 878
60830 | WBUY-TV | 1,569,254 | 1,567,815 | 12,227
72971 | WBXX-TV | 2,142,759 | 1,984,544 | 15,477
25456 | WBZ-TV | 7,960,556 | 7,730,847 | 60,293
63153 | WCAU | 11,269,831 | 11,098,540 | 86,558
363 | WCAV | 1,032,270 | 874,886 | 6,823
46728 | WCAX-TV | 784,748 | 665,685 | 5,192
39659 | WCBB | 964,079 | 910,222 | 7,099
10587 | WCBD-TV | 1,149,489 | 1,149,489 | 8,965
12477 | WCBI-TV | 680,511 | 678,424 | 5,291
9610 | WCBS-TV | 22,087,789 | 21,511,236 | 167,766
49157 | WCCB | 3,642,232 | 3,574,928 | 27,881
9629 | WCCO-TV | 3,862,571 | 3,855,451 | 30,069
14050 | WCCT-TV | 5,818,471 | 5,307,612 | 41,394
69544 | WCCU | 694,550 | 693,317 | 5,407
3001 | WCCV-TV | 3,391,703 | 2,062,994 | 16,089
23937 | WCES-TV | 1,098,868 | 1,097,706 | 8,561
65666 | WCET | 3,123,290 | 3,110,519 | 24,259
46755 | WCFE-TV | 459,417 | 419,756 | 3,274
71280 | WCHS-TV | 1,352,824 | 1,274,766 | 9,942
42124 | WCIA | 834,084 | 833,547 | 6,501
711 | WCIQ | 3,186,320 | 3,016,907 | 23,529
71428 | WCIU-TV | 10,052,136 | 10,049,244 | 78,374
9015 | WCIV | 1,152,800 | 1,152,800 | 8,991
42116 | WCIX | 554,002 | 549,911 | 4,289
16993 | WCJB-TV | 977,492 | 977,492 | 7,623
11125 | WCLF | 4,097,389 | 4,096,624 | 31,950
68007 | WCLJ-TV | 2,305,723 | 2,303,534 | 17,965
50781 | WCMH-TV | 2,756,260 | 2,712,989 | 21,159
9917 | WCML | 233,439 | 224,255 | 1,749
9908 | WCMU-TV | 707,702 | 699,551 | 5,456
9922 | WCMV | 425,499 | 411,288 | 3,208
9913 | WCMW | 106,975 | 104,859 | 818
32326 | WCNC-TV | 3,883,049 | 3,809,706 | 29,712
53734 | WCNY-TV | 1,342,821 | 1,279,429 | 9,978
73642 | WCOV-TV | 889,102 | 884,417 | 6,898
40618 | WCPB | 567,809 | 567,809 | 4,428
59438 | WCPO-TV | 3,330,885 | 3,313,654 | 25,843
10981 | WCPX-TV | 9,753,235 | 9,751,916 | 76,055
71297 | WCSC-TV | 1,028,018 | 1,028,018 | 8,018
39664 | WCSH | 1,755,325 | 1,548,824 | 12,079
69479 | WCTE | 612,760 | 541,314 | 4,222
18334 | WCTI-TV | 1,688,065 | 1,685,638 | 13,146
31590 | WCTV | 1,065,524 | 1,065,464 | 8,310
33081 | WCTX | 7,844,936 | 7,332,431 | 57,186
65684 | WCVB-TV | 7,780,868 | 7,618,496 | 59,417
9987 | WCVE-TV | 1,721,004 | 1,712,249 | 13,354
83304 | WCVI-TV | 50,601 | 50,495 | 394
34204 | WCVN-TV | 2,129,816 | 2,120,349 | 16,537
9989 | WCVW | 1,505,484 | 1,505,330 | 11,740
73042 | WCWF | 1,131,390 | 1,130,818 | 8,819
35385 | WCWG | 3,630,551 | 3,299,114 | 25,730
29712 | WCWJ | 1,661,270 | 1,661,132 | 12,955
73264 | WCWN | 1,909,223 | 1,621,751 | 12,648
2455 | WCYB-TV | 2,363,002 | 2,057,404 | 16,046
11291 | WDAF-TV | 2,539,581 | 2,537,411 | 19,789
21250 | WDAM-TV | 512,594 | 500,343 | 3,902
22129 | WDAY-TV | 339,239 | 338,856 | 2,643
22124 | WDAZ-TV | 151,720 | 151,659 | 1,183
71325 | WDBB | 1,792,728 | 1,762,643 | 13,747
71326 | WDBD | 940,665 | 939,489 | 7,327
71329 | WDBJ | 1,626,017 | 1,435,762 | 11,198
51567 | WDCA | 8,101,358 | 8,049,329 | 62,777
16530 | WDCQ-TV | 1,269,199 | 1,269,199 | 9,898
30576 | WDCW | 8,155,998 | 8,114,847 | 63,288
54385 | WDEF-TV | 1,730,762 | 1,530,403 | 11,936
32851 | WDFX-TV | 271,499 | 270,942 | 2,113
43846 | WDHN | 452,377 | 451,978 | 3,525
71338 | WDIO-DT | 341,506 | 327,469 | 2,554
714 | WDIQ | 663,062 | 620,124 | 4,836
53114 | WDIV-TV | 5,450,318 | 5,450,174 | 42,506
71427 | WDJT-TV | 3,267,652 | 3,256,507 | 25,397
39561 | WDKA | 658,699 | 658,277 | 5,134
64017 | WDKY-TV | 1,204,817 | 1,173,579 | 9,153
67893 | WDLI-TV | 4,147,298 | 4,114,920 | 32,092
72335 | WDPB | 596,888 | 596,888 | 4,655
83740 | WDPM-DT | 1,365,977 | 1,364,744 | 10,644
1283 | WDPN-TV | 11,594,463 | 11,467,616 | 89,436
6476 | WDPX-TV | 6,833,712 | 6,761,949 | 52,736
28476 | WDRB | 2,054,813 | 2,037,086 | 15,887
12171 | WDSC-TV | 3,389,559 | 3,389,559 | 26,435
17726 | WDSE | 330,994 | 316,643 | 2,469
71353 | WDSI-TV | 1,100,302 | 1,042,191 | 8,128
71357 | WDSU | 1,649,083 | 1,649,083 | 12,861
7908 | WDTI | 2,092,242 | 2,091,941 | 16,315
65690 | WDTN | 3,831,757 | 3,819,550 | 29,789
70592 | WDTV | 566,592 | 524,961 | 4,094
25045 | WDVM-TV | 3,074,837 | 2,646,508 | 20,640
4110 | WDWL | 2,638,361 | 1,977,410 | 15,422
49421 | WEAO | 3,960,217 | 3,945,408 | 30,770
71363 | WEAR-TV | 1,520,973 | 1,520,386 | 11,857
7893 | WEAU | 1,006,393 | 971,050 | 7,573
61003 | WEBA-TV | 641,354 | 632,282 | 4,931
19561 | WECN | 2,886,669 | 2,157,288 | 16,825
48666 | WECT | 1,156,807 | 1,156,807 | 9,022
13602 | WEDH | 5,328,800 | 4,724,167 | 36,844
13607 | WEDN | 3,451,170 | 2,643,344 | 20,615
69338 | WEDQ | 5,379,887 | 5,365,612 | 41,846
21808 | WEDU | 5,379,887 | 5,365,612 | 41,846
13594 | WEDW | 5,996,408 | 5,544,708 | 43,243
13595 | WEDY | 5,328,800 | 4,724,167 | 36,844
24801 | WEEK-TV | 752,596 | 752,539 | 5,869
6744 | WEFS | 3,380,743 | 3,380,743 | 26,366
24215 | WEHT | 857,558 | 844,070 | 6,583
721 | WEIQ | 1,055,632 | 1,055,193 | 8,229
18301 | WEIU-TV | 458,480 | 458,416 | 3,575
69271 | WEKW-TV | 1,263,049 | 773,108 | 6,029
60825 | WELF-TV | 1,477,691 | 1,387,044 | 10,818
26602 | WELU | 2,315,163 | 1,721,317 | 13,425
40761 | WEMT | 1,726,085 | 1,186,706 | 9,255
69237 | WENH-TV | 4,500,498 | 4,328,222 | 33,756
71508 | WENY-TV | 656,240 | 517,754 | 4,038
83946 | WEPH | 604,105 | 602,833 | 4,701
81508 | WEPX-TV | 950,012 | 950,012 | 7,409
25738 | WESH | 4,063,973 | 4,053,252 | 31,611
65670 | WETA-TV | 8,315,499 | 8,258,807 | 64,410
69944 | WETK | 670,087 | 558,842 | 4,358
60653 | WETM-TV | 870,206 | 770,731 | 6,011
18252 | WETP-TV | 2,167,383 | 1,888,574 | 14,729
2709 | WEUX | 380,569 | 373,680 | 2,914
72041 | WEVV-TV | 752,417 | 751,094 | 5,858
59441 | WEWS-TV | 4,112,984 | 4,078,299 | 31,807
72052 | WEYI-TV | 3,715,686 | 3,652,991 | 28,490
72054 | WFAA | 6,917,502 | 6,907,616 | 53,872
81669 | WFBD | 817,914 | 817,389 | 6,375
69532 | WFDC-DT | 8,155,998 | 8,114,847 | 63,288
10132 | WFFF-TV | 633,649 | 552,182 | 4,306
25040 | WFFT-TV | 1,095,429 | 1,095,411 | 8,543
11123 | WFGC | 3,018,351 | 3,018,351 | 23,540
6554 | WFGX | 1,493,866 | 1,493,319 | 11,646
13991 | WFIE | 743,079 | 740,909 | 5,778
715 | WFIQ | 546,563 | 544,258 | 4,245
64592 | WFLA-TV | 5,583,544 | 5,576,649 | 43,492
22211 | WFLD | 9,957,301 | 9,954,828 | 77,638
72060 | WFLI-TV | 1,294,209 | 1,189,897 | 9,280
39736 | WFLX | 5,740,086 | 5,740,086 | 44,767
72062 | WFMJ-TV | 4,328,477 | 3,822,691 | 29,813
72064 | WFMY-TV | 4,772,783 | 4,746,167 | 37,015
39884 | WFMZ-TV | 10,613,847 | 9,474,797 | 73,894
83943 | WFNA | 1,391,519 | 1,390,447 | 10,844
47902 | WFOR-TV | 5,398,266 | 5,398,266 | 42,101
11909 | WFOX-TV | 1,603,324 | 1,603,324 | 12,504
40626 | WFPT | 5,829,153 | 5,442,279 | 42,444
21245 | WFPX-TV | 2,637,949 | 2,634,141 | 20,544
25396 | WFQX-TV | 537,340 | 534,314 | 4,167
9635 | WFRV-TV | 1,263,353 | 1,256,376 | 9,798
53115 | WFSB | 4,752,788 | 4,370,519 | 34,086
6093 | WFSG | 364,961 | 364,796 | 2,845
21801 | WFSU-TV | 576,105 | 576,093 | 4,493
11913 | WFTC | 3,787,177 | 3,770,207 | 29,404
64588 | WFTS-TV | 5,236,379 | 5,236,287 | 40,838
16788 | WFTT-TV | 4,523,828 | 4,521,879 | 35,266
72076 | WFTV | 3,882,888 | 3,882,888 | 30,283
70649 | WFTX-TV | 1,758,172 | 1,758,172 | 13,712
60553 | WFTY-DT | 5,678,755 | 5,560,460 | 43,366
25395 | WFUP | 234,863 | 234,436 | 1,828
60555 | WFUT-DT | 20,538,272 | 20,130,459 | 156,997
22108 | WFWA | 1,035,114 | 1,034,862 | 8,071
9054 | WFXB | 1,393,865 | 1,393,510 | 10,868
3228 | WFXG | 1,070,032 | 1,057,760 | 8,249
70815 | WFXL | 793,637 | 785,106 | 6,123
19707 | WFXP | 583,315 | 562,500 | 4,387
24813 | WFXR | 1,426,061 | 1,286,450 | 10,033
6463 | WFXT | 7,494,070 | 7,400,830 | 57,719
22245 | WFXU | 218,273 | 218,273 | 1,702
43424 | WFXV | 702,682 | 612,494 | 4,777
25236 | WFXW | 274,078 | 270,967 | 2,113
41397 | WFYI | 2,389,627 | 2,388,970 | 18,632
53930 | WGAL | 6,287,688 | 5,610,833 | 43,759
2708 | WGBA-TV | 1,170,375 | 1,170,127 | 9,126
24314 | WGBC | 249,415 | 249,235 | 1,944
72099 | WGBH-TV | 7,711,842 | 7,601,732 | 59,286
12498 | WGBO-DT | 9,828,737 | 9,826,530 | 76,637
11113 | WGBP-TV | 1,820,589 | 1,812,232 | 14,134
72098 | WGBX-TV | 7,803,280 | 7,636,641 | 59,558
72096 | WGBY-TV | 4,470,009 | 3,739,675 | 29,166
62388 | WGCU | 1,510,671 | 1,510,671 | 11,782
54275 | WGEM-TV | 361,598 | 356,682 | 2,782
27387 | WGEN-TV | 43,037 | 43,037 | 336
7727 | WGFL | 877,163 | 877,163 | 6,841
25682 | WGGB-TV | 3,443,386 | 3,053,436 | 23,814
11027 | WGGN-TV | 4,002,841 | 3,981,382 | 31,051
9064 | WGGS-TV | 2,759,326 | 2,705,067 | 21,097
72106 | WGHP | 4,174,964 | 4,123,106 | 32,156
710 | WGIQ | 363,849 | 363,806 | 2,837
12520 | WGMB-TV | 1,742,708 | 1,742,659 | 13,591
25683 | WGME-TV | 1,495,724 | 1,325,465 | 10,337
24618 | WGNM | 742,458 | 741,502 | 5,783
72119 | WGNO | 1,641,765 | 1,641,765 | 12,804
9762 | WGNT | 2,128,079 | 2,127,891 | 16,595
72115 | WGN-TV | 9,983,395 | 9,981,137 | 77,843
40619 | WGPT | 578,294 | 344,300 | 2,685
65074 | WGPX-TV | 2,765,350 | 2,754,743 | 21,484
64547 | WGRZ | 1,878,725 | 1,812,309 | 14,134
63329 | WGTA | 1,061,654 | 1,030,538 | 8,037
66285 | WGTE-TV | 2,210,496 | 2,208,927 | 17,227
59279 | WGTQ | 116,301 | 112,633 | 878
59280 | WGTU | 358,543 | 353,477 | 2,757
23948 | WGTV | 5,989,342 | 5,917,966 | 46,154
7623 | WGTW-TV | 807,797 | 807,797 | 6,300
24783 | WGVK | 2,439,225 | 2,437,526 | 19,010
24784 | WGVU-TV | 1,825,744 | 1,784,264 | 13,915
21536 | WGWG | 986,963 | 986,963 | 7,697
56642 | WGWW | 1,677,166 | 1,647,976 | 12,853
58262 | WGXA | 779,955 | 779,087 | 6,076
73371 | WHAM-TV | 1,381,564 | 1,334,653 | 10,409
32327 | WHAS-TV | 1,955,983 | 1,925,901 | 15,020
6096 | WHA-TV | 1,635,777 | 1,628,950 | 12,704
13950 | WHBF-TV | 1,712,339 | 1,704,072 | 13,290
12521 | WHBQ-TV | 1,736,335 | 1,708,345 | 13,323
10894 | WHBR | 1,302,764 | 1,302,041 | 10,155
65128 | WHDF | 1,553,469 | 1,502,852 | 11,721
72145 | WHDH | 7,441,208 | 7,343,735 | 57,274
83929 | WHDT | 5,768,239 | 5,768,239 | 44,986
70041 | WHEC-TV | 1,322,243 | 1,279,606 | 9,980
67971 | WHFT-TV | 5,417,409 | 5,417,409 | 42,250
41458 | WHIO-TV | 3,877,520 | 3,868,597 | 30,171
713 | WHIQ | 1,278,174 | 1,225,940 | 9,561
61216 | WHIZ-TV | 911,245 | 840,696 | 6,557
65919 | WHKY-TV | 3,358,493 | 3,294,261 | 25,692
18780 | WHLA-TV | 554,446 | 515,561 | 4,021
48668 | WHLT | 484,432 | 483,532 | 3,771
24582 | WHLV-TV | 3,906,201 | 3,906,201 | 30,464
37102 | WHMB-TV | 2,959,585 | 2,889,145 | 22,532
61004 | WHMC | 774,921 | 774,921 | 6,044
36117 | WHME-TV | 1,455,358 | 1,455,110 | 11,348
37106 | WHNO | 1,499,653 | 1,499,653 | 11,696
72300 | WHNS | 2,549,610 | 2,270,868 | 17,710
48693 | WHNT-TV | 1,569,885 | 1,487,578 | 11,602
66221 | WHO-DT | 1,120,480 | 1,099,818 | 8,577
6866 | WHOI | 736,125 | 736,047 | 5,740
72313 | WHP-TV | 4,030,693 | 3,538,096 | 27,594
51980 | WHPX-TV | 5,579,464 | 5,114,336 | 39,887
73036 | WHRM-TV | 535,778 | 532,820 | 4,155
25932 | WHRO-TV | 2,169,238 | 2,169,237 | 16,918
68058 | WHSG-TV | 5,870,314 | 5,808,605 | 45,301
4688 | WHSV-TV | 845,013 | 711,912 | 5,552
9990 | WHTJ | 807,960 | 690,381 | 5,384
72326 | WHTM-TV | 3,211,085 | 2,799,192 | 21,831
11117 | WHTN | 1,914,755 | 1,905,733 | 14,863
27772 | WHUT-TV | 7,953,119 | 7,915,675 | 61,734
18793 | WHWC-TV | 1,123,941 | 1,091,281 | 8,511
72338 | WHYY-TV | 10,448,829 | 10,049,700 | 78,378
5360 | WIAT | 1,868,854 | 1,830,924 | 14,279
63160 | WIBW-TV | 1,234,347 | 1,181,009 | 9,211
25684 | WICD | 1,238,332 | 1,237,046 | 9,648
25686 | WICS | 1,101,798 | 1,099,718 | 8,577
24970 | WICU-TV | 740,115 | 683,435 | 5,330
62210 | WICZ-TV | 1,249,974 | 965,416 | 7,529
18410 | WIDP | 2,559,306 | 1,899,768 | 14,816
26025 | WIFS | 1,583,693 | 1,578,870 | 12,314
720 | WIIQ | 353,241 | 347,685 | 2,712
68939 | WILL-TV | 1,178,545 | 1,158,147 | 9,032
6863 | WILX-TV | 3,378,644 | 3,218,221 | 25,099
22093 | WINK-TV | 1,818,122 | 1,818,122 | 14,180
67787 | WINM | 1,001,485 | 971,031 | 7,573
41314 | WINP-TV | 2,935,057 | 2,883,944 | 22,492
3646 | WIPB | 1,965,353 | 1,965,174 | 15,326
48408 | WIPL | 850,656 | 799,165 | 6,233
53863 | WIPM-TV ¹ | 2,280,935 | 1,648,150 | 2,251
53859 | WIPR-TV ¹ | 3,596,802 | 2,811,148 | 21,924
10253 | WIPX-TV | 2,305,723 | 2,303,534 | 17,965
39887 | WIRS ¹² | 1,091,825 | 757,978 | 4,676
71336 | WIRT-DT | 127,001 | 126,300 | 985
13990 | WIS | 2,644,715 | 2,600,887 | 20,284
65143 | WISC-TV | 1,734,112 | 1,697,537 | 13,239
13960 | WISE-TV | 1,070,155 | 1,070,155 | 8,346
39269 | WISH-TV | 2,912,963 | 2,855,253 | 22,268
65680 | WISN-TV | 3,003,636 | 2,997,695 | 23,379
73083 | WITF-TV | 2,412,561 | 2,191,501 | 17,092
73107 | WITI | 3,111,641 | 3,102,097 | 24,193
594 | WITN-TV | 1,861,458 | 1,836,905 | 14,326
61005 | WITV | 871,783 | 871,783 | 6,799
7780 | WIVB-TV | 1,900,503 | 1,820,106 | 14,195
11260 | WIVT | 855,138 | 613,934 | 4,788
60571 | WIWN | 3,338,845 | 3,323,941 | 25,923
62207 | WIYC | 639,641 | 637,499 | 4,972
73120 | WJAC-TV | 2,219,529 | 1,897,986 | 14,802
10259 | WJAL | 8,750,706 | 8,446,074 | 65,871
50780 | WJAR | 7,108,180 | 6,976,099 | 54,407
35576 | WJAX-TV | 1,630,782 | 1,630,782 | 12,718
27140 | WJBF | 1,601,088 | 1,588,444 | 12,388
73123 | WJBK | 5,748,623 | 5,711,224 | 44,542
37174 | WJCL | 938,086 | 938,086 | 7,316
73130 | WJCT | 1,618,817 | 1,617,292 | 12,613
29719 | WJEB-TV | 1,607,603 | 1,607,603 | 12,538
65749 | WJET-TV | 747,431 | 717,721 | 5,598
7651 | WJFB | 2,310,517 | 2,302,217 | 17,955
49699 | WJFW-TV | 277,530 | 268,295 | 2,092
73136 | WJHG-TV | 864,121 | 859,823 | 6,706
57826 | WJHL-TV | 2,034,663 | 1,462,129 | 11,403
68519 | WJKT | 655,780 | 655,373 | 5,111
1051 | WJLA-TV | 8,750,706 | 8,447,643 | 65,883
86537 | WJLP | 21,384,080 | 21,119,164 | 164,708
9630 | WJMN-TV | 160,991 | 154,424 | 1,204
61008 | WJPM-TV | 623,939 | 623,787 | 4,865
58340 | WJPX ⁶ ¹⁰ ¹² | 3,254,481 | 2,500,195 | 19,499
21735 | WJRT-TV | 2,788,684 | 2,543,446 | 19,836
23918 | WJSP-TV | 4,225,860 | 4,188,428 | 32,666
41210 | WJTC | 1,381,529 | 1,379,283 | 10,757
48667 | WJTV | 987,206 | 980,717 | 7,649
73150 | WJW | 3,977,148 | 3,905,325 | 30,458
61007 | WJWJ-TV | 1,034,555 | 1,034,555 | 8,068
58342 | WJWN-TV ⁶ | 2,063,156 | 1,461,497 | 4,676
53116 | WJXT | 1,622,616 | 1,622,616 | 12,655
11893 | WJXX | 1,618,191 | 1,617,272 | 12,613
32334 | WJYS | 9,667,341 | 9,667,317 | 75,395
25455 | WJZ-TV | 9,743,335 | 9,350,346 | 72,923
73152 | WJZY | 4,432,745 | 4,301,117 | 33,544
64983 | WKAQ-TV ³ | 3,697,088 | 2,731,588 | 2,628
6104 | WKAR-TV | 1,693,373 | 1,689,830 | 13,179
34171 | WKAS | 542,308 | 512,994 | 4,001
51570 | WKBD-TV | 5,065,617 | 5,065,350 | 39,505
73153 | WKBN-TV | 4,898,622 | 4,535,576 | 35,373
13929 | WKBS-TV | 1,082,894 | 937,847 | 7,314
74424 | WKBT-DT | 866,325 | 824,795 | 6,433
54176 | WKBW-TV | 2,247,191 | 2,161,366 | 16,856
53465 | WKCF | 4,241,181 | 4,240,354 | 33,071
73155 | WKEF | 3,730,595 | 3,716,127 | 28,982
34177 | WKGB-TV | 413,268 | 411,587 | 3,210
34196 | WKHA | 511,281 | 400,721 | 3,125
34207 | WKLE | 856,237 | 846,630 | 6,603
34212 | WKMA-TV | 524,617 | 524,035 | 4,087
71293 | WKMG-TV | 3,817,673 | 3,817,673 | 29,774
34195 | WKMJ-TV | 1,477,906 | 1,470,645 | 11,470
34202 | WKMR | 463,316 | 428,462 | 3,342
34174 | WKMU | 344,430 | 344,050 | 2,683
42061 | WKNO | 1,645,867 | 1,642,092 | 12,807
83931 | WKNX-TV | 1,684,178 | 1,459,493 | 11,383
34205 | WKOH | 584,645 | 579,258 | 4,518
67869 | WKOI-TV | 3,831,757 | 3,819,550 | 29,789
34211 | WKON | 1,080,274 | 1,072,320 | 8,363
18267 | WKOP-TV | 1,555,654 | 1,382,098 | 10,779
64545 | WKOW | 1,918,224 | 1,899,746 | 14,816
21432 | WKPC-TV | 1,525,919 | 1,517,701 | 11,837
65758 | WKPD | 283,454 | 282,250 | 2,201
34200 | WKPI-TV | 606,666 | 481,220 | 3,753
27504 | WKPT-TV | 1,131,213 | 887,806 | 6,924
58341 | WKPV ¹⁰ | 1,132,932 | 731,199 | 4,676
11289 | WKRC-TV | 3,281,914 | 3,229,223 | 25,185
73187 | WKRG-TV | 1,526,600 | 1,526,075 | 11,902
73188 | WKRN-TV | 2,409,767 | 2,388,588 | 18,629
34222 | WKSO-TV | 658,441 | 642,090 | 5,008
40902 | WKTC | 1,387,229 | 1,386,779 | 10,815
60654 | WKTV | 1,573,503 | 1,342,387 | 10,469
73195 | WKYC | 4,180,327 | 4,124,135 | 32,164
24914 | WKYT-TV | 1,174,615 | 1,156,978 | 9,023
71861 | WKYU-TV | 411,448 | 409,310 | 3,192
34181 | WKZT-TV | 1,044,532 | 1,020,878 | 7,962
18819 | WLAE-TV | 1,397,967 | 1,397,967 | 10,903
36533 | WLAJ | 4,100,475 | 4,063,963 | 31,695
2710 | WLAX | 469,017 | 447,381 | 3,489
68542 | WLBT | 948,671 | 947,857 | 7,392
39644 | WLBZ | 373,129 | 364,346 | 2,842
69328 | WLED-TV | 332,718 | 174,998 | 1,365
63046 | WLEF-TV | 200,517 | 199,188 | 1,553
73203 | WLEX-TV | 969,481 | 964,735 | 7,524
37806 | WLFB | 798,916 | 688,519 | 5,370
37808 | WLFG | 1,614,321 | 1,282,063 | 9,999
73204 | WLFI-TV | 2,243,009 | 2,221,313 | 17,324
73205 | WLFL | 3,747,583 | 3,743,960 | 29,199
19777 | WLII-DT ⁴ ⁸ | 2,801,102 | 2,153,564 | 16,796
37503 | WLIO | 1,067,232 | 1,050,170 | 8,190
38336 | WLIW | 20,027,920 | 19,717,729 | 153,779
27696 | WLJC-TV | 1,401,072 | 1,281,256 | 9,993
71645 | WLJT-DT | 385,493 | 385,380 | 3,006
53939 | WLKY | 1,927,997 | 1,919,810 | 14,973
11033 | WLLA | 2,081,693 | 2,081,436 | 16,233
1222 | WLMA | 1,646,714 | 1,644,206 | 12,823
17076 | WLMB | 2,754,484 | 2,747,490 | 21,428
68518 | WLMT | 1,736,552 | 1,733,496 | 13,520
22591 | WLNE-TV | 6,429,522 | 6,381,825 | 49,772
74420 | WLNS-TV | 4,100,475 | 4,063,963 | 31,695
73206 | WLNY-TV | 7,501,199 | 7,415,578 | 57,834
84253 | WLOO | 913,960 | 912,674 | 7,118
56537 | WLOS | 3,086,751 | 2,544,410 | 19,844
37732 | WLOV-TV | 609,526 | 607,780 | 4,740
13995 | WLOX | 1,182,149 | 1,170,659 | 9,130
38586 | WLPB-TV | 1,219,624 | 1,219,407 | 9,510
73189 | WLPX-TV | 1,066,912 | 1,022,543 | 7,975
66358 | WLRN-TV | 5,447,399 | 5,447,399 | 42,484
73226 | WLS-TV | 10,174,464 | 10,170,757 | 79,322
73230 | WLTV-DT | 5,427,398 | 5,427,398 | 42,328
37176 | WLTX | 1,580,677 | 1,578,645 | 12,312
37179 | WLTZ | 689,521 | 685,358 | 5,345
21259 | WLUC-TV | 92,246 | 85,393 | 666
4150 | WLUK-TV | 1,187,616 | 1,186,861 | 9,256
73238 | WLVI | 7,441,208 | 7,343,735 | 57,274
36989 | WLVT-TV | 10,613,847 | 9,474,797 | 73,894
3978 | WLWC | 3,281,532 | 3,150,875 | 24,574
46979 | WLWT | 3,367,381 | 3,355,009 | 26,166
54452 | WLXI | 4,184,851 | 4,166,318 | 32,493
55350 | WLYH | 3,211,085 | 2,799,192 | 21,831
43192 | WMAB-TV | 405,483 | 399,560 | 3,116
43170 | WMAE-TV | 686,076 | 653,173 | 5,094
43197 | WMAH-TV | 1,257,393 | 1,256,995 | 9,803
43176 | WMAO-TV | 369,696 | 369,343 | 2,881
47905 | WMAQ-TV | 9,914,395 | 9,913,272 | 77,314
59442 | WMAR-TV | 9,198,495 | 9,072,076 | 70,753
43184 | WMAU-TV | 642,328 | 636,504 | 4,964
43193 | WMAV-TV | 1,008,339 | 1,008,208 | 7,863
43169 | WMAW-TV | 726,173 | 715,450 | 5,580
46991 | WMAZ-TV | 1,185,678 | 1,136,616 | 8,864
66398 | WMBB | 935,027 | 914,607 | 7,133
43952 | WMBC-TV | 18,706,132 | 18,458,331 | 143,957
42121 | WMBD-TV | 742,729 | 742,660 | 5,792
83969 | WMBF-TV | 445,363 | 445,363 | 3,473
60829 | WMCF-TV | 612,942 | 609,635 | 4,755
9739 | WMCN-TV | 10,448,829 | 10,049,700 | 78,378
19184 | WMC-TV | 2,047,403 | 2,043,125 | 15,934
189357 | WMDE | 6,384,827 | 6,257,910 | 48,805
73255 | WMDN | 278,227 | 278,018 | 2,168
16455 | WMDT | 731,868 | 731,868 | 5,708
39656 | WMEA-TV | 902,755 | 853,857 | 6,659
39648 | WMEB-TV | 511,761 | 494,574 | 3,857
70537 | WMEC | 218,027 | 217,839 | 1,699
39649 | WMED-TV | 30,488 | 29,577 | 231
39662 | WMEM-TV | 71,700 | 69,981 | 546
41893 | WMFD-TV | 1,561,367 | 1,324,244 | 10,328
41436 | WMFP | 5,792,048 | 5,564,295 | 43,396
61111 | WMGM-TV | 807,797 | 807,797 | 6,300
43847 | WMGT-TV | 601,894 | 601,309 | 4,690
73263 | WMHT | 1,719,949 | 1,550,977 | 12,096
68545 | WMLW-TV | 1,843,933 | 1,843,663 | 14,379
53819 | WMOR-TV | 5,394,541 | 5,394,541 | 42,072
81503 | WMOW | 121,150 | 105,957 | 826
65944 | WMPB | 7,452,728 | 7,343,061 | 57,269
43168 | WMPN-TV | 856,237 | 854,089 | 6,661
65942 | WMPT | 8,637,742 | 8,584,398 | 66,950
60827 | WMPV-TV | 1,423,052 | 1,422,411 | 11,093
10221 | WMSN-TV | 1,947,942 | 1,927,158 | 15,030
2174 | WMTJ ¹¹ | 3,143,148 | 2,365,308 | 18,447
6870 | WMTV | 1,548,616 | 1,545,459 | 12,053
73288 | WMTW | 1,940,292 | 1,658,816 | 12,937
23935 | WMUM-TV | 925,814 | 920,835 | 7,182
73292 | WMUR-TV | 5,242,334 | 5,057,770 | 39,446
42663 | WMVS | 3,172,534 | 3,112,231 | 24,272
42665 | WMVT | 3,172,534 | 3,112,231 | 24,272
81946 | WMWC-TV | 946,858 | 916,989 | 7,152
56548 | WMYA-TV | 1,650,798 | 1,571,594 | 12,257
74211 | WMYD | 5,750,989 | 5,750,873 | 44,851
20624 | WMYT-TV | 4,432,745 | 4,301,117 | 33,544
25544 | WMYV | 3,901,915 | 3,875,210 | 30,223
73310 | WNAB | 2,176,984 | 2,166,809 | 16,899
73311 | WNAC-TV | 7,310,183 | 6,959,064 | 54,274
47535 | WNBC | 21,952,082 | 21,399,204 | 166,892
83965 | WNBW-DT | 1,400,631 | 1,396,012 | 10,887
72307 | WNCF | 667,683 | 665,950 | 5,194
50782 | WNCN | 3,795,494 | 3,783,131 | 29,505
57838 | WNCT-TV | 1,935,414 | 1,887,929 | 14,724
41674 | WNDU-TV | 1,863,764 | 1,835,398 | 14,314
28462 | WNDY-TV | 2,912,963 | 2,855,253 | 22,268
71928 | WNED-TV | 1,387,961 | 1,370,480 | 10,688
60931 | WNEH | 1,261,482 | 1,255,218 | 9,789
41221 | WNEM-TV | 1,475,094 | 1,471,908 | 11,479
49439 | WNEO | 3,353,869 | 3,271,369 | 25,513
73318 | WNEP-TV | 3,429,213 | 2,838,000 | 22,134
18795 | WNET | 21,113,760 | 20,615,190 | 160,778
51864 | WNEU | 7,135,190 | 7,067,520 | 55,120
23942 | WNGH-TV | 5,744,856 | 5,595,366 | 43,638
67802 | WNIN | 908,275 | 891,946 | 6,956
41671 | WNIT | 1,305,447 | 1,305,447 | 10,181
48457 | WNJB | 20,787,272 | 20,036,393 | 156,264
48477 | WNJN | 20,787,272 | 20,036,393 | 156,264
48481 | WNJS | 7,383,483 | 7,343,269 | 57,270
48465 | WNJT | 7,383,483 | 7,343,269 | 57,270
73333 | WNJU | 21,952,082 | 21,399,204 | 166,892
73336 | WNJX-TV ² | 1,628,732 | 1,170,083 | 2,462
61217 | WNKY | 379,002 | 377,357 | 2,943
71905 | WNLO | 1,900,503 | 1,820,106 | 14,195
4318 | WNMU | 181,736 | 179,662 | 1,401
73344 | WNNE | 792,551 | 676,539 | 5,276
54280 | WNOL-TV | 1,632,389 | 1,632,389 | 12,731
71676 | WNPB-TV | 2,130,047 | 1,941,707 | 15,143
62137 | WNPI-DT | 167,931 | 161,748 | 1,261
41398 | WNPT | 2,266,543 | 2,235,316 | 17,433
28468 | WNPX-TV | 2,084,890 | 2,071,017 | 16,152
61009 | WNSC-TV | 2,431,154 | 2,425,044 | 18,913
61010 | WNTV | 2,419,841 | 2,211,019 | 17,244
16539 | WNTZ-TV | 344,704 | 343,849 | 2,682
7933 | WNUV | 9,098,694 | 8,906,508 | 69,462
9999 | WNVC | 807,960 | 690,381 | 5,384
10019 | WNVT | 1,721,004 | 1,712,249 | 13,354
73354 | WNWO-TV | 2,872,428 | 2,872,250 | 22,401
136751 | WNYA | 1,923,118 | 1,651,777 | 12,882
30303 | WNYB | 1,785,269 | 1,756,096 | 13,696
6048 | WNYE-TV | 19,414,613 | 19,180,858 | 149,592
34329 | WNYI | 1,627,542 | 1,338,811 | 10,441
67784 | WNYO-TV | 1,430,491 | 1,409,756 | 10,995
73363 | WNYT | 1,679,494 | 1,516,775 | 11,829
22206 | WNYW | 20,075,874 | 19,753,060 | 154,054
69618 | WOAI-TV | 2,525,811 | 2,513,887 | 19,606
66804 | WOAY-TV | 581,486 | 443,210 | 3,457
41225 | WOFL | 4,048,104 | 4,043,672 | 31,537
70651 | WOGX | 1,112,408 | 1,112,408 | 8,676
8661 | WOI-DT | 1,173,757 | 1,170,432 | 9,128
39746 | WOIO | 3,821,233 | 3,745,335 | 29,210
71725 | WOLE-DT ⁴ | 1,784,094 | 1,312,984 | 7,379
73375 | WOLF-TV | 2,990,646 | 2,522,858 | 19,676
60963 | WOLO-TV | 2,635,715 | 2,594,980 | 20,238
36838 | WOOD-TV | 2,507,053 | 2,501,084 | 19,506
67602 | WOPX-TV | 3,877,863 | 3,877,805 | 30,243
64865 | WORA-TV ³ ¹³ | 3,594,115 | 2,762,755 | 21,547
73901 | WORO-DT | 3,236,498 | 2,516,588 | 19,627
60357 | WOST | 1,193,381 | 853,762 | 6,658
66185 | WOSU-TV | 2,843,651 | 2,776,901 | 21,657
131 | WOTF-TV | 3,451,383 | 3,451,383 | 26,917
10212 | WOTV | 2,368,797 | 2,368,397 | 18,471
50147 | WOUB-TV | 756,762 | 734,988 | 5,732
50141 | WOUC-TV | 1,713,515 | 1,649,853 | 12,867
23342 | WOWK-TV | 1,159,175 | 1,083,663 | 8,451
65528 | WOWT | 1,380,979 | 1,377,287 | 10,741
31570 | WPAN | 1,254,821 | 1,254,636 | 9,785
51988 | WPBF | 3,190,307 | 3,186,405 | 24,851
21253 | WPBN-TV | 442,005 | 430,953 | 3,361
62136 | WPBS-TV | 338,448 | 301,692 | 2,353
13456 | WPBT | 5,416,604 | 5,416,604 | 42,244
13924 | WPCB-TV | 2,934,614 | 2,800,516 | 21,841
64033 | WPCH-TV | 5,948,778 | 5,874,163 | 45,813
4354 | WPCT | 195,270 | 194,869 | 1,520
69880 | WPCW | 3,393,365 | 3,188,441 | 24,867
17012 | WPDE-TV | 1,772,233 | 1,769,553 | 13,801
52527 | WPEC | 5,764,571 | 5,764,571 | 44,958
84088 | WPFO | 1,329,690 | 1,209,873 | 9,436
54728 | WPGA-TV | 559,495 | 559,025 | 4,360
60820 | WPGD-TV | 2,355,629 | 2,343,715 | 18,279
73875 | WPGH-TV | 3,236,098 | 3,121,767 | 24,347
2942 | WPGX | 425,098 | 422,872 | 3,298
73879 | WPHL-TV | 10,421,216 | 10,246,856 | 79,915
73881 | WPIX | 20,948,273 | 20,501,774 | 159,893
53113 | WPLG | 5,588,748 | 5,588,748 | 43,587
11906 | WPMI-TV | 1,468,001 | 1,467,594 | 11,446
10213 | WPMT | 2,412,561 | 2,191,501 | 17,092
18798 | WPNE-TV | 1,161,295 | 1,160,631 | 9,052
73907 | WPNT | 3,172,170 | 3,064,423 | 23,899
28480 | WPPT | 10,613,847 | 9,474,797 | 73,894
51984 | WPPX-TV | 8,044,823 | 7,839,141 | 61,137
47404 | WPRI-TV | 7,254,721 | 6,990,606 | 54,520
51991 | WPSD-TV | 883,814 | 879,213 | 6,857
12499 | WPSG | 10,798,264 | 10,529,460 | 82,119
66219 | WPSU-TV | 1,055,133 | 868,013 | 6,770
73905 | WPTA | 1,099,180 | 1,099,180 | 8,573
25067 | WPTD | 3,423,417 | 3,411,727 | 26,608
25065 | WPTO | 2,961,254 | 2,951,883 | 23,022
59443 | WPTV-TV | 5,840,102 | 5,840,102 | 45,547
57476 | WPTZ | 792,551 | 676,539 | 5,276
8616 | WPVI-TV | 11,491,587 | 11,302,701 | 88,150
48772 | WPWR-TV | 9,957,301 | 9,954,828 | 77,638
51969 | WPXA-TV | 6,587,205 | 6,458,510 | 50,370
71236 | WPXC-TV | 1,561,014 | 1,561,014 | 12,174
5800 | WPXD-TV | 5,249,447 | 5,249,447 | 40,940
37104 | WPXE-TV | 3,067,071 | 3,057,388 | 23,845
48406 | WPXG-TV | 2,577,848 | 2,512,150 | 19,592
73312 | WPXH-TV | 1,471,601 | 1,451,634 | 11,321
73910 | WPXI | 3,300,896 | 3,197,864 | 24,940
2325 | WPXJ-TV | 2,357,870 | 2,289,706 | 17,857
52628 | WPXK-TV | 1,801,997 | 1,577,806 | 12,305
21729 | WPXL-TV | 1,639,180 | 1,639,180 | 12,784
48608 | WPXM-TV | 5,153,621 | 5,153,621 | 40,193
73356 | WPXN-TV | 20,878,066 | 20,454,468 | 159,524
27290 | WPXP-TV | 5,565,072 | 5,565,072 | 43,402
50063 | WPXQ-TV | 3,281,532 | 3,150,875 | 24,574
70251 | WPXR-TV | 1,375,640 | 1,200,331 | 9,361
40861 | WPXS | 2,339,305 | 2,251,498 | 17,559
53065 | WPXT | 1,002,128 | 952,535 | 7,429
37971 | WPXU-TV | 700,488 | 700,488 | 5,463
67077 | WPXV-TV | 1,919,794 | 1,919,794 | 14,972
74091 | WPXW-TV | 8,075,268 | 8,024,342 | 62,582
21726 | WPXX-TV | 1,562,675 | 1,560,834 | 12,173
73319 | WQAD-TV | 1,101,012 | 1,089,523 | 8,497
65130 | WQCW | 1,307,345 | 1,236,020 | 9,640
71561 | WQEC | 183,969 | 183,690 | 1,433
41315 | WQED | 3,529,305 | 3,426,684 | 26,725
3255 | WQHA | 3,322,840 | 2,368,215 | 18,470
60556 | WQHS-DT | 3,996,567 | 3,952,672 | 30,827
53716 | WQLN | 602,232 | 577,633 | 4,505
52075 | WQMY | 410,269 | 254,586 | 1,986
64550 | WQOW | 369,066 | 358,576 | 2,797
5468 | WQPT-TV | 941,381 | 933,107 | 7,277
64690 | WQPX-TV | 1,644,283 | 1,212,587 | 9,457
52408 | WQRF-TV | 1,375,774 | 1,354,979 | 10,567
2175 | WQTO ¹¹ | 2,864,201 | 1,598,365 | 5,728
8688 | WRAL-TV | 3,852,675 | 3,848,801 | 30,017
10133 | WRAY-TV | 4,184,851 | 4,166,318 | 32,493
64611 | WRAZ | 3,800,594 | 3,797,515 | 29,617
136749 | WRBJ-TV | 1,030,831 | 1,028,010 | 8,017
3359 | WRBL | 1,493,140 | 1,461,459 | 11,398
57221 | WRBU | 2,933,497 | 2,929,776 | 22,849
54940 | WRBW | 4,080,267 | 4,077,341 | 31,799
59137 | WRCB | 1,587,742 | 1,363,582 | 10,635
47904 | WRC-TV | 8,188,601 | 8,146,696 | 63,536
54963 | WRDC | 3,972,477 | 3,966,864 | 30,938
55454 | WRDQ | 3,930,315 | 3,930,315 | 30,653
73937 | WRDW-TV | 1,564,584 | 1,533,682 | 11,961
66174 | WREG-TV | 1,642,307 | 1,638,585 | 12,779
61011 | WRET-TV | 2,419,841 | 2,211,019 | 17,244
73940 | WREX | 2,303,027 | 2,047,951 | 15,972
54443 | WRFB ¹³ | 2,674,527 | 1,975,375 | 2,628
73942 | WRGB | 1,759,432 | 1,550,958 | 12,096
411 | WRGT-TV | 3,451,036 | 3,416,078 | 26,642
74416 | WRIC-TV | 2,059,152 | 1,996,075 | 15,567
61012 | WRJA-TV | 1,204,291 | 1,201,900 | 9,374
412 | WRLH-TV | 2,017,508 | 1,959,111 | 15,279
61013 | WRLK-TV | 1,229,094 | 1,228,616 | 9,582
43870 | WRLM | 3,960,217 | 3,945,408 | 30,770
74156 | WRNN-TV | 19,853,836 | 19,615,370 | 152,980
73964 | WROC-TV | 1,203,412 | 1,185,203 | 9,243
159007 | WRPT | 110,009 | 109,937 | 857
20590 | WRPX-TV | 2,637,949 | 2,634,141 | 20,544
62009 | WRSP-TV | 1,102,162 | 1,100,077 | 8,580
40877 | WRTV | 2,919,683 | 2,895,164 | 22,579
15320 | WRUA | 2,985,428 | 2,224,902 | 17,352
71580 | WRXY-TV | 1,784,000 | 1,784,000 | 13,913
48662 | WSAV-TV | 1,000,315 | 1,000,309 | 7,801
6867 | WSAW-TV | 652,442 | 646,386 | 5,041
36912 | WSAZ-TV | 1,239,187 | 1,168,954 | 9,117
56092 | WSBE-TV | 7,535,710 | 7,266,304 | 56,670
73982 | WSBK-TV | 7,290,901 | 7,225,463 | 56,351
72053 | WSBS-TV | 42,952 | 42,952 | 335
73983 | WSBT-TV | 1,763,215 | 1,752,698 | 13,669
23960 | WSB-TV | 5,897,425 | 5,828,269 | 45,455
69446 | WSCG | 867,516 | 867,490 | 6,766
64971 | WSCV | 5,465,435 | 5,465,435 | 42,625
70536 | WSEC | 538,090 | 536,891 | 4,187
49711 | WSEE-TV | 613,176 | 595,476 | 4,644
21258 | WSES | 1,829,499 | 1,796,561 | 14,011
73988 | WSET-TV | 1,575,886 | 1,340,273 | 10,453
13993 | WSFA | 1,166,744 | 1,132,826 | 8,835
11118 | WSFJ-TV | 1,675,987 | 1,667,150 | 13,002
10203 | WSFL-TV | 5,344,129 | 5,344,129 | 41,679
72871 | WSFX-TV | 970,833 | 970,833 | 7,572
73999 | WSIL-TV | 672,560 | 669,176 | 5,219
4297 | WSIU-TV | 1,019,939 | 937,070 | 7,308
74007 | WSJV | 1,651,178 | 1,644,683 | 12,827
78908 | WSKA | 546,588 | 431,354 | 3,364
74034 | WSKG-TV | 892,402 | 633,163 | 4,938
76324 | WSKY-TV | 1,934,585 | 1,934,519 | 15,087
57840 | WSLS-TV | 1,447,286 | 1,277,753 | 9,965
21737 | WSMH | 2,339,224 | 2,327,660 | 18,153
41232 | WSMV-TV | 2,447,769 | 2,404,766 | 18,755
70119 | WSNS-TV | 9,914,395 | 9,913,272 | 77,314
74070 | WSOC-TV | 3,706,808 | 3,638,832 | 28,379
66391 | WSPA-TV | 3,388,945 | 3,227,025 | 25,168
64352 | WSPX-TV | 1,298,295 | 1,174,763 | 9,162
17611 | WSRE | 1,354,495 | 1,353,634 | 10,557
63867 | WSST-TV | 331,907 | 331,601 | 2,586
60341 | WSTE-DT | 3,723,967 | 3,000,000 | 23,397
21252 | WSTM-TV | 1,455,586 | 1,379,393 | 10,758
11204 | WSTR-TV | 3,297,280 | 3,286,795 | 25,634
19776 | WSUR-DT ⁸ | 3,714,790 | 3,000,000 | 7,379
2370 | WSVI | 50,601 | 50,601 | 395
63840 | WSVN | 5,588,748 | 5,588,748 | 43,587
73374 | WSWB | 1,530,002 | 1,102,316 | 8,597
28155 | WSWG | 381,004 | 380,910 | 2,971
71680 | WSWP-TV | 902,592 | 694,697 | 5,418
74094 | WSYM-TV | 1,568,403 | 1,567,920 | 12,228
73113 | WSYR-TV | 1,329,977 | 1,243,098 | 9,695
40758 | WSYT | 1,970,721 | 1,739,071 | 13,563
56549 | WSYX | 2,635,937 | 2,592,420 | 20,218
65681 | WTAE-TV | 2,995,755 | 2,860,979 | 22,313
23341 | WTAJ-TV | 1,187,718 | 948,598 | 7,398
4685 | WTAP-TV | 512,358 | 494,914 | 3,860
416 | WTAT-TV | 1,111,476 | 1,111,476 | 8,668
67993 | WTBY-TV | 15,858,470 | 15,766,438 | 122,962
29715 | WTCE-TV | 2,620,599 | 2,620,599 | 20,438
65667 | WTCI | 1,216,209 | 1,104,698 | 8,616
67786 | WTCT | 608,457 | 607,620 | 4,739
28954 | WTCV ⁵ ⁹ | 3,254,481 | 2,500,195 | 19,499
74422 | WTEN | 1,902,431 | 1,613,747 | 12,586
9881 | WTGL | 3,707,507 | 3,707,507 | 28,915
27245 | WTGS | 966,519 | 966,357 | 7,537
70655 | WTHI-TV | 978,126 | 928,582 | 7,242
70162 | WTHR | 2,949,339 | 2,901,633 | 22,630
147 | WTIC-TV | 5,318,753 | 4,707,697 | 36,715
26681 | WTIN-TV ⁷ | 3,716,312 | 2,987,150 | 2,462
66536 | WTIU | 1,570,257 | 1,569,135 | 12,238
1002 | WTJP-TV | 1,947,743 | 1,907,300 | 14,875
4593 | WTJR | 334,527 | 334,221 | 2,607
70287 | WTJX-TV | 135,017 | 121,498 | 948
47401 | WTKR | 2,149,376 | 2,149,375 | 16,763
82735 | WTLF | 349,696 | 349,691 | 2,727
23486 | WTLH | 1,065,127 | 1,065,105 | 8,307
67781 | WTLJ | 1,622,365 | 1,621,227 | 12,644
65046 | WTLV | 1,757,600 | 1,739,021 | 13,563
74098 | WTMJ-TV | 3,096,406 | 3,085,983 | 24,068
74109 | WTNH | 7,845,782 | 7,332,431 | 57,186
19200 | WTNZ | 1,699,427 | 1,513,754 | 11,806
590 | WTOC-TV | 993,098 | 992,658 | 7,742
74112 | WTOG | 5,268,364 | 5,267,177 | 41,079
4686 | WTOK-TV | 417,919 | 412,276 | 3,215
13992 | WTOL | 4,487,440 | 4,479,518 | 34,936
21254 | WTOM-TV | 120,369 | 117,121 | 913
74122 | WTOV-TV | 3,892,886 | 3,619,899 | 28,232
82574 | WTPC-TV | 2,049,246 | 2,042,851 | 15,932
86496 | WTPX-TV | 255,972 | 255,791 | 1,995
6869 | WTRF-TV | 2,941,511 | 2,565,375 | 20,007
67798 | WTSF | 922,441 | 851,465 | 6,641
11290 | WTSP | 5,506,869 | 5,489,954 | 42,816
4108 | WTTA | 5,583,544 | 5,576,649 | 43,492
74137 | WTTE | 2,690,341 | 2,650,354 | 20,670
22207 | WTTG | 8,101,358 | 8,049,329 | 62,777
56526 | WTTK | 2,844,384 | 2,825,807 | 22,038
74138 | WTTO | 1,877,570 | 1,844,214 | 14,383
56523 | WTTV | 2,522,077 | 2,518,133 | 19,639
10802 | WTTW | 9,776,348 | 9,776,348 | 76,246
74148 | WTVA | 823,492 | 810,123 | 6,318
22590 | WTVC | 1,579,628 | 1,366,976 | 10,661
8617 | WTVD | 3,790,354 | 3,775,757 | 29,447
55305 | WTVE | 5,156,905 | 5,152,997 | 40,188
36504 | WTVF | 2,384,622 | 2,367,601 | 18,465
74150 | WTVG | 4,405,350 | 4,397,113 | 34,293
74151 | WTVH | 1,390,502 | 1,327,319 | 10,352
10645 | WTVI | 2,856,703 | 2,829,960 | 22,071
63154 | WTVJ | 5,458,451 | 5,458,451 | 42,570
595 | WTVM | 1,498,667 | 1,405,957 | 10,965
72945 | WTVO | 1,409,708 | 1,398,825 | 10,909
28311 | WTVP | 678,884 | 678,539 | 5,292
51597 | WTVQ-DT | 989,786 | 983,552 | 7,671
57832 | WTVR-TV | 1,816,197 | 1,809,035 | 14,109
16817 | WTVS | 5,511,091 | 5,510,837 | 42,979
68569 | WTVT | 5,473,148 | 5,460,179 | 42,584
3661 | WTVW | 839,003 | 834,187 | 6,506
35575 | WTVX | 3,157,609 | 3,157,609 | 24,626
4152 | WTVY | 974,532 | 971,173 | 7,574
40759 | WTVZ-TV | 2,156,534 | 2,156,346 | 16,817
66908 | WTWC-TV | 1,061,101 | 1,061,079 | 8,275
20426 | WTWO | 737,341 | 731,294 | 5,703
81692 | WTWV | 1,527,511 | 1,526,625 | 11,906
51568 | WTXF-TV | 10,784,256 | 10,492,549 | 81,831
41065 | WTXL-TV | 1,054,514 | 1,054,322 | 8,223
8532 | WUAB | 3,821,233 | 3,745,335 | 29,210
12855 | WUCF-TV | 3,707,507 | 3,707,507 | 28,915
36395 | WUCW | 3,664,480 | 3,657,236 | 28,523
69440 | WUFT | 1,372,142 | 1,372,142 | 10,701
413 | WUHF | 1,152,580 | 1,147,972 | 8,953
8156 | WUJA | 2,638,361 | 1,977,410 | 15,422
69080 | WUNC-TV | 4,184,851 | 4,166,318 | 32,493
69292 | WUND-TV | 1,504,532 | 1,504,532 | 11,734
69114 | WUNE-TV | 3,146,865 | 2,625,942 | 20,480
69300 | WUNF-TV | 2,625,583 | 2,331,723 | 18,185
69124 | WUNG-TV | 3,605,143 | 3,588,220 | 27,985
60551 | WUNI | 7,209,571 | 7,084,349 | 55,251
69332 | WUNJ-TV | 1,116,458 | 1,116,458 | 8,707
69149 | WUNK-TV | 1,991,039 | 1,985,696 | 15,486
69360 | WUNL-TV | 3,055,263 | 2,834,274 | 22,105
69444 | WUNM-TV | 1,357,346 | 1,357,346 | 10,586
69397 | WUNP-TV | 1,402,186 | 1,393,524 | 10,868
69416 | WUNU | 1,202,495 | 1,201,481 | 9,370
83822 | WUNW | 1,856,918 | 1,333,273 | 10,398
6900 | WUPA | 5,966,454 | 5,888,379 | 45,923
13938 | WUPL | 1,721,320 | 1,721,320 | 13,425
10897 | WUPV | 1,933,664 | 1,914,643 | 14,932
19190 | WUPW | 2,100,914 | 2,099,572 | 16,375
23128 | WUPX-TV | 1,102,435 | 1,089,118 | 8,494
65593 | WUSA | 8,750,706 | 8,446,074 | 65,871
4301 | WUSI-TV | 339,507 | 339,507 | 2,648
60552 | WUTB | 8,523,983 | 8,381,042 | 65,364
30577 | WUTF-TV | 7,918,927 | 7,709,189 | 60,124
57837 | WUTR | 526,114 | 481,957 | 3,759
415 | WUTV | 1,589,376 | 1,557,474 | 12,147
16517 | WUVC-DT | 3,768,817 | 3,748,841 | 29,237
48813 | WUVG-DT | 6,029,495 | 5,965,975 | 46,529
3072 | WUVN | 1,233,568 | 1,157,140 | 9,025
60560 | WUVP-DT | 10,421,216 | 10,246,856 | 79,915
9971 | WUXP-TV | 2,316,872 | 2,305,293 | 17,979
417 | WVAH-TV | 1,373,555 | 1,295,383 | 10,103
23947 | WVAN-TV | 1,026,862 | 1,025,950 | 8,001
65387 | WVBT | 1,885,169 | 1,885,169 | 14,702
72342 | WVCY-TV | 3,111,641 | 3,102,097 | 24,193
60559 | WVEA-TV | 4,553,004 | 4,552,113 | 35,502
74167 | WVEC | 2,098,679 | 2,092,868 | 16,322
5802 | WVEN-TV | 3,921,016 | 3,919,361 | 30,567
61573 | WVEO ⁵ | 1,091,825 | 757,978 | 4,676
69946 | WVER | 888,756 | 758,441 | 5,915
10976 | WVFX | 711,483 | 618,730 | 4,825
47929 | WVIA-TV | 3,429,213 | 2,838,000 | 22,134
3667 | WVII-TV | 368,022 | 346,874 | 2,705
70309 | WVIR-TV | 1,945,637 | 1,908,395 | 14,884
74170 | WVIT | 5,846,093 | 5,357,639 | 41,784
18753 | WVIZ | 3,695,223 | 3,689,173 | 28,772
70021 | WVLA-TV | 1,897,179 | 1,897,007 | 14,795
81750 | WVLR | 1,412,728 | 1,300,554 | 10,143
35908 | WVLT-TV | 1,888,607 | 1,633,633 | 12,741
74169 | WVNS-TV | 916,451 | 588,963 | 4,593
11259 | WVNY | 742,579 | 659,270 | 5,142
29000 | WVOZ-TV ⁹ | 1,132,932 | 731,199 | 4,676
71657 | WVPB-TV | 992,798 | 959,526 | 7,483
60111 | WVPT | 767,268 | 642,173 | 5,008
70491 | WVPX-TV | 4,147,298 | 4,114,920 | 32,092
66378 | WVPY | 756,696 | 632,649 | 4,934
67190 | WVSN | 2,948,832 | 2,137,333 | 16,669
66943 | WVTA | 760,072 | 579,703 | 4,521
69940 | WVTB | 455,880 | 257,445 | 2,008
74173 | WVTM-TV | 2,009,346 | 1,940,153 | 15,131
74174 | WVTV | 3,091,132 | 3,083,108 | 24,045
77496 | WVUA | 2,209,921 | 2,160,101 | 16,847
4149 | WVUE-DT | 1,658,125 | 1,658,125 | 12,932
4329 | WVUT | 273,293 | 273,215 | 2,131
74176 | WVVA | 1,037,632 | 722,666 | 5,636
3113 | WVXF | 85,191 | 78,556 | 613
12033 | WWAY | 1,208,625 | 1,208,625 | 9,426
30833 | WWBT | 1,924,502 | 1,892,842 | 14,762
20295 | WWCP-TV | 2,811,278 | 2,548,691 | 19,877
24812 | WWCW | 1,390,985 | 1,212,308 | 9,455
23671 | WWDP | 5,792,048 | 5,564,295 | 43,396
21158 | WWHO | 2,762,344 | 2,721,504 | 21,225
14682 | WWJE-DT | 7,209,571 | 7,084,349 | 55,251
72123 | WWJ-TV | 5,562,031 | 5,561,777 | 43,376
166512 | WWJX | 518,866 | 518,846 | 4,046
6868 | WWLP | 3,838,272 | 3,077,800 | 24,004
74192 | WWL-TV | 1,788,624 | 1,788,624 | 13,949
3133 | WWMB | 1,547,974 | 1,544,778 | 12,048
74195 | WWMT | 2,538,485 | 2,531,309 | 19,742
68851 | WWNY-TV | 375,600 | 346,623 | 2,703
74197 | WWOR-TV | 19,853,836 | 19,615,370 | 152,980
65943 | WWPB | 3,197,858 | 2,775,966 | 21,650
23264 | WWPX-TV | 2,299,441 | 2,231,612 | 17,404
68547 | WWRS-TV | 2,324,155 | 2,321,066 | 18,102
61251 | WWSB | 3,340,133 | 3,340,133 | 26,050
23142 | WWSI | 11,269,831 | 11,098,540 | 86,558
16747 | WWTI | 196,531 | 190,097 | 1,483
998 | WWTO-TV | 6,760,133 | 6,760,133 | 52,722
26994 | WWTV | 1,034,174 | 1,022,322 | 7,973
84214 | WWTW | 1,527,511 | 1,526,625 | 11,906
26993 | WWUP-TV | 116,638 | 110,592 | 863
23338 | WXBU | 4,030,693 | 3,538,096 | 27,594
61504 | WXCW | 1,687,947 | 1,687,947 | 13,164
61084 | WXEL-TV | 5,416,604 | 5,416,604 | 42,244
60539 | WXFT-DT | 10,174,464 | 10,170,757 | 79,322
23929 | WXGA-TV | 608,494 | 606,849 | 4,733
51163 | WXIA-TV | 6,179,680 | 6,035,625 | 47,072
53921 | WXII-TV | 3,630,551 | 3,299,114 | 25,730
146 | WXIN | 2,836,532 | 2,814,815 | 21,953
39738 | WXIX-TV | 2,911,054 | 2,900,875 | 22,624
414 | WXLV-TV | 4,364,244 | 4,334,365 | 33,804
68433 | WXMI | 1,988,970 | 1,988,589 | 15,509
64549 | WXOW | 425,378 | 413,264 | 3,223
6601 | WXPX-TV | 4,594,588 | 4,592,639 | 35,818
74215 | WXTV-DT | 20,538,272 | 20,130,459 | 156,997
12472 | WXTX | 699,095 | 694,837 | 5,419
11970 | WXXA-TV | 1,680,670 | 1,537,868 | 11,994
57274 | WXXI-TV | 1,184,860 | 1,168,696 | 9,115
53517 | WXXV-TV | 1,191,123 | 1,189,584 | 9,278
10267 | WXYZ-TV | 5,622,543 | 5,622,140 | 43,847
77515 | WYCI | 35,873 | 26,508 | 207
70149 | WYCW | 3,388,945 | 3,227,025 | 25,168
62219 | WYDC | 560,266 | 449,486 | 3,506
18783 | WYDN | 2,577,848 | 2,512,150 | 19,592
35582 | WYDO | 1,330,728 | 1,330,728 | 10,378
25090 | WYES-TV | 1,872,245 | 1,872,059 | 14,600
53905 | WYFF | 2,626,363 | 2,416,551 | 18,847
49803 | WYIN | 6,956,141 | 6,956,141 | 54,251
24915 | WYMT-TV | 1,180,276 | 863,881 | 6,737
17010 | WYOU | 2,879,196 | 2,226,883 | 17,367
77789 | WYOW | 91,839 | 91,311 | 712
13933 | WYPX-TV | 1,529,500 | 1,413,583 | 11,025
4693 | WYTV | 4,898,622 | 4,535,576 | 35,373
5875 | WYZZ-TV | 1,042,140 | 1,036,721 | 8,085
15507 | WZBJ | 1,626,017 | 1,435,762 | 11,198
28119 | WZDX | 1,596,771 | 1,514,654 | 11,813
70493 | WZME | 5,996,408 | 5,544,708 | 43,243
81448 | WZMQ | 73,423 | 72,945 | 569
71871 | WZPX-TV | 2,039,157 | 2,039,157 | 15,903
136750 | WZRB | 952,279 | 951,693 | 7,422
418 | WZTV | 2,312,658 | 2,301,187 | 17,947
83270 | WZVI | 76,992 | 75,863 | 592
19183 | WZVN-TV | 1,981,488 | 1,981,488 | 15,454
49713 | WZZM | 1,574,546 | 1,548,835 | 12,079
¹ Call signs WIPM and WIPR are stations in Puerto Rico that are linked together with a total fee of $24,175.
² Call signs WNJX and WAPA are stations in Puerto Rico that are linked together with a total fee of $24,175.
³ Call signs WKAQ and WORA are stations in Puerto Rico that are linked together with a total fee of $24,175.
⁴ Call signs WOLE and WLII are stations in Puerto Rico that are linked together with a total fee of $24,175.
⁵ Call signs WVEO and WTCV are stations in Puerto Rico that are linked together with a total fee of $24,175.
⁶ Call signs WJPX and WJWN are stations in Puerto Rico that are linked together with a total fee of $24,175.
⁷ Call signs WAPA and WTIN are stations in Puerto Rico that are linked together with a total fee of $24,175.
⁸ Call signs WSUR and WLII are stations in Puerto Rico that are linked together with a total fee of $24,175.
⁹ Call signs WVOZ and WTCV are stations in Puerto Rico that are linked together with a total fee of $24,175.
¹⁰ Call signs WJPX and WKPV are stations in Puerto Rico that are linked together with a total fee of $24,175.
¹¹ Call signs WMTJ and WQTO are stations in Puerto Rico that are linked together with a total fee of $24,175.
¹² Call signs WIRS and WJPX are stations in Puerto Rico that are linked together with a total fee of $24,175.
¹³ Call signs WRFB and WORA are stations in Puerto Rico that are linked together with a total fee of $24,175.

Table 8—FY 2022 Schedule of Regulatory Fees
[Regulatory fees for the categories shaded in gray are collected by the Commission in advance to cover the term of the license and are submitted at the time the application is filed]
Fee category | Annual regulatory fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) (Includes Non-Geographic telephone numbers) | .14
CMRS Messaging Services (per unit) (47 CFR parts 20, 22, 24 and 90) | .08
Broadband Radio Service (formerly MMDS/MDS) (per license) (47 CFR part 27) | 590
Local Multipoint Distribution Service (per call sign) (47 CFR, part 101) | 590
AM Radio Construction Permits | 655
FM Radio Construction Permits | 1,145
AM and FM Broadcast Radio Station Fees | See Table Below
Digital TV (47 CFR part 73) VHF and UHF Commercial Fee Factor | .008430 See Table 7 fee amounts due, also available at https://www.fcc.gov/licensing-databases/fees/regulatory-fees
Digital TV Construction Permits | 5,200
Low Power TV, Class A TV, TV/FM Translators & FM Boosters (47 CFR part 74) | 330
CARS (47 CFR part 78) | 1,715
Cable Television Systems (per subscriber) (47 CFR part 76), Including IPTV and Direct Broadcast Satellite (DBS) | 1.16
Interstate Telecommunication Service Providers (per revenue dollar) | .00452
Toll Free (per toll free subscriber) (47 CFR section 52.101(f) of the rules) | .12
Earth Stations (47 CFR part 25) | 620
Space Stations (per operational station in geostationary orbit) (47 CFR part 25) also includes DBS Service (per operational station) (47 CFR part 100) | 124,060
Space Stations (per operational system in non-geostationary orbit) (47 CFR part 25) (Other) | 340,005
Space Stations (per operational system in non-geostationary orbit) (47 CFR part 25) (Less Complex) | 141,670
Space Stations (per license/call sign in non-geostationary orbit) (47 CFR part 25) (Small Satellite) | 12,215
International Bearer Circuits—Terrestrial/Satellites (per Gbps circuit) | 39
Submarine Cable Landing Licenses Fee (per cable system) | See Table Below

FY 2022 Radio Station Regulatory Fees
Population served | AM Class A | AM Class B | AM Class C | AM Class D | FM Classes A, B1 & C3 | FM Classes B, C, C0, C1 & C2
<=25,000 | $1,050 | $755 | $655 | $720 | $1,145 | $1,310
25,001-75,000 | 1,575 | 1,135 | 985 | 1,080 | 1,720 | 1,965
75,001-150,000 | 2,365 | 1,700 | 1,475 | 1,620 | 2,575 | 2,950
150,001-500,000 | 3,550 | 2,550 | 2,215 | 2,435 | 3,870 | 4,430
500,001-1,200,000 | 5,315 | 3,820 | 3,315 | 3,645 | 5,795 | 6,630
1,200,001-3,000,000 | 7,980 | 5,740 | 4,980 | 5,470 | 8,700 | 9,955
3,000,001-6,000,000 | 11,960 | 8,600 | 7,460 | 8,200 | 13,040 | 14,920
>6,000,000 | 17,945 | 12,905 | 11,195 | 12,305 | 19,570 | 22,390

FY 2022 International Bearer Circuits—Submarine Cable Systems
Submarine cable systems (capacity as of December 31, 2021) | Fee ratio | FY 2022 regulatory fees
Less than 50 Gbps | .0625 Units | $8,610
50 Gbps or greater, but less than 250 Gbps | .125 Units | 17,215
250 Gbps or greater, but less than 1,500 Gbps | .25 Units | 34,430
1,500 Gbps or greater, but less than 3,500 Gbps | .5 Units | 68,860
3,500 Gbps or greater, but less than 6,500 Gbps | 1.0 Unit | 137,715
6,500 Gbps or greater | 2.0 Units | 275,430

VI. Initial Regulatory Flexibility Analysis

103. As required by the RFA, the Commission prepared this IRFA of the possible significant economic impact on small entities by the policies and rules proposed in the NPRM. Written comments are requested on this IRFA. Comments must be identified as responses to the IRFA and must be filed by the deadline for comments on this NPRM. The Commission will send a copy of the NPRM, including the IRFA and the Supplemental FRFA, to the Chief Counsel for Advocacy of the Small Business Administration (SBA). In addition, the NPRM and IRFA (or summaries thereof) will be published in the Federal Register.

A. Need for, and Objectives of, the Proposed Rules

104. The Commission is required by Congress pursuant to sections 159 of the Communications Act, and the Commission's FY 2023 Appropriations Act to assess and collect regulatory fees each year to recover the regulatory costs associated with the Commission's oversight and regulatory activities in an amount that can reasonably be expected to equal the amount of its annual appropriation. Accordingly for FY 2023, the Commission must recover $390,192,000 in regulatory fees. In the NPRM, we seek comment on the Commission's proposed fee calculation methodology and the regulatory fees for FY 2023 as set forth in Tables 2 and 3. Based on the record in response to the NOI, we specifically seek comment on reassigning certain indirect full time equivalents (FTEs) as direct FTEs based on their time spent primarily working on matters related to the oversight and regulation of regulatory fee payors without regard to the bureau or office in which they work. We also seek comment on several additional regulatory fee issues, including: (i) the calculation of television and radio broadcaster regulatory fees, including a new grid for the AM and FM radio stations; (ii) defining the category of operations for on-orbit servicing (OOS) and rendezvous and proximity operations (RPO) for regulatory fee purposes, including whether a separate regulatory fee category is necessary, and how to apply regulatory fees to OOS and RPO spacecraft specifically operating near the geostationary satellite orbit arc; (iii) evaluating how our proposals may promote or inhibit advances in diversity, equity, inclusion, and accessibility; and (iv) whether to continue in FY 2023 several of the temporary measures we implemented in FYs 2020 through 2022 to assist parties experiencing COVID-19 pandemic-related financial hardship in seeking regulatory fee relief.

B. Legal Basis

105. The proposed action is authorized pursuant to sections 4154(i), and (j), 159, and 303(r) of the Communications Act.

C. Description and Estimate of the Number of Small Entities to Which the Proposed Rules Will Apply

106. The RFA directs agencies to provide a description of, and where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

107. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 32.5 million businesses.

108. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

109. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 5ll governmental jurisdictions.”

110. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

111. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were engaged in the provision of fixed local services. Of these providers, the Commission estimates that 4,737 providers have 1,500 or fewer employees. Consequently, using the SBA's small business size standard, most of these providers can be considered small entities.

112. Local Exchange Carriers (LECs). Neither the Commission nor the SBA has developed a size standard for small businesses specifically applicable to local exchange services. Providers of these services include both incumbent and competitive local exchange service providers. Wired Telecommunications Carriers is the closest industry with a SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were fixed local exchange service providers. Of these providers, the Commission estimates that 4,737 providers have 1,500 or fewer employees. Consequently, using the SBA's small business size standard, most of these providers can be considered small entities.

113. Incumbent Local Exchange Carriers (Incumbent LECs). Neither the Commission nor the SBA have developed a small business size standard specifically for incumbent local exchange carriers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 1,227 providers that reported they were incumbent local exchange service providers. Of these providers, the Commission estimates that 929 providers have 1,500 or fewer employees. Consequently, using the SBA's small business size standard, the Commission estimates that the majority of incumbent local exchange carriers can be considered small entities.

114. Competitive Local Exchange Carriers (LECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 3,956 providers that reported they were competitive local exchange service providers. Of these providers, the Commission estimates that 3,808 providers have 1,500 or fewer employees. Consequently, using the SBA's small business size standard, most of these providers can be considered small entities.

115. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 151 providers that reported they were engaged in the provision of interexchange services. Of these providers, the Commission estimates that 131 providers have 1,500 or fewer employees. Consequently, using the SBA's small business size standard, the Commission estimates that the majority of providers in this industry can be considered small entities.

116. Prepaid Calling Card Providers. Neither the Commission nor the SBA has developed a small business size standard specifically for prepaid calling card providers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 58 providers that reported they were engaged in the provision of payphone services. Of these providers, the Commission estimates that 57 providers have 1,500 or fewer employees. Consequently, using the SBA's small business size standard, most of these providers can be considered small entities.

117. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 293 providers that reported they were engaged in the provision of local resale services. Of these providers, the Commission estimates that 289 providers have 1,500 or fewer employees. Consequently, using the SBA's small business size standard, most of these providers can be considered small entities.

118. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 518 providers that reported they were engaged in the provision of toll services. Of these providers, the Commission estimates that 495 providers have 1,500 or fewer employees. Consequently, using the SBA's small business size standard, most of these providers can be considered small entities.

119. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 115 providers that reported they were engaged in the provision of other toll services. Of these providers, the Commission estimates that 113 providers have 1,500 or fewer employees. Consequently, using the SBA's small business size standard, most of these providers can be considered small entities.

120. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2021 Universal Service Monitoring Report, as of December 31, 2020, there were 797 providers that reported they were engaged in the provision of wireless services. Of these providers, the Commission estimates that 715 providers have 1,500 or fewer employees. Consequently, using the SBA's small business size standard, most of these providers can be considered small entities.

121. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. 2017 U.S. Census Bureau data indicate that 744 firms in this industry operated for the entire year. Of that number, 657 firms had revenue of less than $25,000,000. Based on this data we estimate that the majority of television broadcasters are small entities under the SBA small business size standard.

122. As of December 31, 2022, there were 1375 licensed commercial television stations. Of this total, 1282 stations (or 93.2%) had revenues of $41.5 million or less in 2021, according to Commission staff review of the BIAKelsey Media Access Pro Online Television Database (MAPro) on January 13, 2023, and therefore these licensees qualify as small entities under the SBA definition. In addition, the Commission estimates that as of December 31, 2022, there were 383 licensed NCE television stations, 383 Class A TV stations, 1912 LPTV stations and 3122 TV translator stations. The Commission however does not compile, and otherwise does not have access to financial information for these television broadcast stations that would permit it to determine how many of these stations qualify as small entities under the SBA small business size standard. Nevertheless, given the SBA's large annual receipts threshold for this industry and the nature of television station licensees, we presume that all of these entities qualify as small entities under the above SBA small business size standard.

123. Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

124. The Commission estimates that as of December 31, 2022, there were 4,484 licensed commercial AM radio stations and 6,686 licensed commercial FM radio stations for a combined total of 11,170 commercial radio stations. Of this total, 11,168 stations (or 99.98%) had revenues of $41.5 million or less in 2021, according to Commission staff review of the MAPro on January 13, 2023, and therefore, these licensees qualify as small entities under the SBA definition. In addition, the Commission estimates that as of December 31, 2022, there were 4207 licensed NCE FM radio stations, 2015 low power FM stations and 8950 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

125. Cable Companies and Systems (Rate Regulation). The Commission has developed its own small business size standard for the purpose of cable rate regulation. Under the Commission's rules, a “small cable company” is one serving 400,000 or fewer subscribers nationwide. Based on industry data, there are about 420 cable companies in the United States. Of these, only seven have more than 400,000 subscribers. In addition, under the Commission's rules, a “small system” is a cable system servicing 15,000 or fewer subscribers. Based on industry data, there are about 4139 cable systems (headends) in the United States. Of these, about 639 have more than 15,000 subscribers. Accordingly, the Commission estimates that the majority of cable operators are small.

126. Cable System Operators (Telecom Act Standard). The Communications Act contains a size standard for a “small cable system operator”, which is “a cable operator that, directly or through an affiliate, serves in the aggregate fewer than one percent of all subscribers in the United States and is not affiliated with any entity or entities whose gross annual revenues in the aggregate exceed $250,000,000,” as small. For purposes of the Telecom Act Standard, the Commission determined that a cable systems operation that serves fewer than 677,000 subscribers, either directly or through affiliates, will meet the definition of a small cable operator based on the cable subscriber count established in a 2001 Public Notice. Based on industry data, only six cable system operators have more than 677,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

127. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

128. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

129. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $35 million or less in annual receipts as small. U.S. Census Bureau data for 2017 show that 275 firms in this industry operated for the entire year. Of this number, 242 firms had revenue of less than $25 million. Additionally, based on Commission data in the 2021 Universal Service Monitoring Report, as of December 31, 2020, there were 71 providers that reported they were engaged in the provision of satellite telecommunications services. Of these providers, the Commission estimates that approximately 48 providers have 1,500 or fewer employees. Consequently, using the SBA's small business size standard, a little more than of these providers can be considered small entities.

130. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

131. RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can include non-carrier entities. Accordingly, the description below for RespOrgs include both Carrier RespOrgs and Non-Carrier RespOrgs.

132. Carrier RespOrgs. Neither the Commission nor the SBA have developed a small business size standard for Carrier RespOrgs. Wired Telecommunications Carriers, and Wireless Telecommunications Carriers (except Satellite) are the closest industries with a SBA small business size applicable to Carrier RespOrgs.

133. Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 show that there were 3,054 firms that operated for the entire year. Of this number, 2,964 firms operated with fewer than 250 employees. Based on that data, we conclude that the majority of Carrier RespOrgs that operated with wireline-based technology are small.

134. Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 show that there were 2,893 firms that operated for the entire year. Of this number, 2,837 firms employed fewer than 250 employees. Based on this data, we conclude that the majority of Carrier RespOrgs that operated with wireless-based technology are small.

135. Non-Carrier RespOrgs. Neither the Commission, nor the SBA have developed a small business size standard Non-Carrier RespOrgs. Other Services Related to Advertising and Other Management Consulting Services” are the closest industries with an SBA small business size applicable to Non-Carrier RespOrgs.

136. The Other Services Related to Advertising industry contains establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 show that 5,650 firms operated in this industry for the entire year. Of that number, 3,693 firms operated with revenue of less than $10 million. Based on this data, we conclude that a majority of non-carrier RespOrgs who provide TFN-related management consulting services are small.

137. The Other Management Consulting Services industry contains establishments primarily engaged in providing management consulting services (except administrative and general management consulting; human resources consulting; marketing consulting; or process, physical distribution, and logistics consulting). Establishments providing telecommunications or utilities management consulting services are included in this industry. The SBA small business size standard for this industry classifies a business as small if it has annual receipts of $16.5 million or less. U.S. Census Bureau data for 2017 show that 4,696 firms operated in this industry for the entire year. Of that number, 3,700 firms had revenue of less than $10 million. Based on this data, we conclude that a majority of non-carrier RespOrgs who provide TFN-related management consulting services are small.

D. Description of Projected Reporting, Recordkeeping and Other Compliance Requirements for Small Entities

138. The NPRM does not propose any changes to the Commission's current information collection, reporting, recordkeeping, or compliance requirements for small entities. Small and other regulated entities are required to pay regulatory fees on an annual basis. The cost of compliance with the annual regulatory assessment for small entities is the amount assessed for their regulatory fee category and should not require small entities to hire professionals to comply. Small entities that qualify can take advantage of the exemption from payment of regulatory fees allowed under the de minimis threshold. Small entities may also be able to reduce their costs of compliance if the Commission maintains the flexibility options for regulatory fee payors that the Commission made available in FYs 2020 through 2022 as a result of the COVID-19 pandemic.

E. Steps Taken To Minimize Significant Economic Impact on Small Entities, and Significant Alternatives Considered

139. The RFA requires an agency to describe any significant, specifically business, alternatives that it has considered in reaching its proposed approach, which may include the following four alternatives, among others: “(1) the establishment of differing compliance or reporting requirements or timetables that take into account the resources available to small entities; (2) the clarification, consolidation, or simplification of compliance or reporting requirements under the rule for such small entities; (3) the use of performance, rather than design, standards; and (4) an exemption from coverage of the rule, or any part thereof, for such small entities.”

140. Assessment of Regulatory Fees. In response to the comments to the NOI, for FY 2023 we propose to employ the same methodology to calculate regulatory fees. However, in addition to looking at the current allocation of direct FTEs within the Commission's core bureaus (i.e., the Wireless Telecommunications Bureau, the Media Bureau, part of the Wireline Competition Bureau, and part of the International Bureau) as discussed in the NPRM, we also evaluated the work of certain indirect FTEs in non-core bureaus and offices to determine if, based on the nature of their work spent primarily on regulation and oversight of the industry in a fee category, such indirect FTEs could be considered as direct FTEs in a core bureau for regulatory fee purposes. Based on the results of our evaluation, we propose that certain indirect FTEs could be reassigned as direct FTEs and incorporate these into the count of FTEs of the relevant core bureau for purposes of calculating regulatory fees for FY 2023 which could reduce regulatory fee obligations for some small and other regulatory payees.

141. More specifically, the proposed reassignment of certain indirect FTEs to direct FTEs would result in changes in the percentages of direct FTEs in the core bureaus and a decrease in the regulatory fee assessment amounts and could therefore decrease the regulatory assessment payable by small entities. Using the methodology that does not include the indirect FTE reassignments would result in an increase in the FY 2023 regulatory assessment amounts from FY 2022 for three of the four core bureaus. However, when the indirect FTE reassignments are included in the assessment methodology, half of the core bureaus' FY 2023 regulatory assessment amounts decrease from FY 2022. Our evaluation of the indirect FTE reassignments considered treating the FTEs that were moved to OEA from core bureaus as direct FTEs and determined that some work done by OEA FTEs is work that primarily furthers the oversight and regulation of regulatory fee payors in certain industry segments. Conducting similar analyses of work for all non-core bureaus resulted in the number and indirect FTE percentages we have incorporated in our proposed methodology and regulatory fees for FY 2023.

142. While the Commission's proposed methodology considered assessment calculations with and without indirect FTE reassignments, there could be other alternatives that help minimize the economic impact of the regulatory fees for small entities. Therefore, the NPRM invites alternative proposals or comments suggesting changes to our proposed methodology and regulatory fees for FY 2023. Alternative proposals or modification requests should contain a thorough analysis showing a sufficient basis for making the change, provide alternative options for the Commission to meet it statutory obligation to collect the full amount of the appropriation by the end of the fiscal year, and indicate how any proposed alternative options are fair, administrable, and sustainable.

143. Broadcast Regulatory Fees. In the NPRM, we propose to continue to assess fees for full-power broadcast television stations based on the population covered by a full-service broadcast television station's contour which will reduce the economic impact of the regulatory fees for some small licensees. The population-based methodology increases fees for some licensees and reduces fees for others, However, we believe the population-based metric better conforms with the service of broadcasting television to the American people. The Commission recognizes that many small independent radio broadcasters face hardships due to the COVID-19 pandemic and other issues, such as competition from satellite radio and music streaming services. The ability of these independent stations to stay in business and serve their communities is an important public interest consideration. Therefore, in the NPRM, we propose splitting the lowest population tier into two separate tiers which should reduce the economic impact for small regulators. In addition, small licensees experiencing financial hardship will continue to have access to fee relief, such as waiver, reduction, deferral and/or installment payment of their regulatory fees and may be exempt from paying a regulatory fee if the assessed fee is below the de minimus threshold that the Commission has established.

144. Space Station Regulatory Fees. In Tables 2 and 3 of the NPRM, we include the proposed fees for NGSO space stations calculated by assessing the fees small satellites will pay in FY 2023, reducing that amount from the overall NGSO space stations fee category, and allocating the remaining NGSO space station fees 20/80 using two fee subcategories: “less complex” NGSO space stations and “other” NGSO space stations. For small satellites and small spacecraft (together, small satellites) within the NGSO fee category, we determine that FTEs spend approximately twenty time more time on regulating one non-small NGSO space station than the FTE time spent regulating one small satellite licensee.

145. Consistent with FY 2022, in the NPRM, we propose to continue using the methodology for calculating regulatory fees for small satellites within the NGSO fee category based on 1/20th (5%) of the average of the non-small satellite NGSO space station regulatory fee rates from the current fiscal year on a per license basis. This proposal will minimize the economic impact of the regulatory fees for small satellites. The methodology reflects the significant difference of FTE time attributable to work on small satellite matters, and more equitably apportions the regulatory fees among small and non-small satellite NGSO space stations within the NGSO fee category. The methodology also accommodates fluctuations in the number of NGSO space station fee payors and continues to provide a middle ground and an opportunity to gain more experience in regulating small satellites.

146. Continuing Flexibility in FY 2023 for Regulatory Fee Payors. In FYs 2020, 2021, and 2022, the Commission implemented temporary measures to assist regulatees experiencing financial hardship related to the COVID-19 pandemic in seeking waiver, reduction, deferral and installment payment of their regulatory fees, In the NPRM, we consider and seek comment on whether certain of these measures should be continued in FY 2023, and if so, why. Specifically, we consider and seek comment on whether the Commission should continue (i) to offer a reduced interest and waive the down payment for installment payment of FY 2023 regulatory fees; (ii) its partial waiver of the red light rule to permit delinquent debtors to seek fee relief, conditioned on the debtor's satisfactory resolution of its delinquent debt; and/or (iii) its partial waiver of section 1.1166 of the Commission's regulations to permit regulatees seeking to waive, reduce and/or defer their regulatory fees to submit financial documentation after a request is filed.

147. Providing Installment Payment Relief to Small Regulatory Fee Payors. The NPRM also considers a regulator fee payment alternative suggested by broadcaster groups to reduce the economic impact of regulatory fee payments for small and other entities. Specifically, the broadcaster groups request that the Commission allow regulatees to prepay their annual regulatory fees in increments, before the annual regulatory fee payment deadline. The broadcasters state that this measure would assist broadcasters in meeting their annual regulatory fee obligation. We seek comment on the broadcasters' proposal and answers to the questions we raise in the NPRM regarding implementation and operation of such a program, including the costs and benefits of such a program.

F. Federal Rules That May Duplicate, Overlap, or Conflict With the Proposed Rules

148. None.

VII. Ordering Clauses

149. Accordingly, it is ordered that, pursuant to sections 47 U.S.C. 4(i), 4(j), 9, 9A, and 303(r) of the Communications Act of 1934, as amended, 47 U.S.C. 154(i), 154(j), 159, 159A, and 303(r), this Notice of Proposed Rulemaking is hereby adopted.

Federal Communications Commission.
Marlene Dortch,
Secretary.

[FR Doc. 2023-11109 Filed 5-31-23; 8:45 am]

BILLING CODE 6712-01-P